ENVIRONMENTAL PROTECTION AGENCY

40 CFR Part 81

[EPA-HQ-OAR-2017-0548; FRL-9977-72-OAR]

RIN 2060-AT94

Additional Air Quality Designations for the 2015 Ozone National Ambient Air Quality Standards

AGENCY: Environmental Protection Agency (EPA).

ACTION: Final rule.

SUMMARY: This rule establishes initial air quality designations for certain areas in the United States, including areas of Indian country, for the 2015 primary and secondary national ambient air quality standards (NAAQS) for ozone. On November 6, 2017, the Environmental Protection Agency (EPA) designated about 85 percent of the country as attainment/unclassifiable and three counties as unclassifiable. In this action, the EPA is designating all remaining areas, except for eight counties in the San Antonio, Texas metropolitan area. Areas are being designated as either nonattainment, attainment/unclassifiable, or unclassifiable. Areas designated as nonattainment are also being classified by operation of law according to the severity of their air quality problems. The classification categories are Marginal, Moderate, Serious, Severe, and Extreme. In addition, five nonattainment areas in California are being voluntarily reclassified to a higher classification.

DATE: The effective date of this rule is August 3, 2018.

ADDRESSES: The EPA has established a docket for this action under Docket ID NO. EPA-HQ-OAR-2017-0548. All documents in the docket are listed in the index at http://www.regulations.gov. Although listed in the index, some information is not publicly available, i.e., Confidential Business Information or other information whose disclosure is restricted by statute. Certain other material, such as copyrighted material, is not placed on the internet and will be publicly available only in hard copy form. Publicly available docket materials are available either electronically in the docket or in hard copy at the EPA Docket Center, EPA WJC West Building, Room 3334, 1301 Constitution Avenue NW, Washington, DC. The Public Reading Room is open from 8:30 a.m. to 4:30 p.m., Monday through Friday, excluding legal holidays. The telephone number for the Public Reading Room is (202) 566-1744, and the telephone number for the Office of Air and Radiation Docket and Information Center is (202) 566-1742.

In addition, the EPA has established a website for this rulemaking at https://www.epa.gov/ozone-designations. The website includes the EPA's final designations, as well as designation recommendation letters from states and tribes, the EPA's 120-letters notifying the states whether EPA intends to modify the state's recommendation, technical support documents, responses to comments and other related technical information.

FOR FURTHER INFORMATION CONTACT: Denise Scott, Office of Air Quality Planning and Standards, U.S. Environmental Protection Agency, Mail Code C539-01, Research Triangle Park, NC 27711, phone number (919) 541-4280 or by email at: scott.denise@epa.gov.

Regional Office Contacts

Region I—Richard Burkhart, telephone (617) 918-1664, email at burkhart.richard@epa.gov.

Region II—Omar Hammad, telephone (212) 637-3347, email at hammad.omar@epa.gov.

Region III—Maria Pino, telephone (215) 814-2181, email at pino.maria@epa.gov.

Region IV—Jane Spann, telephone (404) 562-9029, email at spann.jane@epa.gov.

Region V—Kathleen D'Agostino, telephone (312) 886-1767, email at dagostino.kathleen@epa.gov.

Region VI—Carrie Paige, telephone (214) 665-6521, email at paige.carrie@epa.gov.

Region VII—Lachala Kemp. telephone (913) 551-7214, email at kemp.lachala@epa.gov.

Region VIII—Chris Dresser, telephone (303) 312-6385, email at dresser.chris@epa.gov.

Region IX—Ashley Graham, telephone (415) 972-3877, email at graham.ashleyr@epa.gov.

Region X—Karl Pepple, telephone (206) 553-1778, email at pepple.karl@epa.gov.

SUPPLEMENTARY INFORMATION:

The public may inspect the rule and state-specific technical support information at the following locations:

Regional offices | States
Dave Conroy, Chief, Air Programs Branch, EPA New England, 5 Post Office Square, Suite 100, Boston, MA 02109-3912, (617) 918-1661 | Connecticut, Maine, Massachusetts, New Hampshire, Rhode Island, and Vermont.
Richard Ruvo, Chief, Air Programs Branch, EPA Region II, 290 Broadway, 25th Floor, New York, NY 10007-1866, (212) 637-4014 | New Jersey, New York, Puerto Rico, and Virgin Islands.
Maria A. Pino, Acting Associate Director, Office of Air Program Planning, EPA Region III, 1650 Arch Street, Philadelphia, PA 19103- 2187, (215) 814-2181 | Delaware, District of Columbia, Maryland, Pennsylvania, Virginia, and West Virginia.
R. Scott Davis, Chief, Air Planning and Implementation Branch, EPA Region IV, Sam Nunn Atlanta Federal Center, 61 Forsyth, Street, SW, 12th Floor, Atlanta, GA 30303, (404) 562-9127 | Alabama, Florida, Georgia, Kentucky, Mississippi, North Carolina, South Carolina, and Tennessee.
John Mooney, Chief, Air Programs Branch, EPA Region V, 77 West Jackson Street, Chicago, IL 60604, (312) 886-6043 | Illinois, Indiana, Michigan, Minnesota, Ohio, and Wisconsin.
Mary Stanton, Chief, State Implementation Section B, EPA Region VI, 1445 Ross Avenue, Dallas, TX 75202, (214) 665-8377 | Arkansas, Louisiana, New Mexico, Oklahoma, and Texas.
Mike Jay, Chief, Air Programs Branch, EPA Region VII, 11201 Renner Blvd., Lenexa, KS 66129, (913) 551-7460 | Iowa, Kansas, Missouri, and Nebraska.
Monica Morales, Air Program Director, EPA Region VIII, 1595 Wynkoop Street, Denver, CO 80202-1129, (303) 312-6936 | Colorado, Montana, North Dakota, South Dakota, Utah, and Wyoming.
Laura Lawrence, Acting Chief, Air Planning Office, EPA Region IX, 75 Hawthorne Street, San Francisco, CA 94105, (415) 972-3407 | American Samoa, Arizona, California, Guam, Hawaii, Nevada, and Northern Mariana Islands.
Debra Suzuki, Manager, State and Tribal Air Programs, EPA Region X, Office of Air, Waste, and Toxics, Mail Code OAQ-107, 1200 Sixth Avenue, Seattle, WA 98101, (206) 553-0985 | Alaska, Idaho, Oregon, and Washington.

Table of Contents

The following is an outline of the preamble.

I. Preamble Glossary of Terms and Acronyms

II. What is the purpose of this action?

III. What is ozone and how is it formed?

IV. What are the 2015 ozone NAAQS and the health and welfare concerns they address?

V. What are the CAA requirements for air quality designations?

VI. What is the chronology for this designations rule and what guidance did the EPA provide?

VII. What air quality data has the EPA used to designate areas for the 2015 ozone NAAQS?

VIII. What are the ozone air quality classifications?

IX. What action is EPA taking to reclassify five California nonattainment areas?

X. How can states request that an area within 5 percent of the upper or lower limit of a classification threshold be reclassified?

A. Five Percent Reclassifications to a Lower Classification

B. Five Percent Reclassifications to a Higher Classification

C. Timing of the 5 Percent Reclassifications

XI. Determining Rural Transport Areas

XII. How do designations affect Indian country?

XIII. Where can I find information forming the basis for this rule and exchanges between the EPA, states, and tribes related to this rule?

XIV. Environmental Justice Concerns

XV. Statutory and Executive Order Reviews

A. Executive Order 12866: Regulatory Planning and Review and Executive Order 13563: Improving Regulations and Regulatory Review

B. Executive Order 13771: Reducing Regulations and Controlling Regulatory Costs

C. Paperwork Reduction Act

D. Regulatory Flexibility Act

E. Unfunded Mandates Reform Act

F. Executive Order 13132: Federalism

G. Executive Order 13175: Consultation and Coordination With Indian Tribal Governments

H. Executive Order 13045: Protection of Children From Environmental Health and Safety Risks

I. Executive Order 13211: Actions That Significantly Affect Energy Supply, Distribution, or Use

J. National Technology Transfer and Advancement Act (NTTAA)

K. Executive Order 12898: Federal Actions To Address Environmental Justice in Minority Populations and Low-Income Populations

L. Congressional Review Act

M. Judicial Review

I. Preamble Glossary of Terms and Acronyms

The following are abbreviations of terms used in the preamble.

APA Administrative Procedure Act

CAA Clean Air Act

CFR Code of Federal Regulations

DC District of Columbia

EPA Environmental Protection Agency

FR Federal Register

NAAQS National Ambient Air Quality Standards

NOX Nitrogen Oxides

NTTAA National Technology Transfer and Advancement Act

PPM Parts per million

RFA Regulatory Flexibility Act

RTA Rural Transport Area

UMRA Unfunded Mandate Reform Act of 1995

TAR Tribal Authority Rule

U.S. United States

U.S.C. United States Code

VCS Voluntary Consensus Standards

VOC Volatile Organic Compounds

II. What is the purpose of this action?

The purpose of this action is to announce and promulgate initial area designations for certain areas of the country with respect to the 2015 primary and secondary NAAQS for ozone, in accordance with the requirements of Clean Air Act (CAA) section 107(d). The EPA is designating areas as either nonattainment, attainment/unclassifiable, or unclassifiable. In addition, this action announces the classification for nonattainment areas, which occurs by operation of law at the time of designation and is based on the severity of each area's ozone air quality problems. This action also reclassifies five areas in California to a higher classification. The classification categories are Marginal, Moderate, Serious, Severe, and Extreme. The EPA established the air quality thresholds that define the classifications in a separate rule titled, “Implementation of the 2015 National Ambient Air Quality Standards for Ozone: Nonattainment Area Classifications Approach” (Classifications Rule) (83 FR 10376; March 9, 2018).

The list of all areas being designated in this action appear in the regulatory tables included at the end of this final rule. These tables, which will amend 40 CFR part 81, identify the designation and the classification for each nonattainment area.

In this action, the EPA is designating 51 areas as nonattainment. Consistent with the EPA's “Policy for Establishing Separate Air Quality Designations for Areas of Indian Country” (December 20, 2011), the EPA is designating certain lands of the Pechanga Tribe and the Morongo Tribe in Southern California as separate nonattainment areas.¹ Seven of the nonattainment areas are multi-state areas. The EPA is also designating one area as unclassifiable. The EPA is designating all the other areas addressed in this final action, including both state and tribal areas, as attainment/unclassifiable. With this action, the EPA has issued final designations for all areas of the country with the exception of eight counties in the San Antonio, Texas, metropolitan area. The EPA intends to issue final designations for these eight counties by July 17, 2018.

¹ Designation guidance for the 2015 ozone NAAQS is available at https://www.epa.gov/ozone-designations/epa-guidance-area-designations-2015-ozone-naaqs.

The EPA is basing the designations on the most recent 3 years of certified ozone air quality monitoring data and on an evaluation of factors to assess contributions to nonattainment in nearby areas. State areas designated as nonattainment are subject to planning and emission reduction requirements as specified in CAA part D. Requirements vary according to an area's classification. On November 17, 2016, the EPA proposed an implementation rule to assist states in the development of state implementation plans for attaining the ozone standards (81 FR 81276). The EPA expects to finalize this rule as soon as possible after finalizing the nonattainment area designations for the 2015 ozone NAAQS.

III. What is ozone and how is it formed?

Ground-level ozone is a gas that is formed by the reaction of volatile organic compounds (VOCs) and oxides of nitrogen (NOX) in the atmosphere in the presence of sunlight. These precursor emissions are emitted by many types of pollution sources, including power plants and industrial emissions sources, on-road and off-road motor vehicles and engines, and smaller sources, collectively referred to as area sources. Ozone is predominately a summertime air pollutant. However, high ozone concentrations have also been observed in cold months, where a few areas in the Western United States (U.S.) have experienced high levels of local VOC and NOX emissions that have formed ozone when snow is on the ground and temperatures are near or below freezing. Ozone and ozone precursors can be transported to an area from sources in nearby areas or from sources located hundreds of miles away. For purposes of determining ozone nonattainment area boundaries, the CAA requires the EPA to include areas that contribute to nearby violations of the NAAQS.

IV. What are the 2015 ozone NAAQS and the health and welfare concerns they address?

On October 1, 2015, the EPA revised both the primary and secondary NAAQS for ozone to a level of 0.070 parts per million (ppm) (annual fourth-highest daily maximum 8-hour average concentration, averaged over 3 years).² The level of the ozone NAAQS previously set in 2008 is 0.75 ppm. The 2015 ozone NAAQS retain the same general form and averaging time as the 2008 ozone NAAQS.

² See 80 FR 65296; October 26, 2015, for a detailed explanation of the calculation of the 3-year 8-hour average and 40 CFR part 50, Appendix U.

The primary ozone standards provide protection for children, older adults, and people with asthma or other lung diseases, and other at-risk populations against an array of adverse health effects that include reduced lung function, increased respiratory symptoms and pulmonary inflammation; effects that contribute to emergency department visits or hospital admissions; and mortality. The secondary ozone standards protect against adverse effects to the public welfare, including those related to impacts on sensitive vegetation and forested ecosystems.

V. What are the CAA requirements for air quality designations?

When the EPA promulgates a new or revised NAAQS, the EPA is required to designate all areas in the country as nonattainment, attainment, or unclassifiable, pursuant to section 107(d)(1) of the CAA. Section 107(d)(1)(A)(i) of the CAA defines a nonattainment area as, “any area that does not meet (or that contributes to ambient air quality in a nearby area that does not meet) the national primary or secondary ambient air quality standard for the pollutant.” If an area meets either prong of this definition, states should recommend and the EPA is obligated to designate the area as “nonattainment.” CAA section 107(d)(1)(A)(ii) defines an attainment area as any area that does not meet the definition of nonattainment and that meets the NAAQS. CAA section 107(d)(1)(A)(iii) provides that any area that the EPA cannot designate on the basis of available information as meeting or not meeting the standards should be designated as “unclassifiable.” Historically for ozone, the EPA has designated most areas that do not meet the definition of nonattainment as “unclassifiable/attainment.” This category includes areas that have air quality monitoring data meeting the NAAQS and areas that do not have monitors but for which the EPA has no evidence that the areas may be violating the NAAQS or contributing to a nearby violation. In the designations for the 2015 ozone NAAQS, the EPA has reversed the order of the label to be attainment/unclassifiable to better convey the definition of the designation category and so that the category is more easily distinguished from the separate unclassifiable category. In a few instances, based on circumstances where some monitoring data are available but are not sufficient for a determination that an area is or is not attaining the NAAQS, the EPA has designated an area as “unclassifiable.”

Section 107(d)(1)(B) of the CAA requires the EPA to issue initial area designations within 2 years of promulgating a new or revised NAAQS. However, if the Administrator has insufficient information to make these designations within that time frame, the EPA has the authority to extend the deadline for designation decisions by up to 1 additional year.

By not later than 1 year after the promulgation of a new or revised NAAQS, each state governor is required to recommend air quality designations, including the appropriate boundaries for areas, to the EPA. (See CAA section 107(d)(1)(A).) The EPA reviews those state recommendations and is authorized to make any modifications the Administrator deems necessary. The statute does not define the term “necessary,” but the EPA interprets this to authorize the Administrator to modify designation recommendations that are inconsistent with the statutory language, including modification of recommended boundaries for nonattainment areas that are not supported by the facts or analysis. If the EPA intends to modify a state's recommendation, section 107(d)(1)(B) of the CAA requires the EPA to notify the state of any such intended modifications not less than 120 days prior to the EPA's promulgation of the final designation. These notifications are commonly known as the “120-day letters.” If the state does not agree with the EPA's intended modification, the 120-day period provides an opportunity for the state to demonstrate to the EPA why it believes any modification proposed by the EPA is inappropriate. If a state fails to provide any recommendation for an area, in whole or in part, the EPA must promulgate a designation that the Administrator deems appropriate.

The terms “contributes to” and “nearby” in the definition of a nonattainment area are not defined in the statute and the EPA has discretion to interpret these ambiguous terms, based on considerations such as the nature of a specific pollutant, the types of sources that may contribute to violations, the form of the relevant NAAQS, and any other relevant information. The EPA does not interpret the statute to require the agency to establish bright line tests or thresholds for what constitutes “contribution” or “nearby” for purposes of designations.³

³ This view was confirmed in Catawba County v. EPA, 571 F.3d 20 (D.C. Cir. 2009).

Section 301(d) of the CAA authorizes the EPA to approve eligible Indian tribes to implement provisions of the CAA on Indian reservations and other areas within the tribes' jurisdiction. The Tribal Authority Rule (TAR) (40 CFR part 49), which implements section 301(d) of the CAA, sets forth the criteria and process for tribes to apply to the EPA for eligibility to administer CAA programs. The designations process contained in section 107(d) of the CAA is included among those provisions determined to be appropriate by the EPA for treatment of tribes in the same manner as states. Under the TAR, tribes generally are not subject to the same submission schedules imposed by the CAA on states. As authorized by the TAR, tribes may seek eligibility to submit designation recommendations to the EPA.

VI. What is the chronology for this designations rule and what guidance did the EPA provide?

On February 25, 2016, the EPA issued guidance for states and tribal agencies to use for purposes of making designation recommendations as required by CAA section 107(d)(1)(A). (See February 25, 2016, memorandum from Janet G. McCabe, Acting Assistant Administrator, to Regional Administrators, Regions 1-10, titled, “Area Designations for the 2015 Ozone National Ambient Air Quality Standards” (Designations Guidance)). The Designations Guidance provided the anticipated timeline for designations and identified important factors that the EPA recommended states and tribes consider in making their recommendations and that EPA intended to consider in promulgating designations. These factors include air quality data, emissions and emissions-related data, meteorological data, geography/topography, and jurisdictional boundaries. In the Designations Guidance, the EPA asked that states and tribes submit their designation recommendations, including appropriate area boundaries, to the EPA by October 1, 2016. The EPA had previously issued two guidance memoranda related to designating areas of Indian country that also apply for designations for the 2015 ozone NAAQS. (See December 20, 2011, memorandum from Stephen D. Page, Director, Office of Air Quality Planning and Standards, to Regional Air Directors, Regions I-X, titled, “Policy for Establishing Separate Air Quality Designations for Areas of Indian Country,” and December 20, 2011, memorandum from Stephen D. Page, Director, Office of Air Quality Planning and Standards, to Regional Air Directors, Regions I-X, titled, “Guidance to Regions for Working with Tribes during the National Ambient Air Quality Standards (NAAQS) Designations Process.”) In the Designation Guidance, the EPA indicated the agency expected to complete the initial designations for the 2015 ozone NAAQS on a 2-year schedule, by October 1, 2017, consistent with CAA 107(d)(1)(B)(i).

On November 6, 2017, the EPA designated as attainment/unclassifiable 2,646 counties,⁴ including tribal lands within those counties, for which the states recommended a designation of attainment or attainment/unclassifiable. This represents about 85 percent of the counties in the U.S. The EPA also designated a three-county area in Washington as unclassifiable as recommended by the state. Consistent with the EPA's Tribal Designation Guidance, the EPA designated two areas of Indian country (Fond du Lac Band of Lake Superior Chippewa Indians and Forest County Potawatomi Community) as separate attainment/unclassifiable areas.

⁴ Any reference to “counties” in this action also includes non-county administrative or statistical areas that are comparable to counties. Louisiana parishes; the organized boroughs of Alaska; the District of Columbia; and the independent cities of the states of Virginia, Maryland, Missouri, and Nevada are equivalent to counties for administrative purposes. Alaska's Unorganized Borough is divided into 10 census areas that are statistically equivalent to counties. As of 2017, there are currently 3,142 counties and county-equivalents in the U.S.

On December 4, 2017, a coalition of environmental and health organizations filed suit against the Administrator claiming that EPA failed to meet its mandatory obligation to designate all areas of the United States for the 2015 ozone NAAQS by October 1, 2017. American Lung Association, et al. v. Pruitt (N.D. Cal. No. 4:17-cv-06900). A coalition of 15n states also filed a similar suit on December 5, 2017. State of California v. Pruitt (N.D. Cal. No. 4:17-cv-06936). The United States District Court for the Northern District of California heard arguments on plaintiffs' motions for summary judgment in both cases on February 22, 2018. In a March 12, 2018, order, the court granted the motions in part and ordered the EPA “to promulgate final designations for all areas of the country except for the eight undesignated counties composing the San Antonio area no later than April 30, 2018” and “to promulgate final designations for the San Antonio area no later than 127 days from the date of this order.” The designation deadline for eight-county San Antonio area is July 17, 2018.

On or about December 22, 2017, the EPA sent 120-day letters to Governors and tribal leaders notifying them of the EPA's preliminary response to their designation recommendations for all areas of the country not designated in the November 2017 action, with the exception of eight counties in the San Antonio metropolitan area. For the areas addressed in the 120-day letters, the EPA requested that states and tribes submit any additional information that they wanted the EPA to consider in making final designation decisions by February 28, 2018, including any certified 2017 air quality monitoring data.

Although not required by section 107(d)(2)(B) of the CAA, the EPA also provided a 30-day public comment period on the designation recommendations from states and tribes and the EPA's intended designations addressed in the 120-day letters to states and tribes. The EPA announced the public comment period in the Federal Register on January 5, 2018 (83 FR 651). In that notice, the EPA indicated that the agency intended to complete the designations for the areas addressed in the responses to states and tribes by April 30, 2018.

State and tribal recommendations and the EPA's preliminary responses are posted on EPA's website at https://www.epa.gov/ozone-designations and are available in the docket for the designations action. Comments from the states, tribes and the public, and EPA's responses to significant comments, are also available in the docket in the individual technical support documents for specific areas and in a Response to Comments document.

VII. What air quality data has the EPA used to designate areas for the 2015 ozone NAAQS?

The final ozone designations in this action are based primarily on air quality monitoring data from the years 2014-2016, which were the most recent data that states were required to certify at the time the EPA notified the states of its intended modifications to their recommendations. Under 40 CFR 58.16, states are required to report all monitored ozone air quality data and associated quality assurance data within 90 days after the end of each quarterly reporting period, and under 40 CFR part 58.15(a)(2) states are required to submit annual summary reports and a data certification letter to the EPA by May 1 for ozone air quality data collected in the previous calendar year. Thus, at the time of the 120-day letters, the most recent certification obligation was for air quality data from 2016. In the 120-day notification letters to states, the EPA indicated that in order for the EPA to consider air quality data for the period 2015-2017 in the final designation decisions for any area, a state must submit certified, quality assured 2015-2017 air quality monitoring data for the area to the EPA by February 28, 2018. Several states chose to submit early certified air quality data for areas within their states. For those areas, the EPA is basing the final designation decisions on air quality data from 2015-2017.

VIII. What are the ozone air quality classifications?

In accordance with CAA section 181(a)(1), each area designated as nonattainment for the ozone NAAQS is classified by operation of law at the same time as the area is designated by the EPA. Under Subpart 2 of part D of title I of the CAA, state planning and emissions control requirements for ozone are determined, in part, by a nonattainment area's classification. The ozone nonattainment areas are classified based on the severity of their ozone levels (as determined based on the area's “design value,” which represents air quality in the area for the most recent 3 years).⁵ The possible classifications are Marginal, Moderate, Serious, Severe, and Extreme. Nonattainment areas with a “lower” classification have ozone levels that are closer to the standard than areas with a “higher” classification. Areas in the lower classification levels have fewer and/or less stringent mandatory air quality planning and control requirements than those in higher classifications. On March 9, 2018 (83 FR 10376), the EPA published the Classifications Rule that establishes how the statutory classifications will apply for the 2015 ozone NAAQS, including the air quality thresholds for each classification category. Each

nonattainment area's design value, based on the most recent 3 years of certified air quality monitoring data, is used to establish the classification for the area. See Table 1.

⁵ The air quality design value for the 8-hour ozone NAAQS is the 3-year average of the annual 4th highest daily maximum 8-hour average ozone concentration. See 40 CFR part 50, Appendix U.

Table 1—Classification Thresholds for the 2015 Ozone NAAQS
[0.070 ppm]
Nonattainment area classification |  | 8-hour ozone design value (ppm)
Marginal | from | 0.071
| up to * | 0.081
Moderate | from | 0.081
| up to * | 0.093
Serious | from | 0.093
| up to * | 0.105
Severe-15 | from | 0.105
| up to * | 0.111
Severe-17 | from | 0.111
| up to * | 0.163
Extreme | equal to or above | 0.163
* but not including

The regulatory tables included at the end of this action provide the classification for each designated nonattainment area for the 2015 ozone NAAQS based on the design value for the area and the classification thresholds established in the Classification Rule.

IX. What action is EPA taking to reclassify five California nonattainment areas?

The CAA provides states with a mechanism for addressing nonattainment areas that may not be able to attain by the attainment date for their classification. Pursuant to CAA section 181(b)(3), a state may voluntarily request that the EPA reclassify a nonattainment area to a higher classification. The EPA may not deny and must approve any such voluntary reclassification requests. Once an area is reclassified to a higher classification, it becomes subject to the associated additional planning and control requirements for that higher classification, and must attain the standard no later than the maximum attainment date for that classification. Six nonattainment areas in California were granted voluntary reclassifications to a higher classification for both the 1997 and 2008 ozone NAAQS. For the 2008 ozone NAAQS, the EPA proposed to interpret the voluntary reclassification requests for the 1997 ozone NAAQS to also apply for the more stringent 2008 ozone NAAQS, unless the state expressly requested otherwise. As part of the proposal for the Classifications Rule for the 2015 NAAQS, the EPA proposed to again apply previous voluntary reclassifications for potential nonattainment areas in California for the 2015 ozone NAAQS, unless the state of California explicitly requested otherwise in their comments on that proposal (November 17, 2016; 81 FR 81285).⁶ These areas included Los Angeles-South Coast Air Basin, San Joaquin Valley, Riverside County (Coachella Valley), Sacramento Metro, Ventura County and Los Angeles-San Bernardino Counties (Western Mojave) areas. The EPA believes this is an appropriate mechanism to address attainment planning for these California areas that were voluntarily reclassified for the 1997 ozone NAAQS and previously used this mechanism for the 2008 ozone NAAQS. The reclassifications will ensure that these areas will have an attainment date for the 2015 ozone NAAQS that is no earlier than the areas' attainment date for the 2008 ozone NAAQS. The EPA proposed this approach in order to minimize the burden on the state of California to separately initiate the voluntary reclassification process again. Areas for which California declined voluntary reclassification would be classified at the time of designation for the 2015 ozone NAAQS based on the most recent 3 years of certified air quality monitoring data. In response to EPA's proposal, California declined reclassification only for the Sacramento Metro area.

⁶ Proposed rule, “Implementation of the 2015 National Ambient Air Quality Standards for Ozone: Nonattainment Area Classifications and State Implementation Plan Requirements.”

Consistent with the comments received from the state of California on the November 2016 proposal, the EPA is applying previous voluntary reclassifications for five of the six California areas originally proposed. The following areas are voluntarily reclassified to a higher classification for the 2015 ozone NAAQS: Ventura County, CA—Serious; Riverside County (Coachella Valley), CA—Severe-15; Los Angeles-San Bernardino Counties (West Mojave Desert), CA—Severe-15; Los Angeles-South Coast Air Basin, CA—Extreme; and San Joaquin Valley, CA—Extreme. These classifications are reflected in the tables at the end of this final rule.

X. How can states request that an area within 5 percent of the upper or lower limit of a classification threshold be reclassified?

Under CAA section 181(a)(4), an ozone nonattainment area may be reclassified to a higher or lower classification (also known as a classification bump up or a bump down) “if an area classified under paragraph (1) (Table 1) would have been classified in another category if the design value in the area were 5 percent greater or 5 percent less than the level on which such classification was based.” That section also states that, “In making such adjustment, the Administrator may consider the number of exceedances of the national primary ambient air quality standard for ozone in the area, the level of pollution transport between the area and other affected areas, including both intrastate and interstate transport, and the mix of sources and air pollutants in the area.”

As noted in the preamble to the rule designating and classifying areas following enactment of the CAA Amendments of 1990, the provisions of section 181(a)(4) grant the Administrator broad discretion in making, or determining not to make, a reclassification. (See 56 FR 56698; November 6, 1991.) In that designation action, the EPA provided criteria to evaluate in determining whether it is appropriate to reclassify a particular area. Because CAA section 181(b)(3) provides that the EPA must grant any state request to reclassify an area to a higher classification, the EPA focused these criteria primarily on how the EPA would assess requests for a lower classification. These criteria are:

Request by state: The EPA does not intend to exercise its authority to reclassify areas on the EPA's own initiative. Rather, the EPA intends to rely on the state to submit a request for a reclassification. A tribe may also submit such a request and, in the case of a multi-state nonattainment area, all affected states must submit the same reclassification request.

Discontinuity: A 5 percent reclassification must not result in an illogical or excessive discontinuity relative to surrounding areas. In particular, in light of the area-wide nature of ozone formation, a reclassification should not create a “donut hole” where an area of one classification is surrounded by areas of higher classification.

Attainment: Evidence should be available that the proposed area would be able to attain by the earlier date specified by the lower classification in the case of a reclassification downward.

Emissions reductions: Evidence should be available that the area would be very likely to achieve the appropriate total percent emission reduction necessary in order to attain in the shorter time period for a reclassification downward.

Trends: Near- and long-term trends in emissions and air quality should support a reclassification. Historical air quality data should indicate substantial air quality improvement for a reclassification downward. Growth projections and emission trends should support a reclassification downward. In addition, the EPA will consider whether vehicle miles traveled and other indicators of emissions are increasing at higher than normal rates.

Years of data: The same years of ozone air quality data used for the initial designation and classification should be used for reclassification requests.

For ozone areas designated in 1991, the EPA approved reclassifications when the area met the first requirement (a request by the state to EPA) and at least some of the other criteria, and did not violate any of the criteria (emissions reductions, trends, etc.). The EPA established the same method and criteria for the purpose of evaluating any reclassification requests under CAA section 181(a)(4) for the 1997 and 2008 ozone NAAQS. The EPA intends to continue to use this same approach for purposes of evaluating any requests for a reclassification for the 2015 ozone NAAQS. For reclassifications downwards, states may only request a reclassification to the next lower classification, and air quality data from prior years cannot be used as justification to be reclassified to an even lower classification.

A. Five Percent Reclassifications to a Lower Classification

For an area to be eligible to be reclassified to a lower classification under section 181(a)(4), the area's design value must be within 5 percent of the upper limit for the next lower classification. For example, an area with a Moderate design value of no more than 0.085 ppm would be eligible to request a reclassification to Marginal because 0.085 ppm is 5 percent more than the upper limit of 0.081 ppm for the Marginal classification. Accordingly, areas with the following design values may be eligible to request a reclassification to the next lower classification: Moderate areas with a design value of 0.085 ppm or less; Serious areas with a design value of 0.097 ppm or less; Severe areas with a design value of 0.110 ppm or less; and for Extreme areas with a design value of 0.171 ppm or less.

B. Five Percent Reclassifications to a Higher Classification

An ozone nonattainment area may also be reclassified under section 181(a)(4) to the next higher classification. As with 5 percent reclassifications to a lower classification, the EPA does not intend to exercise its authority to reclassify areas to a higher classification on the EPA's own initiative. Rather, the EPA intends to rely on the state to submit a request for such a reclassification. Under this CAA provision, areas with the following design values are eligible to request a reclassification to the next higher classification: Marginal areas with a design value of 0.076 ppm or more; Moderate areas with a design value of 0.088 ppm or more; and Serious areas with a design value of 0.099 ppm or more. Note, as discussed Section IX of this preamble, under a separate CAA provision, a state may voluntarily request that the EPA reclassify a nonattainment area to a higher classification at any time and the EPA must approve the request.

C. Timing of the Five Percent Reclassifications

A Governor or eligible tribal governing body of any area who wishes to pursue a reclassification should submit all requests and supporting documentation to the EPA Regional Office by July 5, 2018. This relatively short time frame is necessary because CAA section 181(a)(4) only authorizes the Administrator to make such reclassifications within 90 days after the initial classification. The EPA will make its decision by September 4, 2018.

XI. Determining Rural Transport Areas

CAA section 182(h) sets out general criteria for determining whether an area qualifies as a Rural Transport Area (RTA). The statute defines a RTA as an area which is designated nonattainment and neither includes nor is adjacent to any part of a metropolitan statistical area or consolidated metropolitan statistical area as defined at the time of the 1990 CAA amendments. In such cases, the Administrator has discretion to treat the area as a RTA based on a finding that the emissions within the area do not make a significant contribution to the ozone concentrations measured in the area or in other areas. The EPA provided guidance on requesting RTA treatment in the February 25, 2016, memorandum “Area Designations for the 2015 Ozone National Ambient Air Quality Standards.” A RTA, regardless of its nonattainment classification, is treated as meeting the applicable requirements of CAA section 182 (generally relating to submissions required for ozone nonattainment areas) if the area meets the submission requirements of a Marginal area.

Two states requested that the EPA find a nonattainment area in their state to meet the criteria for treatment as a RTA. In a letter dated October 3, 2016, California requested that the EPA make a RTA determination for the Tuscan Buttes nonattainment area. In a letter dated April 20, 2017, Wisconsin requested that the EPA make a RTA determination for the Door County nonattainment area. The EPA has determined that the final nonattainment areas for Tuscan Buttes, California and Door County, Wisconsin, meet the criteria for treatment as RTAs under CAA section 182(h). Documentation supporting these determinations are contained in the final TSDs for California (section 20.0) and Wisconsin (section 3.4), which are available in the public docket for this final action. This determination is reflected in the regulatory tables in 40 CFR part 81 for each state.

XII. How do designations affect Indian country?

All state areas listed in the tables at the end of this document are designated as indicated, and include Indian country geographically located within such areas, except as otherwise noted. Information pertaining to areas of Indian country in these tables is intended for CAA planning purposes only and is not an EPA determination of Indian country land status or any Indian country boundary. The EPA lacks the authority to establish Indian country land status, and is making no determination of Indian country boundaries in the tables. Consistent with the EPA's Tribal Designation Guidance, and at the request of the tribes, the EPA is designating certain lands of the Pechanga Tribe and the Morongo Tribe in Southern California as separate nonattainment areas.⁷ For all other areas, the EPA is designating areas of Indian country along with the adjacent/surrounding state area(s). Where nonattainment areas include both Indian country and state land, coordinated planning will help ensure that the planning decisions made by the states and tribes complement each other and that the nonattainment area makes progress toward attainment and ultimately attains the 2015 ozone NAAQS.

⁷ Designation guidance for the 2015 ozone NAAQS is available at https://www.epa.gov/ozone-designations/epa-guidance-area-designations-2015-ozone-naaqs.

XIII. Where can I find information forming the basis for this rule and exchanges between the EPA, states, and tribes related to this rule?

Information providing the basis for this action is provided in the docket for this rulemaking. The applicable EPA guidance memoranda and copies of correspondence regarding this process between the EPA and the states, tribes, and other parties are available for review at the EPA Docket Center listed above in the addresses section of this document, and on the EPA's ozone designation website at https://www.epa.gov/ozone-designations. State-specific information is available from the EPA Regional Offices at the addresses at the top of this Preamble.

XIV. Environmental Justice Concerns

When the EPA establishes a new or revised NAAQS, the CAA requires the EPA to designate all areas of the U.S. as either nonattainment, attainment, or unclassifiable. This final action addresses designation determinations for the 2015 ozone NAAQS. In addition, nonattainment areas are being classified according to the severity of their ozone air quality problems. Area designations address environmental justice concerns by ensuring that the public is properly informed about the air quality in an area. In locations where air quality does not meet the NAAQS, the CAA requires relevant state authorities to initiate appropriate air quality management actions to ensure that all those residing, working, attending school, or otherwise present in those areas are protected, regardless of minority and economic status.

XV. Statutory and Executive Order Reviews

A. Executive Order 12866: Regulatory Planning and Review and Executive Order 13563: Improving Regulation and Regulatory Review

This action is exempt from review by the Office of Management and Budget because it responds to the CAA requirement to promulgate air quality designations after promulgation of a new or revised NAAQS.

B. Executive Order 13771: Reducing Regulations and Controlling Regulatory Costs

This action is not an Executive Order 13771 regulatory action because actions such as air quality designations after promulgating a new revised NAAQS are exempt from review under Executive Order 12866.

C. Paperwork Reduction Act (PRA)

This action does not impose an information collection burden under the PRA. This action fulfills the non-discretionary duty for the EPA to promulgate air quality designations after promulgation of a new or revised NAAQS and does not contain any information collection activities.

D. Regulatory Flexibility Act (RFA)

This designation action under CAA section 107(d) is not subject to the RFA. The RFA applies only to rules subject to notice-and-comment rulemaking requirements under the APA, 5 U.S.C. 553, or any other statute. Section 107(d)(2)(B) of the CAA explicitly provides that designations are exempt from the notice-and-comment provisions of the APA. In addition, designations under CAA section 107(d) are not among the list of actions that are subject to the notice-and-comment rulemaking requirements of CAA section 307(d).

E. Unfunded Mandates Reform Act (UMRA)

This action does not contain any unfunded mandate as described in UMRA, 2 U.S.C. 1531-1538 and does not significantly or uniquely affect small governments. The action imposes no enforceable duty on any state, local or tribal governments or the private sector.

F. Executive Order 13132: Federalism

This action does not have federalism implications. It will not have substantial direct effects on the states, on the relationship between the national government and the states, or on the distribution of power and responsibilities among the various levels of government. The division of responsibility between the federal government and the states for purposes of implementing the NAAQS is established under the CAA.

G. Executive Order 13175: Consultation and Coordination With Indian Tribal Governments

This action has tribal implications. However, it will neither impose substantial direct compliance costs on federally recognized tribal governments, nor preempt tribal law.

The EPA consulted with tribal officials early in the process of developing this regulation to permit them to have meaningful and timely input into its development. At the beginning of the designations process, letters were sent to all tribes who were expected to be impacted by designations for the 2015 ozone NAAQS. These letters not only informed the tribes of the overall designations process, but also offered the tribes consultation to ensure early communication and coordination. Additionally, letters were sent to potentially affected tribes indicating the EPA's intended designations for their areas of Indian country. To the extent possible, the EPA included the tribes' input into the final decision-making process for designations of their areas of Indian country for the 2015 ozone NAAQS.

H. Executive Order 13045: Protection of Children From Environmental Health and Safety Risks

The EPA interprets Executive Order 13045 as applying to those regulatory actions that concern environmental health or safety risks that the EPA has reason to believe may disproportionately affect children, per the definition of “covered regulatory action” in section 2-202 of the Executive Order. This action is not subject to Executive Order 13045 because it does not establish an environmental standard intended to mitigate health or safety risks.

I. Executive Order 13211: Actions That Significantly Affect Energy Supply, Distribution or Use

This action is not subject to Executive Order 13211 because it is not a significant regulatory action under Executive Order 12866.

J. National Technology Transfer and Advancement Act (NTTAA)

This rulemaking does not involve technical standards.

K. Executive Order 12898: Federal Actions To Address Environmental Justice in Minority Populations and Low-Income Populations

The EPA believes that this action does not have disproportionately high and adverse human health or environmental effects on minority populations, low-income populations and/or indigenous peoples, as specified in Executive Order 12898 (59 FR 7629, February 16, 1994). The documentation for this determination is contained in Section XIII of this preamble, “Environmental Justice Concerns.”

L. Congressional Review Act (CRA)

This action is subject to the CRA, and the EPA will submit a rule report to each House of the Congress and to the Comptroller General of the U.S. This action is not a “major rule” as defined by 5 U.S.C. 804(2).

M. Judicial Review

Section 307(b)(1) of the CAA indicates which Federal Courts of Appeal have venue for petitions for review of final actions by the EPA. This section provides, in part, that petitions for review must be filed in the Court of Appeals for the District of Columbia Circuit for: (i) “any nationally applicable regulations promulgated, or final actions taken, by the Administrator,” or (ii) when such action is locally or regionally applicable, “if such action is based on a determination of nationwide scope or effect and if in taking such action the Administrator finds and publishes that such action is based on such a determination.”

This rule that designates areas for the 2015 ozone NAAQS is “nationally applicable” within the meaning of CAA section 307(b)(1). This rule establishes designations for areas across the U.S. for the 2015 ozone NAAQS. At the core of this rulemaking is the EPA's interpretation of the designation provisions in section 107(d)(1) of the CAA, and its application of that interpretation to areas across the country.

For these reasons, the Administrator also is determining that the final designations are of nationwide scope and effect for the purposes of CAA section 307(b)(1). This is particularly appropriate because, in the report on the 1977 Amendments that revised section 307(b)(1) of the CAA, Congress noted that the Administrator's determination that an action is of “nationwide scope or effect” would be appropriate for any action that has a scope or effect beyond a single judicial circuit. H.R. Rep. No. 95-294 at 323, 324, reprinted in 1977 U.S.C.C.A.N. 1402-03. Here, the scope and effect of this rulemaking extends to numerous judicial circuits since the designations apply to areas across the country. In these circumstances, CAA section 307(b)(1) and its legislative history calls for the Administrator to find the rule to be of “nationwide scope or effect” and for venue to be in the District of Columbia Circuit.

Thus, any petitions for review of these final designations must be filed in the Court of Appeals for the District of Columbia Circuit within 60 days from the date of this final action is published in the Federal Register.

List of Subjects in 40 CFR Part 81

Environmental protection, Air pollution control, National parks, Wilderness areas.

Dated: April 30, 2018
E. Scott Pruitt,
Administrator.

For the reasons set forth in the preamble, 40 CFR part 81 is amended as follows:

PART 81—DESIGNATIONS OF AREAS FOR AIR QUALITY PLANNING PURPOSES

1. The authority citation for part 81 continues to read as follows:

Authority: 42 U.S.C. 7401, et seq.

Subpart C—Section 107 Attainment Status Designations

2. Section 81.302 is amended by revising the table titled “Alaska—2015 8-Hour Ozone NAAQS (Primary and Secondary)” to read as follows:

§ 81.302 Alaska.

* * * * *

Alaska—2015 8-Hour Ozone NAAQS
[Primary and Secondary]
Designated area ¹ | Designation: Date ² | Designation: Type | Classification: Date | Classification: Type
Aleutians East Borough | 1/16/18 | Attainment/Unclassifiable
Aleutians West Census Area | 1/16/18 | Attainment/Unclassifiable
Anchorage Municipality |  | Attainment/Unclassifiable
Bethel Census Area | 1/16/18 | Attainment/Unclassifiable
Bristol Bay Borough | 1/16/18 | Attainment/Unclassifiable
Denali Borough | 1/16/18 | Attainment/Unclassifiable
Dillingham Census Area | 1/16/18 | Attainment/Unclassifiable
Fairbanks North Star Borough | 1/16/18 | Attainment/Unclassifiable
Haines Borough | 1/16/18 | Attainment/Unclassifiable
Hoonah-Angoon Census Area | 1/16/18 | Attainment/Unclassifiable
Juneau City and Borough | 1/16/18 | Attainment/Unclassifiable
Kenai Peninsula Borough | 1/16/18 | Attainment/Unclassifiable
Ketchikan Gateway Borough | 1/16/18 | Attainment/Unclassifiable
Kodiak Island Borough | 1/16/18 | Attainment/Unclassifiable
Kusilvak Census Area | 1/16/18 | Attainment/Unclassifiable
Lake and Peninsula Borough | 1/16/18 | Attainment/Unclassifiable
Matanuska-Susitna Borough |  | Attainment/Unclassifiable
Nome Census Area | 1/16/18 | Attainment/Unclassifiable
North Slope Borough | 1/16/18 | Attainment/Unclassifiable
Northwest Arctic Borough | 1/16/18 | Attainment/Unclassifiable
Petersburg Borough | 1/16/18 | Attainment/Unclassifiable
Prince of Wales-Hyder Census Area | 1/16/18 | Attainment/Unclassifiable
Sitka City and Borough | 1/16/18 | Attainment/Unclassifiable
Skagway Municipality | 1/16/18 | Attainment/Unclassifiable
Southeast Fairbanks Census Area | 1/16/18 | Attainment/Unclassifiable
Valdez-Cordova Census Area | 1/16/18 | Attainment/Unclassifiable
Wrangell City and Borough | 1/16/18 | Attainment/Unclassifiable
Yakutat City and Borough | 1/16/18 | Attainment/Unclassifiable
Yukon-Koyukuk Census Area | 1/16/18 | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

3. Section 81. 303 is amended by revising the table titled “Arizona—2015 8-Hour Ozone NAAQS (Primary and Secondary)” to read as follows:

§ 81.303 Arizona.

* * * * *

Arizona—2015 8-Hour Ozone NAAQS
[Primary and Secondary]
Designated area ¹ | Designation: Date ² | Designation: Type | Classification: Date ² | Classification: Type
Phoenix-Mesa, AZ |  | Nonattainment |  | Marginal.
Gila County (part):
T2N, R12E (except that portion in Maricopa County); T3N, R12E (except that portion in Maricopa County); T4N, R12E (Sections 25 through 29 (except those portions in Maricopa County) and 33 through 36 (except those portions in Maricopa County)).
Maricopa County (part):
T1N, R1E (except that portion in Indian Country); T1N, R2E; T1N, R3E; T1N, R4E (except that portion in Indian Country); T1N, R5E (except that portion in Indian Country); T1N, R6E; T1N, R7E; T1N, R1W; T1N, R2W; T1N, R3W; T1N, R4W; T1N, R5W; T1N, R6W; T1N, R7W; T1N, R8W; T2N, R1E; T2N, R2E; T2N, R3E; T2N, R4E; T2N, R6E (except that portion in Indian Country); T2N, R7E (except that portion in Indian Country); T2N, R8E; T2N, R9E; T2N, R10E; T2N, R11E; T2N, R12E (except that portion in Gila County); T2N, R13E (except that portion in Gila County); T2N, R1W; T2N, R2W; T2N, R3W; T2N, R4W; T2N, R5W; T2N, R6W; T2N, R7W; T2N, R8W; T3N, R1E; T3N, R2E; T3N, R3E; T3N, R4E; T3N, R5E (except that portion in Indian Country); T3N, R6E (except that portion in Indian Country); T3N, R7E (except that portion in Indian Country); T3N, R8E; T3N, R9E; T3N, R10E (except that portion in Gila County); T3N, R11E (except that portion in Gila County); T3N, R12E (except that portion in Gila County); T3N, R1W; T3N, R2W T3N, R3W; T3N, R4W; T3N, R5W; T3N, R6W; T4N, R1E; T4N, R2E; T4N, R3E; T4N, R4E; T4N, R5E; T4N, R6E (except that portion in Indian Country); T4N, R7E (except that portion in Indian Country); T4N, R8E T4N, R9E; T4N, R10E (except that portion in Gila County); T4N, R11E (except that portion in Gila County); T4N, R12E (except that portion in Gila County); T4N, R1W; T4N, R2W; T4N, R3W; T4N, R4W; T4N, R5W; T4N, R6W; T5N, R1E; T5N, R2E; T5N, R3E; T5N, R4E; T5N, R5E; T5N, R6E; T5N, R7E; T5N, R8E; T5N, R9E (except that portion in Gila County); T5N, R10E (except that portion in Gila County); T5N, R1W; T5N, R2W; T5N, R3W; T5N, R4W; T5N, R5W; T6N, R1E (except that portion in Yavapai County); T6N, R2E; T6N, R3E; T6N, R4E; T6N, R5E; T6N, R6E; T6N, R7E; T6N, R8E; T6N, R9E (except that portion in Gila County); T6N, R10E (except that portion in Gila County); T6N, R1W (except that portion in Yavapai County); T6N, R2W; T6N, R3W; T6N, R4W; T6N, R5W; T7N, R1E (except that portion in Yavapai County); T7N, R2E (except that portion in Yavapai County); T7N, R3E; T7N, R4E; T7N, R5E; T7N, R6E; T7N, R7E; T7N, R8E; T7N, R9E (except that portion in Gila County); T7N, R1W (except that portion in Yavapai County); T7N, R2W (except that portion in Yavapai County); T8N, R2E (except that portion in Yavapai County); T8N, R3E (except that portion in Yavapai County); T8N, R4E (except that portion in Yavapai County); T8N, R5E (except that portion in Yavapai County); T8N, R6E (except that portion in Yavapai County); T8N, R7E (except that portion in Yavapai County); T8N, R8E (except that portion in Yavapai and Gila Counties); T8N, R9E (except that portion in Yavapai and Gila Counties); T1S, R1E (except that portion in Indian Country); T1S, R2E (except that portion in Pinal County and in Indian Country); T1S, R3E; T1S, R4E; T1S, R5E; T1S, R6E; T1S, R7E; T1S, R1W; T1S, R2W; T1S, R3W; T1S, R4W; T1S, R5W; T1S, R6W; T2S, R1E (except that portion in Indian Country); T2S, R5E; T2S, R6E; T2S, R7E; T2S, R1W; T2S, R2W; T2S, R3W; T2S, R4W; T2S, R5W; T3S, R1E; T3S, R1W; T3S, R2W; T3S, R3W; T3S, R4W; T3S, R5W; T4S, R1E; T4S, R1W; T4S, R2W; T4S, R3W; T4S, R4W; T4S, R5W; T5S, R4W (Sections 1 through 22 and 27 through 34).
Pinal County (part):
T1N, R8E; T1N, R9E; T1N, R10E; T1S, R8E; T1S, R9E; T1S, R10E; T2S, R8E (Sections 1 through 10, 15 through 22, and 27 through 34); T2S, R9E (Sections 1 through 6); T2S, R10E (Sections 1 through 6); T3S, R7E (Sections 1 through 6, 11 through 14, 23 through 26, and 35 through 36); T3S, R8E (Sections 3 through 10, 15 through 22, and 27 through 34).
Fort McDowell Yavapai Nation:
Gila River Indian Community of the Gila River Indian Reservation, Arizona.
Includes only non-contiguous areas of Indian country known as “parcels M & N”.³
Tohono O'odham Nation of Arizona:
Salt River Pima-Maricopa Indian Community of the Salt River Reservation.
Yuma, AZ |  | Nonattainment |  | Marginal.
Yuma County (part):
That portion within Yuma County of the area described by the following:
1. Bounded on the north and west by the Arizona state line.
2. Bounded on the south by the line of latitude at 32°39′20″ N.
3. Bounded on the east by the line of longitude 114°33′50″ W.
4. And excluding the sections 10, 11, and 12 of township T9S, R23W and any portion in Indian Country.
Cocopah Tribe of Arizona.
Quechan Tribe of the Fort Yuma Indian Reservation.
Gila River Indian Community of the Gila River Indian Reservation, Arizona |  | Attainment/Unclassifiable
Includes the contiguous main body of the reservation, excluding non-contiguous areas of Indian country known as “parcels M & N”.³
Rest of State |  | Attainment/Unclassifiable
Apache County | 1/16/18
Cochise County | 1/16/18
Coconino County.
Gila County (part) remainder.
Graham County.
Greenlee County
La Paz County.
Maricopa County (part) remainder.
Mohave County.
Navajo County.
Pima County.
Pinal County (part) remainder.
Santa Cruz County | 1/16/18
Yavapai County.
Yuma County (part) remainder.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.
³ See Section 3.0 of the EPA's technical support document for Arizona, titled “Arizona Final Area Designations for the 2015 Ozone National Ambient Air Quality Standards Technical Support Document (TSD),” for more information and a map showing the locations of “parcels M & N” (available in Docket ID: EPA-HQ-OAR-2017-0548).

* * * * *

4. Section 81.305 is amended by revising the table titled “California—2015 8-Hour Ozone NAAQS (Primary and Secondary)” to read as follows:

§ 81.305 California.

* * * * *

California—2015 8-Hour Ozone NAAQS
[Primary and Secondary]
Designated area ¹ | Designation: Date ² | Designation: Type | Classification: Date ² | Classification: Type
Amador County, CA |  | Nonattainment |  | Marginal.
Amador County:
Buena Vista Rancheria of Me-Wuk Indians of California.
Jackson Band of Miwuk Indians.
Calaveras County, CA |  | Nonattainment |  | Marginal.
Calaveras County:
California Valley Miwok Tribe.
Butte County, CA |  | Nonattainment |  | Marginal.
Butte County:
Berry Creek Rancheria of Maidu Indians of California.
Enterprise Rancheria of Maidu Indians of California.
Mechoopda Indian Tribe of Chico Rancheria.
Mooretown Rancheria of Maidu Indians of California.
Imperial County, CA |  | Nonattainment |  | Marginal.
Imperial County:
Quechan Tribe of the Fort Yuma Indian Reservation.
Torres Martinez Desert Cahuilla Indians.
Kern County (Eastern Kern), CA |  | Nonattainment |  | Moderate.
Kern County (part):
That portion of Kern County (with the exception of that portion in Hydrologic Unit Number 18090205—the Indian Wells Valley) east and south of a line described as follows: Beginning at the Kern-Los Angeles County boundary and running north and east along the northwest boundary of the Rancho La Liebre Land Grant to the point of intersection with the range line common to Range 16 West and Range 17 West, San Bernardino Base and Meridian; north along the range line to the point of intersection with the Rancho El Tejon Land Grant boundary; then southeast, northeast, and northwest along the boundary of the Rancho El Tejon Grant to the northwest corner of Section 3, Township 11 North, Range 17 West; then west 1.2 miles; then north to the Rancho El Tejon Land Grant boundary; then northwest along the Rancho El Tejon line to the southeast corner of Section 34, Township 32 South, Range 30 East, Mount Diablo Base and Meridian; then north to the northwest corner of Section 35, Township 31 South, Range 30 East; then northeast along the boundary of the Rancho El Tejon Land Grant to the southwest corner of Section 18, Township 31 South, Range 31 East; then east to the southeast corner of Section 13, Township 31 South, Range 31 East; then north along the range line common to Range 31 East and Range 32 East, Mount Diablo Base and Meridian, to the northwest corner of Section 6, Township 29 South, Range 32 East; then east to the southwest corner of Section 31, Township 28 South, Range 32 East; then north along the range line common to Range 31 East and Range 32 East to the northwest corner of Section 6, Township 28 South, Range 32 East, then west to the southeast corner of Section 36, Township 27 South, Range 31 East, then north along the range line common to Range 31 East and Range 32 East to the Kern-Tulare County boundary.
Los Angeles-San Bernardino Counties (West Mojave Desert), CA |  | Nonattainment |  | Severe-15.
Los Angeles County (part):
That portion of Los Angeles County which lies north and east of a line described as follows: Beginning at the Los Angeles-San Bernardino County boundary and running west along the Township line common to Township 3 North and Township 2 North, San Bernardino Base and Meridian; then north along the range line common to Range 8 West and Range 9 West; then west along the Township line common to Township 4 North and Township 3 North; then north along the range line common to Range 12 West and Range 13 West to the southeast corner of Section 12, Township 5 North and Range 13 West; then west along the south boundaries of Sections 12, 11, 10, 9, 8, and 7, Township 5 North and Range 13 West to the boundary of the Angeles National Forest which is collinear with the range line common to Range 13 West and Range 14 West; then north and west along the Angeles National Forest boundary to the point of intersection with the Township line common to Township 7 North and Township 6 North (point is at the northwest corner of Section 4 in Township 6 North and Range 14 West); then west along the Township line common to Township 7 North and Township 6 North; then north along the range line common to Range 15 West and Range 16 West to the southeast corner of Section 13, Township 7 North and Range 16 West; then along the south boundaries of Sections 13, 14, 15, 16, 17, and 18, Township 7 North and Range 16 West; then north along the range line common to Range 16 West and Range 17 West to the north boundary of the Angeles National Forest (collinear with the Township line common to Township 8 North and Township 7 North); then west and north along the Angeles National Forest boundary to the point of intersection with the south boundary of the Rancho La Liebre Land Grant; then west and north along this land grant boundary to the Los Angeles-Kern County boundary.
San Bernardino County (part):
That portion of San Bernardino County which lies north and east of a line described as follows: Beginning at the San Bernardino-Riverside County boundary and running north along the range line common to Range 3 East and Range 2 East, San Bernardino Base and Meridian; then west along the Township line common to Township 3 North and Township 2 North to the San Bernardino-Los Angeles County boundary; and that portion of San Bernardino County which lies south and west of a line described as follows: Latitude 35 degrees, 10 minutes north and longitude 115 degrees, 45 minutes west.
Twenty-Nine Palms Band of Mission Indians of California.
Los Angeles-South Coast Air Basin, CA |  | Nonattainment |  | Extreme.
Los Angeles County (part):
That portion of Los Angeles County which lies south and west of a line described as follows: Beginning at the Los Angeles-San Bernardino County boundary and running west along the Township line common to Township 3 North and Township 2 North San Bernardino Base and Meridian; then north along the range line common to Range 8 West and Range 9 West; then west along the Township line common to Township 4 North and Township 3 North; then north along the range line common to Range 12 West and Range 13 West to the southeast corner of Section 12, Township 5 North and Range 13 West; then west along the south boundaries of Sections 12, 11, 10, 9, 8, and 7, Township 5 North and Range 13 West to the boundary of the Angeles National Forest which is collinear with the range line common to Range 13 West and Range 14 West; then north and west along the Angeles National Forest boundary to the point of intersection with the Township line common to Township 7 North and Township 6 North (point is at the northwest corner of Section 4 in Township 6 North and Range 14 West); then west along the Township line common to Township 7 North and Township 6 North; then north along the range line common to Range 15 West and Range 16 West to the southeast corner of Section 13, Township 7 North and Range 16 West; then along the south boundaries of Sections 13, 14, 15, 16, 17, and 18, Township 7 North and Range 16 West; then north along the range line common to Range 16 West and Range 17 West to the north boundary of the Angeles National Forest (collinear with the Township line common to Township 8 North and Township 7 North); then west and north along the Angeles National Forest boundary to the point of intersection with the south boundary of the Rancho La Liebre Land Grant; then west and north along this land grant boundary to the Los Angeles-Kern County boundary.
Orange County.
Riverside County (part):
That portion of Riverside County which lies to the west of a line described as follows: Beginning at the Riverside-San Diego County boundary and running north along the range line common to Range 4 East and Range 3 East, San Bernardino Base and Meridian; then east along the Township line common to Township 8 South and Township 7 South; then north along the range line common to Range 5 East and Range 4 East; then west along the southern boundaries of Sections 25, 26, and 27, Township 7 South, Range 4 East, then North along the west boundaries of Sections 27, 22, 15, 10, and 3 Township 7 South, Range 4 East, then East along the Township line common to Township 6 South and Township 7 South to the southwest corner of Section 34, Township 6 South, Range 4 East; then north along the west boundaries of Sections 34, 27, 22, 15, 10, and 3, Township 6 South, Range 4 East; then west along the Township line common to Township 5 South and Township 6 South; then north along the range line common to Range 4 East and Range 3 East; then west along the south boundaries of Sections 13, 14, 15, 16, 17, and 18, Township 5 South, Range 3 East; then north along the range line common to Range 2 East and Range 3 East; to the Riverside-San Bernardino County line.
San Bernardino County (part):
That portion of San Bernardino County which lies south and west of a line described as follows: Beginning at the San Bernardino-Riverside County boundary and running north along the range line common to Range 3 East and Range 2 East, San Bernardino Base and Meridian; then west along the Township line common to Township 3 North and Township 2 North to the San Bernardino-Los Angeles County boundary.
Cahuilla Band of Indians.
Pechanga Band of Luiseño Mission Indians of the Pechanga Reservation:
Includes only non-contiguous tribal lands known as the Meadowbrook parcel.³
Ramona Band of Cahuilla.
San Manuel Band of Mission Indians.
Soboba Band of Luiseño Indians.
Mariposa County, CA |  | Nonattainment |  | Marginal.
Mariposa County.
Nevada County (Western part), CA |  | Nonattainment |  | Moderate.
Nevada County (part):
That portion of Nevada County, which lies west of a line, described as follows: Beginning at the Nevada-Placer County boundary and running north along the western boundaries of Sections 24, 13, 12, 1, Township 17 North, Range 14 East, Mount Diablo Base and Meridian, and Sections 36, 25, 24, 13, 12, Township 18 North, Range 14 East to the Nevada-Sierra County boundary.
Riverside County (Coachella Valley), CA |  | Nonattainment |  | Severe-15.
Riverside County (part):
That portion of Riverside County which lies to the east of a line described as follows: Beginning at the Riverside-San Diego County boundary and running north along the range line common to Range 4 East and Range 3 East, San Bernardino Base and Meridian; then east along the Township line common to Township 8 South and Township 7 South; then north along the range line common to Range 5 East and Range 4 East; then west along the Township line common to Township 6 South and Township 7 South to the southwest corner of Section 34, Township 6 South, Range 4 East; then north along the west boundaries of Sections 34, 27, 22, 15, 10, and 3, Township 6 South, Range 4 East; then west along the Township line common to Township 5 South and Township 6 South; then north along the range line common to Range 4 East and Range 3 East; then west along the south boundaries of Sections 13, 14, 15, 16, 17, and 18, Township 5 South, Range 3 East; then north along the range line common to Range 2 East and Range 3 East; to the Riverside-San Bernardino County line. And that portion of Riverside County which lies to the west of a line described as follows: That segment of the southwestern boundary line of hydrologic Unit Number 18100100 within Riverside County.
Agua Caliente Band of Cahuilla Indians of the Agua Caliente Indian Reservation.
Augustine Band of Cahuilla Indians.
Cabazon Band of Mission Indians.
Santa Rosa Band of Cahuilla Indians.
Torres Martinez Desert Cahuilla Indians.
Twenty-Nine Palms Band of Mission Indians of California.
Sacramento Metro, CA |  | Nonattainment |  | Moderate.
El Dorado County (part):
All portions of the county except that portion of El Dorado County within the drainage area naturally tributary to Lake Tahoe including said Lake.
Placer County (part):
All portions of the county except that portion of Placer County within the drainage area naturally tributary to Lake Tahoe including said Lake, plus that area in the vicinity of the head of the Truckee River described as follows: Commencing at the point common to the aforementioned drainage area crestline and the line common to Townships 15 North and 16 North, Mount Diablo Base and Meridian, and following that line in a westerly direction to the northwest corner of Section 3, Township 15 North, Range 16 East Mount Diablo Base and Meridian, thence south along the west line of Sections 3 and 10, Township 15 North, Range 16 East, Mount Diablo Base and Meridian, to the intersection with the said drainage area crestline, thence following the said drainage area boundary in a southeasterly, then northeasterly direction to and along the Lake Tahoe Dam, thence following the said drainage area crestline in a northeasterly, then northwesterly direction to the point of beginning.
Sacramento County.
Solano County (part):
That portion of Solano County which lies north and east of a line described as follows: Beginning at the intersection of the westerly boundary of Solano County and the ¼ section line running east and west through the center of Section 34; Township 6 North, Range 2 West, Mount Diablo Base and Meridian, thence east along said ¼ section line to the east boundary of Section 36, Township 6 North, Range 2 West, thence south ½ mile and east 2.0 miles, more or less, along the west and south boundary of Los Putos Rancho to the northwest corner of Section 4, Township 5 North, Range 1 West, thence east along a line common to Township 5 North and Township 6 North to the northeast corner of Section 3, Township 5 North, Range 1 East, thence south along section lines to the southeast corner of Section 10, Township 3 North, Range 1 East, thence east along section lines to the south ¼ corner of Section 8, Township 3 North, Range 2 East, thence east to the boundary between Solano and Sacramento Counties.
Sutter County (part):
Portion south of a line connecting the northern border of Yolo County to the SW tip of Yuba County and continuing along the southern Yuba County border to Placer County.
Yolo County:
Shingle Springs Band of Miwok Indians, Shingle Springs Rancheria.
United Auburn Indian Community of the Auburn Rancheria of California.
Wilton Rancheria.
Yocha Dehe Wintun Nation.
San Diego County, CA |  | Nonattainment |  | Moderate.
San Diego County:
Barona Group of Capitan Grande of Mission Indians of the Barona Reservation.
Campo Band of Diegueño Mission Indians of the Campo Indian Reservation.
Capitan Grande Band of Diegueño Mission Indians of California.
Ewiiaapaayp Band of Kumeyaay Indians.
Iipay Nation of Santa Ysabel.
Inaja Band of Diegueño Mission Indians of the Inaja and Cosmit Reservation.
Jamul Indian Village of California.
La Jolla Band of Luiseño Indians.
La Posta Band of Diegueño Mission Indians of the La Posta Indian Reservation.
Los Coyotes Band of Cahuilla and Cupeño Indians.
Manzanita Band of Diegueño Mission Indians of the Manzanita Reservation.
Mesa Grande Band of Diegueño Mission Indians of the Mesa Grande Reservation.
Pala Band of Mission Indians.
Pauma Band of Luiseño Mission Indians of the Pauma and Yuima Reservation.
Rincon Band of Luiseño Mission Indians of the Rincon Reservation.
San Pasqual Band of Diegueño Mission Indians of California.
Sycuan Band of the Kumeyaay Nation.
Viejas (Baron Long) Group of Capitan Grande Band of Mission Indians of the Viejas Reservation.
San Francisco Bay Area, CA |  | Nonattainment |  | Marginal.
Alameda County.
Contra Costa County.
Marin County.
Napa County.
San Francisco County.
San Mateo County.
Santa Clara County.
Solano County (part):
Portion of Solano County which lies south and west of a line described as follows: Beginning at the intersection of the westerly boundary of Solano County and the ¼ section line running east and west through the center of Section 34, T6N, R2W, M.D.B. & M., thence east along said ¼ section line to the east boundary of Section 36, T6N, R2W, thence south ½ mile and east 2.0 miles, more or less, along the west and south boundary of Los Putos Rancho to the northwest corner of Section 4, T5N, R1W, thence east along a line common to T5N and T6N to the northeast corner of Section 3, T5N, R1E, thence south along section lines to the southeast corner of Section 10, T3N, R1E, thence east along section lines to the south ¼ corner of Section 8, T3N, R2E, thence east to the boundary between Solano and Sacramento Counties.
Sonoma County (part):
That portion of Sonoma County which lies south and east of a line described as follows: Beginning at the southeasterly corner of the Rancho Estero Americano, being on the boundary line between Marin and Sonoma Counties, California; thence running northerly along the easterly boundary line of said Rancho Estero Americano to the northeasterly corner thereof, being an angle corner in the westerly boundary line of Rancho Canada de Jonive; thence running along said boundary of Rancho Canada de Jonive westerly, northerly and easterly to its intersection with the easterly line of Graton Road; thence running along the easterly and southerly line of Graton Road, northerly and easterly to its intersection with the easterly line of Sullivan Road; thence running northerly along said easterly line of Sullivan Road to the southerly line of Green Valley Road; thence running easterly along the said southerly line of Green Valley Road and easterly along the southerly line of State Highway 116, to the westerly line of Vine Hill Road; thence Running along the westerly and northerly line of Vine Hill Road, northerly and easterly to its intersection with the westerly line of Laguna Road; thence running northerly along the westerly line of Laguna Road and the northerly projection thereof to the northerly line of Trenton Road; thence running westerly along the northerly line of said Trenton Road to the easterly line of Trenton-Healdsburg Road; thence running northerly along said easterly line of Trenton-Healdsburg Road to the easterly line of Eastside Road; thence running northerly along said easterly line of Eastside Road to its intersection with the southerly line of Rancho Sotoyome; thence running easterly along said southerly line of Rancho Sotoyome to its intersection with the Township line common to Townships 8 and 9 North, M.D.M.; thence running easterly along said township line to its intersection with the boundary line between Sonoma and Napa Counties.
Federated Indians of Graton Rancheria.
Lytton Rancheria of California.
San Joaquin Valley, CA |  | Nonattainment |  | Extreme.
Fresno County.
Kern County (part):
That portion of Kern County which lies west and north of a line described as follows: Beginning at the Kern-Los Angeles County boundary and running north and east along the northwest boundary of the Rancho La Libre Land Grant to the point of intersection with the range line common to R. 16 W and R. 17 W, San Bernardino Base and Meridian; north along the range line to the point of intersection with the Rancho El Tejon Land Grant boundary; then southeast, northeast, and northwest along the boundary of the Rancho El Tejon Land Grant to the northwest corner of S 3, T. 11 N, R. 17 W; then west 1.2 miles; then north to the Rancho El Tejon Land Grant boundary; then northwest along the Rancho El Tejon line to the southeast corner of S 34, T. 32 S, R. 30 E, Mount Diablo Base and Meridian; then north to the northwest corner of S 35, T. 31 S, R. 30 E; then northeast along the boundary of the Rancho El Tejon Land Grant to the southwest corner of S 18, T. 31 S, R. 31 E; then east to the southeast corner of S 13, T. 31 S, R. 31 E; then north along the range line common to R. 31 E and R. 32 E, Mount Diablo Base and Meridian, to the northwest corner of S 6, T. 29 S, R. 32 E; then east to the southwest corner of S 31, T. 28 S, R. 32 E; then north along the range line common to R. 31 E and R. 32 E to the northwest corner of S 6, T. 28 S, R. 32 E, then west to the southeast corner of S 36, T. 27 S, R. 31 E, then north along the range line common to R. 31 E and R. 32 E to the Kern-Tulare County boundary.
Kings County.
Madera County.
Merced County.
San Joaquin County.
Stanislaus County.
Tulare County:
Big Sandy Rancheria of Western Mono Indians of California.
Cold Springs Rancheria of Mono Indians of California.
Northfork Rancheria of Mono Indians of California.
Picayune Rancheria of Chukchansi Indians of California.
Santa Rosa Indian Community of the Santa Rosa Rancheria.
Table Mountain Rancheria of California.
Tule River Indian Tribe of the Tule River Reservation.
San Luis Obispo (Eastern part), CA |  | Nonattainment |  | Marginal.
San Luis Obispo County (part):
That portion of San Luis Obispo County that lies east of a line described as follows: Beginning at the San Luis Obispo County/Santa Barbara County boundary and running north along 120 degrees 24 minutes longitude to the intersection with 35 degrees 27 minutes latitude; east along 35 degrees 27 minutes latitude to the intersection with 120 degrees 18 minutes longitude; then north along 120 degrees 18 minutes longitude to the San Luis Obispo County/Monterey County boundary.
Sutter Buttes, CA |  | Nonattainment |  | Marginal.
Sutter County (part):
That portion of the Sutter Buttes mountain range at or above 2,000 feet in elevation.
Tuolumne County, CA |  | Nonattainment |  | Marginal.
Tuolumne County:
Chicken Ranch Rancheria of Me-Wuk Indians of California.
Tuolumne Band of Me-Wuk Indians of the Tuolumne Rancheria of California.
Tuscan Buttes, CA |  | Nonattainment |  | Marginal (Rural Transport).
Tehama County (part):
Those portions of the immediate Tuscan Buttes area at or above 1,800 feet in elevation.
Ventura County, CA |  | Nonattainment |  | Serious.
Ventura County (part):
That part of Ventura County excluding the Channel Islands of Anacapa and San Nicolas Islands.
Morongo Band of Mission Indians ⁴ |  | Nonattainment |  | Serious.
Pechanga Band of Luiseño Mission Indians of the Pechanga Reservation |  | Nonattainment |  | Marginal.
Includes the main body of the contiguous Pechanga Band Reservation and the noncontiguous area known as Pu'eskaMountain, excluding non-contiguous tribal lands in the Los Angeles-South Coast Air Basin, CA (Meadowbrook parcel).³
Rest of State:
Colusa County |  | Attainment/Unclassifiable
Eastern Nevada County |  | Attainment/Unclassifiable
Nevada County (part) remainder.
Eastern Riverside County |  | Attainment/Unclassifiable
Riverside County (part) remainder.
Glenn County |  | Attainment/Unclassifiable
Inyo County |  | Attainment/Unclassifiable
Lake County | 1/16/18 | Attainment/Unclassifiable
Lake Tahoe Air Basin |  | Attainment/Unclassifiable
El Dorado County (part) remainder.
Placer County (part) remainder.
North Central Coast Air Basin |  | Attainment/Unclassifiable
Monterey County.
San Benito County.
Santa Cruz County.
North Coast Air Basin |  | Attainment/Unclassifiable
Del Norte County | 1/16/18
Humboldt County | 1/16/18
Mendocino County.
Sonoma County (part) remainder.
Trinity County.
Northeast Plateau Air Basin | 1/16/18 | Attainment/Unclassifiable
Lassen County.
Modoc County.
Siskiyou County.
Northeastern Kern County |  | Attainment/Unclassifiable
Kern County (part) remainder.
Northeast San Bernardino County |  | Attainment/Unclassifiable
San Bernardino County (part) remainder.
Northern Channel Islands. |  | Attainment/Unclassifiable
The Channel Islands located in the South Central Coast Air Basin: Anacapa, San Miguel, San Nicholas, Santa Barbara, Santa Cruz, and Santa Rosa Islands.
Northern Great Basin Valleys Air Basin |  | Attainment/Unclassifiable
Alpine County.
Mono County.
Northern Mountain Counties |  | Attainment/Unclassifiable
Plumas County.
Sierra County.
Santa Barbara County (part) remainder |  | Attainment/Unclassifiable
That part of Santa Barbara County excluding the Channel Islands of San Miguel, Santa Barbara, Santa Cruz, and Santa Rosa Islands.
Shasta County |  | Attainment/Unclassifiable
Sutter and Yuba Counties |  | Attainment/Unclassifiable
Sutter County (part) remainder.
Yuba County.
Tehama County (part) remainder |  | Attainment/Unclassifiable
Western San Luis Obispo County |  | Attainment/Unclassifiable
San Luis Obispo County (part) remainder.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.
³ See Section 23.0 of the EPA's technical support document for California, titled “California Final Area Designations for the 2015 Ozone National Ambient Air Quality Standards Technical Support Document (TSD),” for more information and maps showing the locations of the main body of the reservation and the non-contiguous Pu'eska Mountain and Meadowbrook lands (available in Docket ID: EPA-HQ-OAR-2017-0548).
⁴ See Section 22.0 of the EPA's technical support document for California, titled “California Final Area Designations for the 2015 Ozone National Ambient Air Quality Standards Technical Support Document (TSD),” for more information and maps showing the boundaries of the nonattainment area (available in Docket ID: EPA-HQ-OAR-2017-0548).

* * * * *

5. Section 81.306 is amended by revising the table titled “Colorado—2015 8-Hour Ozone NAAQS (Primary and Secondary)” to read as follows:

§ 81.306 Colorado.

* * * * *

Colorado—2015 8-Hour Ozone NAAQS
[Primary and Secondary]
Designated area 1 | Designation: Date 2 | Designation: Type | Classification: Date 2 | Classification: Type
Denver Metro/North Front Range, CO |  | Nonattainment |  | Marginal.
Adams County.
Arapahoe County.
Boulder County.
Broomfield County.
Denver County.
Douglas County.
Jefferson County.
Larimer County (part):
Including the portion of Rocky Mountain National Park therein and that portion of the county that lies south of a line described as follows: Beginning at a point on Larimer County's eastern boundary and Weld County's western boundary intersected by 40 degrees, 42 minutes, and 47.1 seconds north latitude, proceed west to a point defined by the intersection of 40 degrees, 42 minutes, 47.1 seconds north latitude and 105 degrees, 29 minutes, and 40.0 seconds west longitude, thence proceed south on 105 degrees, 29 minutes, 40.0 seconds west longitude to the inter-section with 40 degrees, 33 minutes and 17.4 seconds north latitude, thence proceed west on 40 degrees, 33 minutes, 17.4 seconds north latitude until this line intersects Larimer County's western boundary and Grand County's eastern boundary.
Weld County (part):
That portion of the county that lies south of a line described as follows: Beginning at a point on Weld County's eastern boundary and Logan County's western boundary intersected by 40 degrees, 42 minutes, 47.1 seconds north latitude, proceed west on 40 degrees, 42 minutes, 47.1 seconds north latitude until this line intersects Weld County's western boundary and Larimer County's eastern boundary.
Alamosa County | 1/16/18 | Attainment/Unclassifiable
Archuleta County | 1/16/18 | Attainment/Unclassifiable
Baca County | 1/16/18 | Attainment/Unclassifiable
Bent County | 1/16/18 | Attainment/Unclassifiable
Chaffee County | 1/16/18 | Attainment/Unclassifiable
Cheyenne County | 1/16/18 | Attainment/Unclassifiable
Clear Creek County |  | Attainment/Unclassifiable
Conejos County | 1/16/18 | Attainment/Unclassifiable
Costilla County | 1/16/18 | Attainment/Unclassifiable
Crowley County | 1/16/18 | Attainment/Unclassifiable
Custer County | 1/16/18 | Attainment/Unclassifiable
Delta County | 1/16/18 | Attainment/Unclassifiable
Dolores County | 1/16/18 | Attainment/Unclassifiable
Eagle County | 1/16/18 | Attainment/Unclassifiable
Elbert County |  | Attainment/Unclassifiable
El Paso County |  | Attainment/Unclassifiable
Fremont County | 1/16/18 | Attainment/Unclassifiable
Garfield County |  | Attainment/Unclassifiable
Gilpin County |  | Attainment/Unclassifiable
Grand County |  | Attainment/Unclassifiable
Gunnison County | 1/16/18 | Attainment/Unclassifiable
Hinsdale County | 1/16/18 | Attainment/Unclassifiable
Huerfano County | 1/16/18 | Attainment/Unclassifiable
Jackson County |  | Attainment/Unclassifiable
Kiowa County | 1/16/18 | Attainment/Unclassifiable
Kit Carson County | 1/16/18 | Attainment/Unclassifiable
Lake County | 1/16/18 | Attainment/Unclassifiable
La Plata County | 1/16/18 | Attainment/Unclassifiable
Larimer County (part remainder) |  | Attainment/Unclassifiable
Las Animas County | 1/16/18 | Attainment/Unclassifiable
Lincoln County | 1/16/18 | Attainment/Unclassifiable
Logan County | 1/16/18 | Attainment/Unclassifiable
Mesa County | 1/16/18 | Attainment/Unclassifiable
Mineral County | 1/16/18 | Attainment/Unclassifiable
Moffat County |  | Attainment/Unclassifiable
Montezuma County | 1/16/18 | Attainment/Unclassifiable
Montrose County | 1/16/18 | Attainment/Unclassifiable
Morgan County | 1/16/18 | Attainment/Unclassifiable
Otero County | 1/16/18 | Attainment/Unclassifiable
Ouray County | 1/16/18 | Attainment/Unclassifiable
Park County |  | Attainment/Unclassifiable
Phillips County | 1/16/18 | Attainment/Unclassifiable
Pitkin County | 1/16/18 | Attainment/Unclassifiable
Prowers County | 1/16/18 | Attainment/Unclassifiable
Pueblo County | 1/16/18 | Attainment/Unclassifiable
Rio Blanco County |  | Attainment/Unclassifiable
Rio Grande County | 1/16/18 | Attainment/Unclassifiable
Routt County | 1/16/18 | Attainment/Unclassifiable
Saguache County | 1/16/18 | Attainment/Unclassifiable
San Juan County | 1/16/18 | Attainment/Unclassifiable
San Miguel County | 1/16/18 | Attainment/Unclassifiable
Sedgwick County | 1/16/18 | Attainment/Unclassifiable
Summit County | 1/16/18 | Attainment/Unclassifiable
Teller County |  | Attainment/Unclassifiable
Washington County | 1/16/18 | Attainment/Unclassifiable
Weld County (part) remainder |  | Attainment/Unclassifiable
Yuma County | 1/16/18 | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

6. Section 81.307 is amended by adding a new table titled “Connecticut—2015 8-Hour Ozone NAAQS (Primary and Secondary)” following the table titled “Connecticut—2008 8-Hour Ozone NAAQS (Primary and Secondary)” to read as follows:

§ 81.307 Connecticut.

* * * * *

Connecticut—2015 8-Hour Ozone NAAQS
[Primary and Secondary]
Designated area 1 | Designation: Date 2 | Designation: Type | Classification: Date 2 | Classification: Type
Greater Connecticut, CT |  | Nonattainment |  | Marginal.
Hartford County.
Litchfield County.
New London County.
Tolland County.
Windham County.
New York-Northern New Jersey-Long Island, NY-NJ-CT |  | Nonattainment |  | Moderate.
Fairfield County.
Middlesex County.
New Haven County.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

7. Section 81.308 is amended by adding a new table titled “Delaware—2015 8-Hour Ozone NAAQS (Primary and Secondary)” following the table titled “Delaware—2008 8-Hour Ozone NAAQS (Primary and Secondary)” to read as follows:

§ 81.308 Delaware.

* * * * *

Delaware—2015 8-Hour Ozone NAAQS
[Primary and Secondary]
Designated area 1 | Designation: Date 2 | Designation: Type | Classification: Date 2 | Classification: Type
Philadelphia-Wilmington-Atlantic City, PA-NJ-MD-DE |  | Nonattainment |  | Marginal.
New Castle County.
Kent County |  | Attainment/Unclassifiable
Sussex County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

8. Section 81.309 is amended by adding a new table titled “District of Columbia—2015 8-Hour Ozone NAAQS (Primary and Secondary)” following the table titled “District of Columbia—2008 8-Hour Ozone NAAQS (Primary and Secondary)” to read as follows:

§ 81.309 District of Columbia.

* * * * *

District of Columbia—2015 8-Hour Ozone NAAQS
[Primary and Secondary]
Designated area 1 | Designation: Date 2 | Designation: Type | Classification: Date 2 | Classification: Type
Washington, DC-MD-VA |  | Nonattainment |  | Marginal.
District of Columbia.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

9. Section 81.310 is amended by revising the table titled “Florida—2015 8-Hour Ozone NAAQS (Primary and Secondary)” to read as follows:

§ 81.310 Florida.

* * * * *

Florida—2015 8-Hour Ozone NAAQS
[Primary and Secondary]
Designated area 1 | Designation: Date 2 | Designation: Type | Classification: Date | Classification: Type
Jacksonville, FL |  | Unclassifiable
Duval County.
Alachua County | 1/16/18 | Attainment/Unclassifiable
Baker County |  | Attainment/Unclassifiable
Bay County | 1/16/18 | Attainment/Unclassifiable
Bradford County | 1/16/18 | Attainment/Unclassifiable
Brevard County | 1/16/18 | Attainment/Unclassifiable
Broward County | 1/16/18 | Attainment/Unclassifiable
Calhoun County | 1/16/18 | Attainment/Unclassifiable
Charlotte County | 1/16/18 | Attainment/Unclassifiable
Citrus County | 1/16/18 | Attainment/Unclassifiable
Clay County |  | Attainment/Unclassifiable
Collier County | 1/16/18 | Attainment/Unclassifiable
Columbia County | 1/16/18 | Attainment/Unclassifiable
DeSoto County | 1/16/18 | Attainment/Unclassifiable
Dixie County | 1/16/18 | Attainment/Unclassifiable
Escambia County | 1/16/18 | Attainment/Unclassifiable
Flagler County | 1/16/18 | Attainment/Unclassifiable
Franklin County | 1/16/18 | Attainment/Unclassifiable
Gadsden County | 1/16/18 | Attainment/Unclassifiable
Gilchrist County | 1/16/18 | Attainment/Unclassifiable
Glades County | 1/16/18 | Attainment/Unclassifiable
Gulf County | 1/16/18 | Attainment/Unclassifiable
Hamilton County | 1/16/18 | Attainment/Unclassifiable
Hardee County | 1/16/18 | Attainment/Unclassifiable
Hendry County | 1/16/18 | Attainment/Unclassifiable
Hernando County | 1/16/18 | Attainment/Unclassifiable
Highlands County | 1/16/18 | Attainment/Unclassifiable
Hillsborough County | 1/16/18 | Attainment/Unclassifiable
Holmes County | 1/16/18 | Attainment/Unclassifiable
Indian River County | 1/16/18 | Attainment/Unclassifiable
Jackson County | 1/16/18 | Attainment/Unclassifiable
Jefferson County | 1/16/18 | Attainment/Unclassifiable
Lafayette County | 1/16/18 | Attainment/Unclassifiable
Lake County | 1/16/18 | Attainment/Unclassifiable
Lee County | 1/16/18 | Attainment/Unclassifiable
Leon County | 1/16/18 | Attainment/Unclassifiable
Levy County | 1/16/18 | Attainment/Unclassifiable
Liberty County | 1/16/18 | Attainment/Unclassifiable
Madison County | 1/16/18 | Attainment/Unclassifiable
Manatee County | 1/16/18 | Attainment/Unclassifiable
Marion County | 1/16/18 | Attainment/Unclassifiable
Martin County | 1/16/18 | Attainment/Unclassifiable
Miami-Dade County | 1/16/18 | Attainment/Unclassifiable
Monroe County | 1/16/18 | Attainment/Unclassifiable
Nassau County |  | Attainment/Unclassifiable
Okaloosa County | 1/16/18 | Attainment/Unclassifiable
Okeechobee County | 1/16/18 | Attainment/Unclassifiable
Orange County | 1/16/18 | Attainment/Unclassifiable
Osceola County | 1/16/18 | Attainment/Unclassifiable
Palm Beach County | 1/16/18 | Attainment/Unclassifiable
Pasco County | 1/16/18 | Attainment/Unclassifiable
Pinellas County | 1/16/18 | Attainment/Unclassifiable
Polk County | 1/16/18 | Attainment/Unclassifiable
Putnam County |  | Attainment/Unclassifiable
St. Johns County |  | Attainment/Unclassifiable
St. Lucie County | 1/16/18 | Attainment/Unclassifiable
Santa Rosa County | 1/16/18 | Attainment/Unclassifiable
Sarasota County | 1/16/18 | Attainment/Unclassifiable
Seminole County | 1/16/18 | Attainment/Unclassifiable
Sumter County | 1/16/18 | Attainment/Unclassifiable
Suwannee County | 1/16/18 | Attainment/Unclassifiable
Taylor County | 1/16/18 | Attainment/Unclassifiable
Union County | 1/16/18 | Attainment/Unclassifiable
Volusia County | 1/16/18 | Attainment/Unclassifiable
Wakulla County | 1/16/18 | Attainment/Unclassifiable
Walton County | 1/16/18 | Attainment/Unclassifiable
Washington County | 1/16/18 | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

10. Section 81.311 is amended by revising the table titled “Georgia—2015 8-Hour Ozone NAAQS (Primary and Secondary)” to read as follows:

§ 81.311 Georgia.

* * * * *

Georgia—2015 8-Hour Ozone NAAQS
[Primary and Secondary]
Designated area 1 | Designation: Date 2 | Designation: Type | Classification: Date 2 | Classification: Type
Atlanta, GA |  | Nonattainment |  | Marginal.
Bartow County.
Clayton County.
Cobb County.
DeKalb County.
Fulton County.
Gwinnett County.
Henry County.
Appling County | 1/16/18 | Attainment/Unclassifiable
Atkinson County | 1/16/18 | Attainment/Unclassifiable
Bacon County | 1/16/18 | Attainment/Unclassifiable
Baker County | 1/16/18 | Attainment/Unclassifiable
Baldwin County | 1/16/18 | Attainment/Unclassifiable
Banks County | 1/16/18 | Attainment/Unclassifiable
Barrow County |  | Attainment/Unclassifiable
Ben Hill County | 1/16/18 | Attainment/Unclassifiable
Berrien County | 1/16/18 | Attainment/Unclassifiable
Bibb County | 1/16/18 | Attainment/Unclassifiable
Bleckley County | 1/16/18 | Attainment/Unclassifiable
Brantley County | 1/16/18 | Attainment/Unclassifiable
Brooks County | 1/16/18 | Attainment/Unclassifiable
Bryan County | 1/16/18 | Attainment/Unclassifiable
Bulloch County | 1/16/18 | Attainment/Unclassifiable
Burke County | 1/16/18 | Attainment/Unclassifiable
Butts County |  | Attainment/Unclassifiable
Calhoun County | 1/16/18 | Attainment/Unclassifiable
Camden County |  | Attainment/Unclassifiable
Candler County | 1/16/18 | Attainment/Unclassifiable
Carroll County |  | Attainment/Unclassifiable
Catoosa County | 1/16/18 | Attainment/Unclassifiable
Charlton County | 1/16/18 | Attainment/Unclassifiable
Chatham County | 1/16/18 | Attainment/Unclassifiable
Chattahoochee County | 1/16/18 | Attainment/Unclassifiable
Chattooga County | 1/16/18 | Attainment/Unclassifiable
Cherokee County |  | Attainment/Unclassifiable
Clarke County |  | Attainment/Unclassifiable
Clay County | 1/16/18 | Attainment/Unclassifiable
Clinch County | 1/16/18 | Attainment/Unclassifiable
Coffee County | 1/16/18 | Attainment/Unclassifiable
Colquitt County | 1/16/18 | Attainment/Unclassifiable
Columbia County | 1/16/18 | Attainment/Unclassifiable
Cook County | 1/16/18 | Attainment/Unclassifiable
Coweta County |  | Attainment/Unclassifiable
Crawford County | 1/16/18 | Attainment/Unclassifiable
Crisp County | 1/16/18 | Attainment/Unclassifiable
Dade County | 1/16/18 | Attainment/Unclassifiable
Dawson County |  | Attainment/Unclassifiable
Decatur County | 1/16/18 | Attainment/Unclassifiable
Dodge County | 1/16/18 | Attainment/Unclassifiable
Dooly County | 1/16/18 | Attainment/Unclassifiable
Dougherty County | 1/16/18 | Attainment/Unclassifiable
Douglas County |  | Attainment/Unclassifiable
Early County | 1/16/18 | Attainment/Unclassifiable
Echols County | 1/16/18 | Attainment/Unclassifiable
Effingham County | 1/16/18 | Attainment/Unclassifiable
Elbert County | 1/16/18 | Attainment/Unclassifiable
Emanuel County | 1/16/18 | Attainment/Unclassifiable
Evans County | 1/16/18 | Attainment/Unclassifiable
Fannin County | 1/16/18 | Attainment/Unclassifiable
Fayette County |  | Attainment/Unclassifiable
Floyd County | 1/16/18 | Attainment/Unclassifiable
Forsyth County |  | Attainment/Unclassifiable
Franklin County | 1/16/18 | Attainment/Unclassifiable
Gilmer County | 1/16/18 | Attainment/Unclassifiable
Glascock County | 1/16/18 | Attainment/Unclassifiable
Glynn County | 1/16/18 | Attainment/Unclassifiable
Gordon County |  | Attainment/Unclassifiable
Grady County | 1/16/18 | Attainment/Unclassifiable
Greene County | 1/16/18 | Attainment/Unclassifiable
Habersham County | 1/16/18 | Attainment/Unclassifiable
Hall County |  | Attainment/Unclassifiable
Hancock County | 1/16/18 | Attainment/Unclassifiable
Haralson County |  | Attainment/Unclassifiable
Harris County | 1/16/18 | Attainment/Unclassifiable
Hart County | 1/16/18 | Attainment/Unclassifiable
Heard County |  | Attainment/Unclassifiable
Houston County | 1/16/18 | Attainment/Unclassifiable
Irwin County | 1/16/18 | Attainment/Unclassifiable
Jackson County |  | Attainment/Unclassifiable
Jasper County |  | Attainment/Unclassifiable
Jeff Davis County | 1/16/18 | Attainment/Unclassifiable
Jefferson County | 1/16/18 | Attainment/Unclassifiable
Jenkins County | 1/16/18 | Attainment/Unclassifiable
Johnson County | 1/16/18 | Attainment/Unclassifiable
Jones County | 1/16/18 | Attainment/Unclassifiable
Lamar County |  | Attainment/Unclassifiable
Lanier County | 1/16/18 | Attainment/Unclassifiable
Laurens County | 1/16/18 | Attainment/Unclassifiable
Lee County | 1/16/18 | Attainment/Unclassifiable
Liberty County | 1/16/18 | Attainment/Unclassifiable
Lincoln County | 1/16/18 | Attainment/Unclassifiable
Long County | 1/16/18 | Attainment/Unclassifiable
Lowndes County | 1/16/18 | Attainment/Unclassifiable
Lumpkin County | 1/16/18 | Attainment/Unclassifiable
McDuffie County | 1/16/18 | Attainment/Unclassifiable
McIntosh County | 1/16/18 | Attainment/Unclassifiable
Macon County | 1/16/18 | Attainment/Unclassifiable
Madison County |  | Attainment/Unclassifiable
Marion County | 1/16/18 | Attainment/Unclassifiable
Meriwether County |  | Attainment/Unclassifiable
Miller County | 1/16/18 | Attainment/Unclassifiable
Mitchell County | 1/16/18 | Attainment/Unclassifiable
Monroe County | 1/16/18 | Attainment/Unclassifiable
Montgomery County | 1/16/18 | Attainment/Unclassifiable
Morgan County |  | Attainment/Unclassifiable
Murray County | 1/16/18 | Attainment/Unclassifiable
Muscogee County | 1/16/18 | Attainment/Unclassifiable
Newton County |  | Attainment/Unclassifiable
Oconee County |  | Attainment/Unclassifiable
Oglethorpe County |  | Attainment/Unclassifiable
Paulding County |  | Attainment/Unclassifiable
Peach County | 1/16/18 | Attainment/Unclassifiable
Pickens County |  | Attainment/Unclassifiable
Pierce County | 1/16/18 | Attainment/Unclassifiable
Pike County |  | Attainment/Unclassifiable
Polk County |  | Attainment/Unclassifiable
Pulaski County | 1/16/18 | Attainment/Unclassifiable
Putnam County | 1/16/18 | Attainment/Unclassifiable
Quitman County | 1/16/18 | Attainment/Unclassifiable
Rabun County | 1/16/18 | Attainment/Unclassifiable
Randolph County | 1/16/18 | Attainment/Unclassifiable
Richmond County | 1/16/18 | Attainment/Unclassifiable
Rockdale County |  | Attainment/Unclassifiable
Schley County | 1/16/18 | Attainment/Unclassifiable
Screven County | 1/16/18 | Attainment/Unclassifiable
Seminole County | 1/16/18 | Attainment/Unclassifiable
Spalding County |  | Attainment/Unclassifiable
Stephens County | 1/16/18 | Attainment/Unclassifiable
Stewart County | 1/16/18 | Attainment/Unclassifiable
Sumter County | 1/16/18 | Attainment/Unclassifiable
Talbot County | 1/16/18 | Attainment/Unclassifiable
Taliaferro County | 1/16/18 | Attainment/Unclassifiable
Tattnall County | 1/16/18 | Attainment/Unclassifiable
Taylor County | 1/16/18 | Attainment/Unclassifiable
Telfair County | 1/16/18 | Attainment/Unclassifiable
Terrell County | 1/16/18 | Attainment/Unclassifiable
Thomas County | 1/16/18 | Attainment/Unclassifiable
Tift County | 1/16/18 | Attainment/Unclassifiable
Toombs County | 1/16/18 | Attainment/Unclassifiable
Towns County | 1/16/18 | Attainment/Unclassifiable
Treutlen County | 1/16/18 | Attainment/Unclassifiable
Troup County |  | Attainment/Unclassifiable
Turner County | 1/16/18 | Attainment/Unclassifiable
Twiggs County | 1/16/18 | Attainment/Unclassifiable
Union County | 1/16/18 | Attainment/Unclassifiable
Upson County |  | Attainment/Unclassifiable
Walker County | 1/16/18 | Attainment/Unclassifiable
Walton County |  | Attainment/Unclassifiable
Ware County | 1/16/18 | Attainment/Unclassifiable
Warren County | 1/16/18 | Attainment/Unclassifiable
Washington County | 1/16/18 | Attainment/Unclassifiable
Wayne County | 1/16/18 | Attainment/Unclassifiable
Webster County | 1/16/18 | Attainment/Unclassifiable
Wheeler County | 1/16/18 | Attainment/Unclassifiable
White County | 1/16/18 | Attainment/Unclassifiable
Whitfield County | 1/16/18 | Attainment/Unclassifiable
Wilcox County | 1/16/18 | Attainment/Unclassifiable
Wilkes County | 1/16/18 | Attainment/Unclassifiable
Wilkinson County | 1/16/18 | Attainment/Unclassifiable
Worth County | 1/16/18 | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

11. Section 81.314 is amended by revising the table titled “Illinois—2015 8-Hour Ozone NAAQS (Primary and Secondary)” to read as follows:

§ 81.314 Illinois.

* * * * *

Illinois—2015 8-Hour Ozone NAAQS
[Primary and Secondary]
Designated area 1 | Designation: Date 2 | Designation: Type | Classification: Date 2 | Classification: Type
Chicago, IL-IN-WI |  | Nonattainment |  | Marginal.
Cook County.
DuPage County.
Grundy County (part):
Aux Sable Township and Goose Lake Township.
Kane County.
Kendall County (part):
Oswego Township.
Lake County.
Will County.
St. Louis, MO-IL |  | Nonattainment |  | Marginal.
Madison County.
St. Clair County.
Adams County | 1/16/18 | Attainment/Unclassifiable
Alexander County | 1/16/18 | Attainment/Unclassifiable
Boone County | 1/16/18 | Attainment/Unclassifiable
Bond County |  | Attainment/Unclassifiable
Brown County | 1/16/18 | Attainment/Unclassifiable
Bureau County |  | Attainment/Unclassifiable
Calhoun County |  | Attainment/Unclassifiable
Carroll County | 1/16/18 | Attainment/Unclassifiable
Cass County | 1/16/18 | Attainment/Unclassifiable
Champaign County | 1/16/18 | Attainment/Unclassifiable
Christian County | 1/16/18 | Attainment/Unclassifiable
Clark County | 1/16/18 | Attainment/Unclassifiable
Clay County | 1/16/18 | Attainment/Unclassifiable
Clinton County |  | Attainment/Unclassifiable
Coles County | 1/16/18 | Attainment/Unclassifiable
Crawford County | 1/16/18 | Attainment/Unclassifiable
Cumberland County | 1/16/18 | Attainment/Unclassifiable
De Kalb County |  | Attainment/Unclassifiable
De Witt County | 1/16/18 | Attainment/Unclassifiable
Douglas County | 1/16/18 | Attainment/Unclassifiable
Edgar County | 1/16/18 | Attainment/Unclassifiable
Edwards County | 1/16/18 | Attainment/Unclassifiable
Effingham County | 1/16/18 | Attainment/Unclassifiable
Fayette County | 1/16/18 | Attainment/Unclassifiable
Ford County | 1/16/18 | Attainment/Unclassifiable
Franklin County | 1/16/18 | Attainment/Unclassifiable
Fulton County | 1/16/18 | Attainment/Unclassifiable
Gallatin County | 1/16/18 | Attainment/Unclassifiable
Greene County | 1/16/18 | Attainment/Unclassifiable
Grundy County (part) remainder |  | Attainment/Unclassifiable
Hamilton County | 1/16/18 | Attainment/Unclassifiable
Hancock County | 1/16/18 | Attainment/Unclassifiable
Hardin County | 1/16/18 | Attainment/Unclassifiable
Henderson County | 1/16/18 | Attainment/Unclassifiable
Henry County | 1/16/18 | Attainment/Unclassifiable
Iroquois County | 1/16/18 | Attainment/Unclassifiable
Jackson County | 1/16/18 | Attainment/Unclassifiable
Jasper County | 1/16/18 | Attainment/Unclassifiable
Jefferson County | 1/16/18 | Attainment/Unclassifiable
Jersey County |  | Attainment/Unclassifiable
Jo Daviess County | 1/16/18 | Attainment/Unclassifiable
Johnson County | 1/16/18 | Attainment/Unclassifiable
Kankakee County |  | Attainment/Unclassifiable
Kendall County (part) remainder |  | Attainment/Unclassifiable
Knox County | 1/16/18 | Attainment/Unclassifiable
La Salle County |  | Attainment/Unclassifiable
Lawrence County | 1/16/18 | Attainment/Unclassifiable
Lee County | 1/16/18 | Attainment/Unclassifiable
Livingston County | 1/16/18 | Attainment/Unclassifiable
Logan County | 1/16/18 | Attainment/Unclassifiable
Macon County | 1/16/18 | Attainment/Unclassifiable
Macoupin County |  | Attainment/Unclassifiable
Marion County |  | Attainment/Unclassifiable
Marshall County | 1/16/18 | Attainment/Unclassifiable
Mason County | 1/16/18 | Attainment/Unclassifiable
Massac County | 1/16/18 | Attainment/Unclassifiable
McDonough County | 1/16/18 | Attainment/Unclassifiable
McLean County | 1/16/18 | Attainment/Unclassifiable
Menard County | 1/16/18 | Attainment/Unclassifiable
Mercer County | 1/16/18 | Attainment/Unclassifiable
Montgomery County | 1/16/18 | Attainment/Unclassifiable
Morgan County | 1/16/18 | Attainment/Unclassifiable
Moultrie County | 1/16/18 | Attainment/Unclassifiable
Ogle County | 1/16/18 | Attainment/Unclassifiable
Peoria County | 1/16/18 | Attainment/Unclassifiable
Perry County | 1/16/18 | Attainment/Unclassifiable
Piatt County | 1/16/18 | Attainment/Unclassifiable
Pike County | 1/16/18 | Attainment/Unclassifiable
Pope County | 1/16/18 | Attainment/Unclassifiable
Pulaski County | 1/16/18 | Attainment/Unclassifiable
Putnam County |  | Attainment/Unclassifiable
Randolph County | 1/16/18 | Attainment/Unclassifiable
Richland County | 1/16/18 | Attainment/Unclassifiable
Rock Island County | 1/16/18 | Attainment/Unclassifiable
Saline County | 1/16/18 | Attainment/Unclassifiable
Sangamon County | 1/16/18 | Attainment/Unclassifiable
Schuyler County | 1/16/18 | Attainment/Unclassifiable
Scott County | 1/16/18 | Attainment/Unclassifiable
Shelby County | 1/16/18 | Attainment/Unclassifiable
Stark County | 1/16/18 | Attainment/Unclassifiable
Stephenson County | 1/16/18 | Attainment/Unclassifiable
Tazewell County | 1/16/18 | Attainment/Unclassifiable
Union County | 1/16/18 | Attainment/Unclassifiable
Vermilion County | 1/16/18 | Attainment/Unclassifiable
Wabash County | 1/16/18 | Attainment/Unclassifiable
Warren County | 1/16/18 | Attainment/Unclassifiable
Washington County | 1/16/18 | Attainment/Unclassifiable
Wayne County | 1/16/18 | Attainment/Unclassifiable
White County | 1/16/18 | Attainment/Unclassifiable
Whiteside County | 1/16/18 | Attainment/Unclassifiable
Williamson County | 1/16/18 | Attainment/Unclassifiable
Winnebago County | 1/16/18 | Attainment/Unclassifiable
Woodford County | 1/16/18 | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

12. Section 81.315 is amended by revising the table titled “Indiana—2015 8-Hour Ozone NAAQS (Primary and Secondary)” to read as follows:

§ 81.315 Indiana.

* * * * *

Indiana—2015 8-Hour Ozone NAAQS
[Primary and Secondary]
Designated area ¹ | Designation: Date ² | Designation: Type | Classification: Date ² | Classification: Type
Chicago, IL-IN-WI |  | Nonattainment |  | Marginal.
Lake County (part).
Calumet Township, Hobart Township, North Township, Ross Township, and St. John Township.
Louisville, KY-IN |  | Nonattainment |  | Marginal.
Clark County.
Floyd County.
Adams County | 1/16/18 | Attainment/Unclassifiable
Allen County | 1/16/18 | Attainment/Unclassifiable
Bartholomew County | 1/16/18 | Attainment/Unclassifiable
Benton County | 1/16/18 | Attainment/Unclassifiable
Blackford County | 1/16/18 | Attainment/Unclassifiable
Boone County | 1/16/18 | Attainment/Unclassifiable
Brown County | 1/16/18 | Attainment/Unclassifiable
Carroll County | 1/16/18 | Attainment/Unclassifiable
Cass County | 1/16/18 | Attainment/Unclassifiable
Clay County | 1/16/18 | Attainment/Unclassifiable
Clinton County | 1/16/18 | Attainment/Unclassifiable
Crawford County | 1/16/18 | Attainment/Unclassifiable
Daviess County | 1/16/18 | Attainment/Unclassifiable
Dearborn County |  | Attainment/Unclassifiable
Decatur County | 1/16/18 | Attainment/Unclassifiable
DeKalb County | 1/16/18 | Attainment/Unclassifiable
Delaware County | 1/16/18 | Attainment/Unclassifiable
Dubois County | 1/16/18 | Attainment/Unclassifiable
Elkhart County |  | Attainment/Unclassifiable
Fayette County | 1/16/18 | Attainment/Unclassifiable
Fountain County | 1/16/18 | Attainment/Unclassifiable
Franklin County |  | Attainment/Unclassifiable
Fulton County | 1/16/18 | Attainment/Unclassifiable
Gibson County | 1/16/18 | Attainment/Unclassifiable
Grant County | 1/16/18 | Attainment/Unclassifiable
Greene County | 1/16/18 | Attainment/Unclassifiable
Hamilton County | 1/16/18 | Attainment/Unclassifiable
Hancock County | 1/16/18 | Attainment/Unclassifiable
Harrison County |  | Attainment/Unclassifiable
Hendricks County | 1/16/18 | Attainment/Unclassifiable
Henry County | 1/16/18 | Attainment/Unclassifiable
Howard County | 1/16/18 | Attainment/Unclassifiable
Huntington County | 1/16/18 | Attainment/Unclassifiable
Jackson County | 1/16/18 | Attainment/Unclassifiable
Jasper County |  | Attainment/Unclassifiable
Jay County | 1/16/18 | Attainment/Unclassifiable
Jefferson County |  | Attainment/Unclassifiable
Jennings County | 1/16/18 | Attainment/Unclassifiable
Johnson County | 1/16/18 | Attainment/Unclassifiable
Knox County | 1/16/18 | Attainment/Unclassifiable
Kosciusko County | 1/16/18 | Attainment/Unclassifiable
LaGrange County | 1/16/18 | Attainment/Unclassifiable
Lake County (part) remainder |  | Attainment/Unclassifiable
La Porte County |  | Attainment/Unclassifiable
Lawrence County | 1/16/18 | Attainment/Unclassifiable
Madison County | 1/16/18 | Attainment/Unclassifiable
Marion County | 1/16/18 | Attainment/Unclassifiable
Marshall County |  | Attainment/Unclassifiable
Martin County | 1/16/18 | Attainment/Unclassifiable
Miami County | 1/16/18 | Attainment/Unclassifiable
Monroe County | 1/16/18 | Attainment/Unclassifiable
Montgomery County | 1/16/18 | Attainment/Unclassifiable
Morgan County | 1/16/18 | Attainment/Unclassifiable
Newton County |  | Attainment/Unclassifiable
Noble County | 1/16/18 | Attainment/Unclassifiable
Ohio County |  | Attainment/Unclassifiable
Orange County | 1/16/18 | Attainment/Unclassifiable
Owen County | 1/16/18 | Attainment/Unclassifiable
Parke County | 1/16/18 | Attainment/Unclassifiable
Perry County | 1/16/18 | Attainment/Unclassifiable
Pike County | 1/16/18 | Attainment/Unclassifiable
Porter County |  | Attainment/Unclassifiable
Posey County | 1/16/18 | Attainment/Unclassifiable
Pulaski County | 1/16/18 | Attainment/Unclassifiable
Putnam County | 1/16/18 | Attainment/Unclassifiable
Randolph County | 1/16/18 | Attainment/Unclassifiable
Ripley County | 1/16/18 | Attainment/Unclassifiable
Rush County | 1/16/18 | Attainment/Unclassifiable
St. Joseph County |  | Attainment/Unclassifiable
Shelby County | 1/16/18 | Attainment/Unclassifiable
Spencer County | 1/16/18 | Attainment/Unclassifiable
Starke County | 1/16/18 | Attainment/Unclassifiable
Steuben County | 1/16/18 | Attainment/Unclassifiable
Sullivan County | 1/16/18 | Attainment/Unclassifiable
Switzerland County | 1/16/18 | Attainment/Unclassifiable
Tippecanoe County | 1/16/18 | Attainment/Unclassifiable
Tipton County | 1/16/18 | Attainment/Unclassifiable
Vanderburgh County | 1/16/18 | Attainment/Unclassifiable
Vermillion County | 1/16/18 | Attainment/Unclassifiable
Vigo County | 1/16/18 | Attainment/Unclassifiable
Wabash County | 1/16/18 | Attainment/Unclassifiable
Warren County | 1/16/18 | Attainment/Unclassifiable
Warrick County | 1/16/18 | Attainment/Unclassifiable
Wayne County | 1/16/18 | Attainment/Unclassifiable
Wells County | 1/16/18 | Attainment/Unclassifiable
White County | 1/16/18 | Attainment/Unclassifiable
Whitley County | 1/16/18 | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

13. Section 81.318 is amended by revising the table titled “Kentucky—2015 8-Hour Ozone NAAQS (Primary and Secondary)” to read as follows:

§ 81.318 Kentucky.

* * * * *

Kentucky—2015 8-Hour Ozone NAAQS
[Primary and Secondary]
Designated area ¹ | Designation: Date ² | Designation: Type | Classification: Date ² | Classification: Type
Cincinnati, OH-KY |  | Nonattainment |  | Marginal.
Boone County (part):
The entire county except for 2010 US Census Tracts 706.01 and 706.04.
Campbell County (part):
The entire county except for 2010 US Census Tracts 520.01 and 520.02.
Kenton County (part):
The entire county except for 2010 US Census Tracts 637.01 and 637.02.
Louisville, KY-IN |  | Nonattainment |  | Marginal.
Bullitt County.
Jefferson County.
Oldham County.
Adair County | 1/16/18 | Attainment/Unclassifiable
Allen County | 1/16/18 | Attainment/Unclassifiable
Anderson County | 1/16/18 | Attainment/Unclassifiable
Ballard County | 1/16/18 | Attainment/Unclassifiable
Barren County | 1/16/18 | Attainment/Unclassifiable
Bath County | 1/16/18 | Attainment/Unclassifiable
Bell County | 1/16/18 | Attainment/Unclassifiable
Boone County (part) remainder |  | Attainment/Unclassifiable
Bourbon County | 1/16/18 | Attainment/Unclassifiable
Boyd County | 1/16/18 | Attainment/Unclassifiable
Boyle County | 1/16/18 | Attainment/Unclassifiable
Bracken County |  | Attainment/Unclassifiable
Breathitt County | 1/16/18 | Attainment/Unclassifiable
Breckinridge County | 1/16/18 | Attainment/Unclassifiable
Butler County | 1/16/18 | Attainment/Unclassifiable
Caldwell County | 1/16/18 | Attainment/Unclassifiable
Calloway County | 1/16/18 | Attainment/Unclassifiable
Campbell County (part) remainder |  | Attainment/Unclassifiable
Carlisle County | 1/16/18 | Attainment/Unclassifiable
Carroll County | 1/16/18 | Attainment/Unclassifiable
Carter County | 1/16/18 | Attainment/Unclassifiable
Casey County | 1/16/18 | Attainment/Unclassifiable
Christian County | 1/16/18 | Attainment/Unclassifiable
Clark County | 1/16/18 | Attainment/Unclassifiable
Clay County | 1/16/18 | Attainment/Unclassifiable
Clinton County | 1/16/18 | Attainment/Unclassifiable
Crittenden County | 1/16/18 | Attainment/Unclassifiable
Cumberland County | 1/16/18 | Attainment/Unclassifiable
Daviess County | 1/16/18 | Attainment/Unclassifiable
Edmonson County | 1/16/18 | Attainment/Unclassifiable
Elliott County | 1/16/18 | Attainment/Unclassifiable
Estill County | 1/16/18 | Attainment/Unclassifiable
Fayette County | 1/16/18 | Attainment/Unclassifiable
Fleming County | 1/16/18 | Attainment/Unclassifiable
Floyd County | 1/16/18 | Attainment/Unclassifiable
Franklin County | 1/16/18 | Attainment/Unclassifiable
Fulton County | 1/16/18 | Attainment/Unclassifiable
Gallatin County |  | Attainment/Unclassifiable
Garrard County | 1/16/18 | Attainment/Unclassifiable
Grant County |  | Attainment/Unclassifiable
Graves County | 1/16/18 | Attainment/Unclassifiable
Grayson County | 1/16/18 | Attainment/Unclassifiable
Green County | 1/16/18 | Attainment/Unclassifiable
Greenup County | 1/16/18 | Attainment/Unclassifiable
Hancock County | 1/16/18 | Attainment/Unclassifiable
Hardin County |  | Attainment/Unclassifiable
Harlan County | 1/16/18 | Attainment/Unclassifiable
Harrison County | 1/16/18 | Attainment/Unclassifiable
Hart County | 1/16/18 | Attainment/Unclassifiable
Henderson County | 1/16/18 | Attainment/Unclassifiable
Henry County |  | Attainment/Unclassifiable
Hickman County | 1/16/18 | Attainment/Unclassifiable
Hopkins County | 1/16/18 | Attainment/Unclassifiable
Jackson County | 1/16/18 | Attainment/Unclassifiable
Jessamine County | 1/16/18 | Attainment/Unclassifiable
Johnson County | 1/16/18 | Attainment/Unclassifiable
Kenton County (part) remainder |  | Attainment/Unclassifiable
Knott County | 1/16/18 | Attainment/Unclassifiable
Knox County | 1/16/18 | Attainment/Unclassifiable
Larue County |  | Attainment/Unclassifiable
Laurel County | 1/16/18 | Attainment/Unclassifiable
Lawrence County | 1/16/18 | Attainment/Unclassifiable
Lee County | 1/16/18 | Attainment/Unclassifiable
Leslie County | 1/16/18 | Attainment/Unclassifiable
Letcher County | 1/16/18 | Attainment/Unclassifiable
Lewis County | 1/16/18 | Attainment/Unclassifiable
Lincoln County | 1/16/18 | Attainment/Unclassifiable
Livingston County | 1/16/18 | Attainment/Unclassifiable
Logan County | 1/16/18 | Attainment/Unclassifiable
Lyon County | 1/16/18 | Attainment/Unclassifiable
Mason County |  | Attainment/Unclassifiable
McCracken County | 1/16/18 | Attainment/Unclassifiable
McCreary County | 1/16/18 | Attainment/Unclassifiable
McLean County | 1/16/18 | Attainment/Unclassifiable
Madison County | 1/16/18 | Attainment/Unclassifiable
Magoffin County | 1/16/18 | Attainment/Unclassifiable
Marion County | 1/16/18 | Attainment/Unclassifiable
Marshall County | 1/16/18 | Attainment/Unclassifiable
Martin County | 1/16/18 | Attainment/Unclassifiable
Meade County |  | Attainment/Unclassifiable
Menifee County | 1/16/18 | Attainment/Unclassifiable
Mercer County | 1/16/18 | Attainment/Unclassifiable
Metcalfe County | 1/16/18 | Attainment/Unclassifiable
Monroe County | 1/16/18 | Attainment/Unclassifiable
Montgomery County | 1/16/18 | Attainment/Unclassifiable
Morgan County | 1/16/18 | Attainment/Unclassifiable
Muhlenberg County | 1/16/18 | Attainment/Unclassifiable
Nelson County |  | Attainment/Unclassifiable
Nicholas County | 1/16/18 | Attainment/Unclassifiable
Ohio County | 1/16/18 | Attainment/Unclassifiable
Owen County | 1/16/18 | Attainment/Unclassifiable
Owsley County | 1/16/18 | Attainment/Unclassifiable
Pendleton County |  | Attainment/Unclassifiable
Perry County | 1/16/18 | Attainment/Unclassifiable
Pike County | 1/16/18 | Attainment/Unclassifiable
Powell County | 1/16/18 | Attainment/Unclassifiable
Pulaski County | 1/16/18 | Attainment/Unclassifiable
Robertson County | 1/16/18 | Attainment/Unclassifiable
Rockcastle County | 1/16/18 | Attainment/Unclassifiable
Rowan County | 1/16/18 | Attainment/Unclassifiable
Russell County | 1/16/18 | Attainment/Unclassifiable
Scott County | 1/16/18 | Attainment/Unclassifiable
Shelby County |  | Attainment/Unclassifiable
Simpson County | 1/16/18 | Attainment/Unclassifiable
Spencer County |  | Attainment/Unclassifiable
Taylor County | 1/16/18 | Attainment/Unclassifiable
Todd County | 1/16/18 | Attainment/Unclassifiable
Trigg County | 1/16/18 | Attainment/Unclassifiable
Trimble County |  | Attainment/Unclassifiable
Union County | 1/16/18 | Attainment/Unclassifiable
Warren County | 1/16/18 | Attainment/Unclassifiable
Washington County | 1/16/18 | Attainment/Unclassifiable
Wayne County | 1/16/18 | Attainment/Unclassifiable
Webster County | 1/16/18 | Attainment/Unclassifiable
Whitley County | 1/16/18 | Attainment/Unclassifiable
Wolfe County | 1/16/18 | Attainment/Unclassifiable
Woodford County | 1/16/18 | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

14. Section 81.319 is amended by revising the table titled “Louisiana—2015 8-Hour Ozone NAAQS (Primary and Secondary)” to read as follows:

§ 81.319 Louisiana.

* * * * *

Louisiana—2015 8-Hour Ozone NAAQS
[Primary and Secondary]
Designated area ¹ | Designation: Date ² | Designation: Type | Classification: Date ² | Classification: Type
Acadia Parish | 1/16/18 | Attainment/Unclassifiable
Allen Parish | 1/16/18 | Attainment/Unclassifiable
Ascension Parish |  | Attainment/Unclassifiable
Assumption Parish |  | Attainment/Unclassifiable
Avoyelles Parish | 1/16/18 | Attainment/Unclassifiable
Beauregard Parish | 1/16/18 | Attainment/Unclassifiable
Bienville Parish | 1/16/18 | Attainment/Unclassifiable
Bossier Parish | 1/16/18 | Attainment/Unclassifiable
Caddo Parish | 1/16/18 | Attainment/Unclassifiable
Calcasieu Parish | 1/16/18 | Attainment/Unclassifiable
Caldwell Parish | 1/16/18 | Attainment/Unclassifiable
Cameron Parish | 1/16/18 | Attainment/Unclassifiable
Catahoula Parish | 1/16/18 | Attainment/Unclassifiable
Claiborne Parish | 1/16/18 | Attainment/Unclassifiable
Concordia Parish | 1/16/18 | Attainment/Unclassifiable
De Soto Parish | 1/16/18 | Attainment/Unclassifiable
East Baton Rouge Parish |  | Attainment/Unclassifiable
East Carroll Parish | 1/16/18 | Attainment/Unclassifiable
East Feliciana Parish |  | Attainment/Unclassifiable
Evangeline Parish | 1/16/18 | Attainment/Unclassifiable
Franklin Parish | 1/16/18 | Attainment/Unclassifiable
Grant Parish | 1/16/18 | Attainment/Unclassifiable
Iberia Parish | 1/16/18 | Attainment/Unclassifiable
Iberville Parish |  | Attainment/Unclassifiable
Jackson Parish | 1/16/18 | Attainment/Unclassifiable
Jefferson Parish | 1/16/18 | Attainment/Unclassifiable
Jefferson Davis Parish | 1/16/18 | Attainment/Unclassifiable
Lafayette Parish | 1/16/18 | Attainment/Unclassifiable
Lafourche Parish | 1/16/18 | Attainment/Unclassifiable
LaSalle Parish | 1/16/18 | Attainment/Unclassifiable
Lincoln Parish | 1/16/18 | Attainment/Unclassifiable
Livingston Parish |  | Attainment/Unclassifiable
Madison Parish | 1/16/18 | Attainment/Unclassifiable
Morehouse Parish | 1/16/18 | Attainment/Unclassifiable
Natchitoches Parish | 1/16/18 | Attainment/Unclassifiable
Orleans Parish | 1/16/18 | Attainment/Unclassifiable
Ouachita Parish | 1/16/18 | Attainment/Unclassifiable
Plaquemines Parish | 1/16/18 | Attainment/Unclassifiable
Pointe Coupee Parish |  | Attainment/Unclassifiable
Rapides Parish | 1/16/18 | Attainment/Unclassifiable
Red River Parish | 1/16/18 | Attainment/Unclassifiable
Richland Parish | 1/16/18 | Attainment/Unclassifiable
Sabine Parish | 1/16/18 | Attainment/Unclassifiable
St. Bernard Parish | 1/16/18 | Attainment/Unclassifiable
St. Charles Parish | 1/16/18 | Attainment/Unclassifiable
St. Helena Parish |  | Attainment/Unclassifiable
St. James Parish |  | Attainment/Unclassifiable
St. John the Baptist Parish | 1/16/18 | Attainment/Unclassifiable
St. Landry Parish | 1/16/18 | Attainment/Unclassifiable
St. Martin Parish | 1/16/18 | Attainment/Unclassifiable
St. Mary Parish | 1/16/18 | Attainment/Unclassifiable
St. Tammany Parish | 1/16/18 | Attainment/Unclassifiable
Tangipahoa Parish | 1/16/18 | Attainment/Unclassifiable
Tensas Parish | 1/16/18 | Attainment/Unclassifiable
Terrebonne Parish | 1/16/18 | Attainment/Unclassifiable
Union Parish | 1/16/18 | Attainment/Unclassifiable
Vermilion Parish | 1/16/18 | Attainment/Unclassifiable
Vernon Parish | 1/16/18 | Attainment/Unclassifiable
Washington Parish | 1/16/18 | Attainment/Unclassifiable
Webster Parish | 1/16/18 | Attainment/Unclassifiable
West Baton Rouge Parish |  | Attainment/Unclassifiable
West Carroll Parish | 1/16/18 | Attainment/Unclassifiable
West Feliciana Parish |  | Attainment/Unclassifiable
Winn Parish | 1/16/18 | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

15. Section 81.321 is amended by revising the table titled “Maryland—2015 8-Hour Ozone NAAQS (Primary and Secondary)” to read as follows:

§ 81.321 Maryland.

* * * * *

Maryland—2015 8-Hour Ozone NAAQS
[Primary and Secondary]
Designated area ¹ | Designation: Date ² | Designation: Type | Classification: Date ² | Classification: Type
Baltimore, MD |  | Nonattainment |  | Marginal.
Anne Arundel County.
Baltimore County.
Carroll County.
Harford County.
Howard County.
City of Baltimore.
Philadelphia-Wilmington-Atlantic City, PA-NJ-MD-DE |  | Nonattainment |  | Marginal.
Cecil County.
Washington, DC-MD-VA |  | Nonattainment |  | Marginal.
Calvert County.
Charles County.
Frederick County.
Montgomery County.
Prince George's County.
Allegany County | 1/16/18 | Attainment/Unclassifiable
Caroline County | 1/16/18 | Attainment/Unclassifiable
Dorchester County |  | Attainment/Unclassifiable
Garrett County | 1/16/18 | Attainment/Unclassifiable
Kent County |  | Attainment/Unclassifiable
Queen Anne's County |  | Attainment/Unclassifiable
St. Mary's County |  | Attainment/Unclassifiable
Somerset County | 1/16/18 | Attainment/Unclassifiable
Talbot County |  | Attainment/Unclassifiable
Washington County |  | Attainment/Unclassifiable
Wicomico County | 1/16/18 | Attainment/Unclassifiable
Worcester County | 1/16/18 | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

16. Section 81.322 is amended by revising the table titled “Massachusetts—2015 8-Hour Ozone NAAQS (Primary and Secondary)” to read as follows:

§ 81.322 Massachusetts.

* * * * *

Massachusetts—2015 8-Hour Ozone NAAQS
[Primary and Secondary]
Designated area ¹ | Designation: Date ² | Designation: Type | Classification: Date | Classification: Type
Barnstable County | 1/16/18 | Attainment/Unclassifiable
Berkshire County |  | Attainment/Unclassifiable
Bristol County | 1/16/18 | Attainment/Unclassifiable
Dukes County | 1/16/18 | Attainment/Unclassifiable
Essex County | 1/16/18 | Attainment/Unclassifiable
Franklin County | 1/16/18 | Attainment/Unclassifiable
Hampden County |  | Attainment/Unclassifiable
Hampshire County | 1/16/18 | Attainment/Unclassifiable
Middlesex County | 1/16/18 | Attainment/Unclassifiable
Nantucket County | 1/16/18 | Attainment/Unclassifiable
Norfolk County | 1/16/18 | Attainment/Unclassifiable
Plymouth County | 1/16/18 | Attainment/Unclassifiable
Suffolk County | 1/16/18 | Attainment/Unclassifiable
Worcester County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

17. Section 81.323 is amended by revising the table titled “Michigan—2015 8-Hour Ozone NAAQS (Primary and Secondary)” to read as follows:

§ 81.323 Michigan.

* * * * *

Michigan—2015 8-Hour Ozone NAAQS
[Primary and Secondary]
Designated area ¹ | Designation: Date ² | Designation: Type | Classification: Date ² | Classification: Type
Allegan County, MI |  | Nonattainment |  | Marginal.
Allegan County (part):
Casco Township, Cheshire Township, City of Douglas, City of Holland, City of Saugatuck, Clyde Township, Fillmore Township, Ganges Township, Heath Township, Laketown Township, Lee Township, Manlus Township, Overisel Township, Saugatuck Township, and Valley Township.
Berrien County, MI |  | Nonattainment |  | Marginal.
Berrien County.
Detroit, MI |  | Nonattainment |  | Marginal.
Livingston County.
Macomb County.
Monroe County.
Oakland County.
St. Clair County.
Washtenaw County.
Wayne County.
Muskegon County, MI |  | Nonattainment |  | Marginal.
Muskegon County (part):
Blue Lake Township, City of Montague, City of Muskegon, City of Muskegon Heights, City of North Muskegon, City of Roosevelt Park, City of Whitehall, Dalton Township, (incl. Village of Lakewood Club), Fruitland Township, Fruitport Township, (incl. Village of Fruitport) Laketon Township, Montague Township, Muskegon Township, Norton Shores Township, White River Township, and Whitehall Township.
Alcona County | 1/16/18 | Attainment/Unclassifiable
Allegan County (part) remainder |  | Attainment/Unclassifiable
Alger County | 1/16/18 | Attainment/Unclassifiable
Alpena County | 1/16/18 | Attainment/Unclassifiable
Antrim County | 1/16/18 | Attainment/Unclassifiable
Arenac County | 1/16/18 | Attainment/Unclassifiable
Baraga County | 1/16/18 | Attainment/Unclassifiable
Barry County |  | Attainment/Unclassifiable
Bay County | 1/16/18 | Attainment/Unclassifiable
Benzie County | 1/16/18 | Attainment/Unclassifiable
Branch County | 1/16/18 | Attainment/Unclassifiable
Calhoun County | 1/16/18 | Attainment/Unclassifiable
Cass County |  | Attainment/Unclassifiable
Charlevoix County | 1/16/18 | Attainment/Unclassifiable
Cheboygan County | 1/16/18 | Attainment/Unclassifiable
Chippewa County | 1/16/18 | Attainment/Unclassifiable
Clare County | 1/16/18 | Attainment/Unclassifiable
Clinton County | 1/16/18 | Attainment/Unclassifiable
Crawford County | 1/16/18 | Attainment/Unclassifiable
Delta County | 1/16/18 | Attainment/Unclassifiable
Dickinson County | 1/16/18 | Attainment/Unclassifiable
Eaton County | 1/16/18 | Attainment/Unclassifiable
Emmet County | 1/16/18 | Attainment/Unclassifiable
Genesee County |  | Attainment/Unclassifiable
Gladwin County | 1/16/18 | Attainment/Unclassifiable
Gogebic County | 1/16/18 | Attainment/Unclassifiable
Grand Traverse County | 1/16/18 | Attainment/Unclassifiable
Gratiot County | 1/16/18 | Attainment/Unclassifiable
Hillsdale County | 1/16/18 | Attainment/Unclassifiable
Houghton County | 1/16/18 | Attainment/Unclassifiable
Huron County | 1/16/18 | Attainment/Unclassifiable
Ingham County | 1/16/18 | Attainment/Unclassifiable
Ionia County |  | Attainment/Unclassifiable
Iosco County | 1/16/18 | Attainment/Unclassifiable
Iron County | 1/16/18 | Attainment/Unclassifiable
Isabella County | 1/16/18 | Attainment/Unclassifiable
Jackson County | 1/16/18 | Attainment/Unclassifiable
Kalamazoo County |  | Attainment/Unclassifiable
Kalkaska County | 1/16/18 | Attainment/Unclassifiable
Kent County |  | Attainment/Unclassifiable
Keweenaw County | 1/16/18 | Attainment/Unclassifiable
Lake County | 1/16/18 | Attainment/Unclassifiable
Lapeer County |  | Attainment/Unclassifiable
Leelanau County | 1/16/18 | Attainment/Unclassifiable
Lenawee County |  | Attainment/Unclassifiable
Luce County | 1/16/18 | Attainment/Unclassifiable
Mackinac County | 1/16/18 | Attainment/Unclassifiable
Manistee County | 1/16/18 | Attainment/Unclassifiable
Marquette County | 1/16/18 | Attainment/Unclassifiable
Mason County | 1/16/18 | Attainment/Unclassifiable
Mecosta County |  | Attainment/Unclassifiable
Menominee County | 1/16/18 | Attainment/Unclassifiable
Midland County | 1/16/18 | Attainment/Unclassifiable
Missaukee County | 1/16/18 | Attainment/Unclassifiable
Montcalm County |  | Attainment/Unclassifiable
Montmorency County | 1/16/18 | Attainment/Unclassifiable
Muskegon County (part) remainder |  | Attainment/Unclassifiable
Newaygo County |  | Attainment/Unclassifiable
Oceana County |  | Attainment/Unclassifiable
Ogemaw County | 1/16/18 | Attainment/Unclassifiable
Ontonagon County | 1/16/18 | Attainment/Unclassifiable
Osceola County | 1/16/18 | Attainment/Unclassifiable
Oscoda County | 1/16/18 | Attainment/Unclassifiable
Otsego County | 1/16/18 | Attainment/Unclassifiable
Ottawa County |  | Attainment/Unclassifiable
Presque Isle County | 1/16/18 | Attainment/Unclassifiable
Roscommon County | 1/16/18 | Attainment/Unclassifiable
Saginaw County | 1/16/18 | Attainment/Unclassifiable
St. Joseph County | 1/16/18 | Attainment/Unclassifiable
Schoolcraft County | 1/16/18 | Attainment/Unclassifiable
Sanilac County |  | Attainment/Unclassifiable
Shiawassee County | 1/16/18 | Attainment/Unclassifiable
Tuscola County | 1/16/18 | Attainment/Unclassifiable
Van Buren County |  | Attainment/Unclassifiable
Wexford County | 1/16/18 | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

18. Section 81.326 is amended by revising the table titled “Missouri—2015 8-Hour Ozone NAAQS (Primary and Secondary)” to read as follows:

§ 81.326 Missouri.

* * * * *

Missouri—2015 8-Hour Ozone NAAQS
[Primary and Secondary]
Designated area ¹ | Designation: Date ² | Designation: Type | Classification: Date ² | Classification: Type
St. Louis, MO-IL |  | Nonattainment |  | Marginal.
Franklin County (part):
Boles Township.
St. Charles County.
St. Louis County.
City of St. Louis.
Adair County | 1/16/18 | Attainment/Unclassifiable
Andrew County | 1/16/18 | Attainment/Unclassifiable
Atchison County | 1/16/18 | Attainment/Unclassifiable
Audrain County | 1/16/18 | Attainment/Unclassifiable
Barry County | 1/16/18 | Attainment/Unclassifiable
Barton County | 1/16/18 | Attainment/Unclassifiable
Bates County | 1/16/18 | Attainment/Unclassifiable
Benton County | 1/16/18 | Attainment/Unclassifiable
Bollinger County | 1/16/18 | Attainment/Unclassifiable
Boone County | 1/16/18 | Attainment/Unclassifiable
Buchanan County | 1/16/18 | Attainment/Unclassifiable
Butler County | 1/16/18 | Attainment/Unclassifiable
Caldwell County | 1/16/18 | Attainment/Unclassifiable
Callaway County | 1/16/18 | Attainment/Unclassifiable
Camden County | 1/16/18 | Attainment/Unclassifiable
Cape Girardeau County | 1/16/18 | Attainment/Unclassifiable
Carroll County | 1/16/18 | Attainment/Unclassifiable
Carter County | 1/16/18 | Attainment/Unclassifiable
Cass County | 1/16/18 | Attainment/Unclassifiable
Cedar County | 1/16/18 | Attainment/Unclassifiable
Chariton County | 1/16/18 | Attainment/Unclassifiable
Christian County | 1/16/18 | Attainment/Unclassifiable
Clark County | 1/16/18 | Attainment/Unclassifiable
Clay County | 1/16/18 | Attainment/Unclassifiable
Clinton County | 1/16/18 | Attainment/Unclassifiable
Cole County | 1/16/18 | Attainment/Unclassifiable
Cooper County | 1/16/18 | Attainment/Unclassifiable
Crawford County | 1/16/18 | Attainment/Unclassifiable
Dade County | 1/16/18 | Attainment/Unclassifiable
Dallas County | 1/16/18 | Attainment/Unclassifiable
Daviess County | 1/16/18 | Attainment/Unclassifiable
DeKalb County | 1/16/18 | Attainment/Unclassifiable
Dent County | 1/16/18 | Attainment/Unclassifiable
Douglas County | 1/16/18 | Attainment/Unclassifiable
Dunklin County | 1/16/18 | Attainment/Unclassifiable
Franklin County (part) remainder |  | Attainment/Unclassifiable
Gasconade County | 1/16/18 | Attainment/Unclassifiable
Gentry County | 1/16/18 | Attainment/Unclassifiable
Greene County | 1/16/18 | Attainment/Unclassifiable
Grundy County | 1/16/18 | Attainment/Unclassifiable
Harrison County | 1/16/18 | Attainment/Unclassifiable
Henry County | 1/16/18 | Attainment/Unclassifiable
Hickory County | 1/16/18 | Attainment/Unclassifiable
Holt County | 1/16/18 | Attainment/Unclassifiable
Howard County | 1/16/18 | Attainment/Unclassifiable
Howell County | 1/16/18 | Attainment/Unclassifiable
Iron County | 1/16/18 | Attainment/Unclassifiable
Jackson County | 1/16/18 | Attainment/Unclassifiable
Jasper County | 1/16/18 | Attainment/Unclassifiable
Jefferson County |  | Attainment/Unclassifiable
Johnson County | 1/16/18 | Attainment/Unclassifiable
Knox County | 1/16/18 | Attainment/Unclassifiable
Laclede County | 1/16/18 | Attainment/Unclassifiable
Lafayette County | 1/16/18 | Attainment/Unclassifiable
Lawrence County | 1/16/18 | Attainment/Unclassifiable
Lewis County | 1/16/18 | Attainment/Unclassifiable
Lincoln County |  | Attainment/Unclassifiable
Linn County | 1/16/18 | Attainment/Unclassifiable
Livingston County | 1/16/18 | Attainment/Unclassifiable
McDonald County | 1/16/18 | Attainment/Unclassifiable
Macon County | 1/16/18 | Attainment/Unclassifiable
Madison County | 1/16/18 | Attainment/Unclassifiable
Maries County | 1/16/18 | Attainment/Unclassifiable
Marion County | 1/16/18 | Attainment/Unclassifiable
Mercer County | 1/16/18 | Attainment/Unclassifiable
Miller County | 1/16/18 | Attainment/Unclassifiable
Mississippi County | 1/16/18 | Attainment/Unclassifiable
Moniteau County | 1/16/18 | Attainment/Unclassifiable
Monroe County | 1/16/18 | Attainment/Unclassifiable
Montgomery County | 1/16/18 | Attainment/Unclassifiable
Morgan County | 1/16/18 | Attainment/Unclassifiable
New Madrid County | 1/16/18 | Attainment/Unclassifiable
Newton County | 1/16/18 | Attainment/Unclassifiable
Nodaway County | 1/16/18 | Attainment/Unclassifiable
Oregon County | 1/16/18 | Attainment/Unclassifiable
Osage County | 1/16/18 | Attainment/Unclassifiable
Ozark County | 1/16/18 | Attainment/Unclassifiable
Pemiscot County | 1/16/18 | Attainment/Unclassifiable
Perry County | 1/16/18 | Attainment/Unclassifiable
Pettis County | 1/16/18 | Attainment/Unclassifiable
Phelps County | 1/16/18 | Attainment/Unclassifiable
Pike County | 1/16/18 | Attainment/Unclassifiable
Platte County | 1/16/18 | Attainment/Unclassifiable
Polk County | 1/16/18 | Attainment/Unclassifiable
Pulaski County | 1/16/18 | Attainment/Unclassifiable
Putnam County | 1/16/18 | Attainment/Unclassifiable
Ralls County | 1/16/18 | Attainment/Unclassifiable
Randolph County | 1/16/18 | Attainment/Unclassifiable
Ray County | 1/16/18 | Attainment/Unclassifiable
Reynolds County | 1/16/18 | Attainment/Unclassifiable
Ripley County | 1/16/18 | Attainment/Unclassifiable
St. Clair County | 1/16/18 | Attainment/Unclassifiable
St. Francois County |  | Attainment/Unclassifiable
Ste. Genevieve County | 1/16/18 | Attainment/Unclassifiable
Saline County | 1/16/18 | Attainment/Unclassifiable
Schuyler County | 1/16/18 | Attainment/Unclassifiable
Scotland County | 1/16/18 | Attainment/Unclassifiable
Scott County | 1/16/18 | Attainment/Unclassifiable
Shannon County | 1/16/18 | Attainment/Unclassifiable
Shelby County | 1/16/18 | Attainment/Unclassifiable
Stoddard County | 1/16/18 | Attainment/Unclassifiable
Stone County | 1/16/18 | Attainment/Unclassifiable
Sullivan County | 1/16/18 | Attainment/Unclassifiable
Taney County | 1/16/18 | Attainment/Unclassifiable
Texas County | 1/16/18 | Attainment/Unclassifiable
Vernon County | 1/16/18 | Attainment/Unclassifiable
Warren County |  | Attainment/Unclassifiable
Washington County | 1/16/18 | Attainment/Unclassifiable
Wayne County | 1/16/18 | Attainment/Unclassifiable
Webster County | 1/16/18 | Attainment/Unclassifiable
Worth County | 1/16/18 | Attainment/Unclassifiable
Wright County | 1/16/18 | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

19. Section 81.329 is amended by revising the table titled “Nevada—2015 8-Hour Ozone NAAQS (Primary and Secondary)” to read as follows:

§ 81.329 Nevada.

* * * * *

Nevada—2015 8-Hour Ozone NAAQS
[Primary and Secondary]
Designated area ¹ | Designation: Date ² | Designation: Type | Classification: Date ² | Classification: Type
Las Vegas, NV |  | Nonattainment |  | Marginal.
Clark County (part):
That portion of Clark County that lies in hydrographic area 212.³
Las Vegas Tribe of Paiute Indians of the Las Vegas Indian Colony.
Rest of State |  | Attainment/Unclassifiable
Carson City.
Churchill County | 1/16/18
Clark County (part) remainder.
Douglas County.
Elko County | 1/16/18
Esmeralda County | 1/16/18
Eureka County | 1/16/18
Humboldt County | 1/16/18
Lander County | 1/16/18
Lincoln County.
Lyon County | 1/16/18
Mineral County | 1/16/18
Nye County.
Pershing County | 1/16/18
Storey County | 1/16/18
Washoe County.
White Pine County | 1/16/18
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.
³ Hydrographic areas are shown on the State of Nevada Division of Water Resources' map titled Water Resources and Inter-basin Flows (September 1971).

* * * * *

20. Section 81.331 is amended by adding a new table titled “New Jersey—2015 8-Hour Ozone NAAQS (Primary and Secondary)” following the table titled “New Jersey—2008 8-Hour Ozone NAAQS (Primary and Secondary)” to read as follows:

§ 81.331 New Jersey.

* * * * *

New Jersey—2015 8-Hour Ozone NAAQS
[Primary and Secondary]
Designated area ¹ | Designation: Date ² | Designation: Type | Classification: Date ² | Classification: Type
New York-Northern New Jersey-Long Island, NY-NJ-CT |  | Nonattainment |  | Moderate.
Bergen County.
Essex County.
Hudson County.
Hunterdon County.
Middlesex County.
Monmouth County.
Morris County.
Passaic County.
Somerset County.
Sussex County.
Union County.
Warren County.
Philadelphia-Wilmington-Atlantic City, PA-NJ-MD-DE |  | Nonattainment |  | Marginal.
Atlantic County.
Burlington County.
Camden County.
Cape May County.
Cumberland County.
Gloucester County.
Mercer County.
Ocean County.
Salem County.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

21. Section 81.332 is amended by revising the table titled “New Mexico—2015 8-Hour Ozone NAAQS (Primary and Secondary)” to read as follows:

§ 81.332 New Mexico.

* * * * *

New Mexico—2015 8-Hour Ozone NAAQS
[Primary and Secondary]
Designated area ¹ | Designation: Date ² | Designation: Type | Classification: Date ² | Classification: Type
Doña Ana County (Sunland Park Area), NM |  | Nonattainment |  | Marginal.
Doña Ana County (part):
The area bounded on the New Mexico-Texas state line on the east, the New Mexico-Mexico international line on the south, latitude N31°49′30″ on the north, and longitude W106°36′36″ on the west.
Rest of State:
Bernalillo County | 1/16/18 | Attainment/Unclassifiable
Catron County | 1/16/18 | Attainment/Unclassifiable
Chaves County | 1/16/18 | Attainment/Unclassifiable
Cibola County | 1/16/18 | Attainment/Unclassifiable
Colfax County | 1/16/18 | Attainment/Unclassifiable
Curry County | 1/16/18 | Attainment/Unclassifiable
Doña Ana County (part) remainder |  | Attainment/Unclassifiable
De Baca County | 1/16/18 | Attainment/Unclassifiable
Eddy County | 1/16/18 | Attainment/Unclassifiable
Grant County | 1/16/18 | Attainment/Unclassifiable
Guadalupe County | 1/16/18 | Attainment/Unclassifiable
Harding County | 1/16/18 | Attainment/Unclassifiable
Hidalgo County | 1/16/18 | Attainment/Unclassifiable
Lea County | 1/16/18 | Attainment/Unclassifiable
Lincoln County | 1/16/18 | Attainment/Unclassifiable
Los Alamos County | 1/16/18 | Attainment/Unclassifiable
Luna County |  | Attainment/Unclassifiable
McKinley County | 1/16/18 | Attainment/Unclassifiable
Mora County | 1/16/18 | Attainment/Unclassifiable
Otero County |  | Attainment/Unclassifiable
Quay County | 1/16/18 | Attainment/Unclassifiable
Rio Arriba County | 1/16/18 | Attainment/Unclassifiable
Roosevelt County | 1/16/18 | Attainment/Unclassifiable
Sandoval County | 1/16/18 | Attainment/Unclassifiable
San Juan County | 1/16/18 | Attainment/Unclassifiable
San Miguel County | 1/16/18 | Attainment/Unclassifiable
Santa Fe County | 1/16/18 | Attainment/Unclassifiable
Sierra County |  | Attainment/Unclassifiable
Socorro County | 1/16/18 | Attainment/Unclassifiable
Taos County | 1/16/18 | Attainment/Unclassifiable
Torrance County | 1/16/18 | Attainment/Unclassifiable
Union County | 1/16/18 | Attainment/Unclassifiable
Valencia County | 1/16/18 | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

22. Section 81.333 is amended by revising the table titled “New York—2015 8-Hour Ozone NAAQS (Primary and Secondary)” to read as follows:

§ 81.333 New York.

* * * * *

New York—2015 8-Hour Ozone NAAQS
[Primary and Secondary]
Designated area ¹ | Designation: Date ² | Designation: Type | Classification: Date ² | Classification: Type
New York-Northern New Jersey-Long Island, NY-NJ-CT |  | Nonattainment |  | Moderate.
Bronx County.
Kings County.
Nassau County.
New York County.
Queens County.
Richmond County.
Rockland County.
Suffolk County.
Westchester County.
Poughkeepsie Area, NY |  | Attainment/Unclassifiable
Dutchess County.
Orange County.
Putnam County.
Kingston Area, NY |  | Attainment/Unclassifiable
Ulster County.
Albany County | 1/16/18 | Attainment/Unclassifiable
Allegany County | 1/16/18 | Attainment/Unclassifiable
Broome County | 1/16/18 | Attainment/Unclassifiable
Cattaraugus County | 1/16/18 | Attainment/Unclassifiable
Cayuga County | 1/16/18 | Attainment/Unclassifiable
Chautauqua County | 1/16/18 | Attainment/Unclassifiable
Chemung County | 1/16/18 | Attainment/Unclassifiable
Chenango County | 1/16/18 | Attainment/Unclassifiable
Clinton County | 1/16/18 | Attainment/Unclassifiable
Columbia County | 1/16/18 | Attainment/Unclassifiable
Cortland County | 1/16/18 | Attainment/Unclassifiable
Delaware County | 1/16/18 | Attainment/Unclassifiable
Erie County | 1/16/18 | Attainment/Unclassifiable
Essex County | 1/16/18 | Attainment/Unclassifiable
Franklin County | 1/16/18 | Attainment/Unclassifiable
Fulton County | 1/16/18 | Attainment/Unclassifiable
Genesee County | 1/16/18 | Attainment/Unclassifiable
Greene County | 1/16/18 | Attainment/Unclassifiable
Hamilton County | 1/16/18 | Attainment/Unclassifiable
Herkimer County | 1/16/18 | Attainment/Unclassifiable
Jefferson County | 1/16/18 | Attainment/Unclassifiable
Lewis County | 1/16/18 | Attainment/Unclassifiable
Livingston County | 1/16/18 | Attainment/Unclassifiable
Madison County | 1/16/18 | Attainment/Unclassifiable
Monroe County | 1/16/18 | Attainment/Unclassifiable
Montgomery County | 1/16/18 | Attainment/Unclassifiable
Niagara County | 1/16/18 | Attainment/Unclassifiable
Oneida County | 1/16/18 | Attainment/Unclassifiable
Onondaga County | 1/16/18 | Attainment/Unclassifiable
Ontario County | 1/16/18 | Attainment/Unclassifiable
Orleans County | 1/16/18 | Attainment/Unclassifiable
Oswego County | 1/16/18 | Attainment/Unclassifiable
Otsego County | 1/16/18 | Attainment/Unclassifiable
Rensselaer County | 1/16/18 | Attainment/Unclassifiable
St. Lawrence County | 1/16/18 | Attainment/Unclassifiable
Saratoga County | 1/16/18 | Attainment/Unclassifiable
Schenectady County | 1/16/18 | Attainment/Unclassifiable
Schoharie County | 1/16/18 | Attainment/Unclassifiable
Schuyler County | 1/16/18 | Attainment/Unclassifiable
Seneca County | 1/16/18 | Attainment/Unclassifiable
Steuben County | 1/16/18 | Attainment/Unclassifiable
Sullivan County | 1/16/18 | Attainment/Unclassifiable
Tioga County | 1/16/18 | Attainment/Unclassifiable
Tompkins County | 1/16/18 | Attainment/Unclassifiable
Warren County | 1/16/18 | Attainment/Unclassifiable
Washington County | 1/16/18 | Attainment/Unclassifiable
Wayne County | 1/16/18 | Attainment/Unclassifiable
Wyoming County | 1/16/18 | Attainment/Unclassifiable
Yates County | 1/16/18 | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

23. Section 81.336 is amended by revising the table titled “Ohio—2015 8-Hour Ozone NAAQS (Primary and Secondary)” to read as follows:

§ 81.336 Ohio.

* * * * *

Ohio—2015 8-Hour Ozone NAAQS
[Primary and Secondary]
Designated area ¹ | Designation: Date ² | Designation: Type | Classification: Date ² | Classification: Type
Cincinnati, OH-KY |  | Nonattainment |  | Marginal.
Butler County.
Clermont County.
Hamilton County.
Warren County.
Cleveland, OH |  | Nonattainment |  | Marginal.
Cuyahoga County.
Geauga County.
Lake County.
Lorain County.
Medina County.
Portage County.
Summit County.
Columbus, OH |  | Nonattainment |  | Marginal.
Delaware County.
Fairfield County.
Franklin County.
Licking County.
Adams County | 1/16/18 | Attainment/Unclassifiable
Allen County | 1/16/18 | Attainment/Unclassifiable
Ashland County | 1/16/18 | Attainment/Unclassifiable
Ashtabula County |  | Attainment/Unclassifiable
Athens County | 1/16/18 | Attainment/Unclassifiable
Auglaize County | 1/16/18 | Attainment/Unclassifiable
Belmont County | 1/16/18 | Attainment/Unclassifiable
Brown County |  | Attainment/Unclassifiable
Champaign County | 1/16/18 | Attainment/Unclassifiable
Clark County | 1/16/18 | Attainment/Unclassifiable
Clinton County |  | Attainment/Unclassifiable
Columbiana County | 1/16/18 | Attainment/Unclassifiable
Coshocton County | 1/16/18 | Attainment/Unclassifiable
Crawford County | 1/16/18 | Attainment/Unclassifiable
Darke County | 1/16/18 | Attainment/Unclassifiable
Defiance County | 1/16/18 | Attainment/Unclassifiable
Erie County |  | Attainment/Unclassifiable
Fayette County |  | Attainment/Unclassifiable
Fulton County | 1/16/18 | Attainment/Unclassifiable
Gallia County | 1/16/18 | Attainment/Unclassifiable
Greene County |  | Attainment/Unclassifiable
Guernsey County |  | Attainment/Unclassifiable
Hancock County | 1/16/18 | Attainment/Unclassifiable
Hardin County | 1/16/18 | Attainment/Unclassifiable
Harrison County | 1/16/18 | Attainment/Unclassifiable
Henry County | 1/16/18 | Attainment/Unclassifiable
Highland County | 1/16/18 | Attainment/Unclassifiable
Hocking County |  | Attainment/Unclassifiable
Holmes County | 1/16/18 | Attainment/Unclassifiable
Huron County |  | Attainment/Unclassifiable
Jackson County | 1/16/18 | Attainment/Unclassifiable
Jefferson County | 1/16/18 | Attainment/Unclassifiable
Knox County |  | Attainment/Unclassifiable
Lawrence County | 1/16/18 | Attainment/Unclassifiable
Logan County |  | Attainment/Unclassifiable
Lucas County | 1/16/18 | Attainment/Unclassifiable
Madison County |  | Attainment/Unclassifiable
Mahoning County | 1/16/18 | Attainment/Unclassifiable
Marion County |  | Attainment/Unclassifiable
Meigs County | 1/16/18 | Attainment/Unclassifiable
Mercer County | 1/16/18 | Attainment/Unclassifiable
Miami County | 1/16/18 | Attainment/Unclassifiable
Monroe County | 1/16/18 | Attainment/Unclassifiable
Montgomery County |  | Attainment/Unclassifiable
Morgan County | 1/16/18 | Attainment/Unclassifiable
Morrow County |  | Attainment/Unclassifiable
Muskingum County |  | Attainment/Unclassifiable
Noble County | 1/16/18 | Attainment/Unclassifiable
Ottawa County | 1/16/18 | Attainment/Unclassifiable
Paulding County | 1/16/18 | Attainment/Unclassifiable
Perry County |  | Attainment/Unclassifiable
Pickaway County |  | Attainment/Unclassifiable
Pike County | 1/16/18 | Attainment/Unclassifiable
Preble County |  | Attainment/Unclassifiable
Putnam County | 1/16/18 | Attainment/Unclassifiable
Richland County | 1/16/18 | Attainment/Unclassifiable
Ross County |  | Attainment/Unclassifiable
Sandusky County | 1/16/18 | Attainment/Unclassifiable
Scioto County | 1/16/18 | Attainment/Unclassifiable
Seneca County | 1/16/18 | Attainment/Unclassifiable
Shelby County | 1/16/18 | Attainment/Unclassifiable
Stark County |  | Attainment/Unclassifiable
Trumbull County |  | Attainment/Unclassifiable
Tuscarawas County |  | Attainment/Unclassifiable
Union County |  | Attainment/Unclassifiable
Vinton County | 1/16/18 | Attainment/Unclassifiable
Washington County | 1/16/18 | Attainment/Unclassifiable
Wayne County | 1/16/18 | Attainment/Unclassifiable
Williams County | 1/16/18 | Attainment/Unclassifiable
Wood County | 1/16/18 | Attainment/Unclassifiable
Wyandot County | 1/16/18 | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

24. Section 81.337 is amended by revising the table titled “Oklahoma—2015 8-Hour Ozone NAAQS (Primary and Secondary)” to read as follows:

§ 81.337 Oklahoma.

* * * * *

Oklahoma—2015 8-Hour Ozone NAAQS
[Primary and Secondary]
Designated area ¹ | Designation: Date ² | Designation: Type | Classification: Date ² | Classification: Type
Adair County | 1/16/18 | Attainment/Unclassifiable
Alfalfa County | 1/16/18 | Attainment/Unclassifiable
Atoka County | 1/16/18 | Attainment/Unclassifiable
Beaver County | 1/16/18 | Attainment/Unclassifiable
Beckham County | 1/16/18 | Attainment/Unclassifiable
Blaine County | 1/16/18 | Attainment/Unclassifiable
Bryan County |  | Attainment/Unclassifiable
Caddo County | 1/16/18 | Attainment/Unclassifiable
Canadian County | 1/16/18 | Attainment/Unclassifiable
Carter County | 1/16/18 | Attainment/Unclassifiable
Cherokee County | 1/16/18 | Attainment/Unclassifiable
Choctaw County | 1/16/18 | Attainment/Unclassifiable
Cimarron County | 1/16/18 | Attainment/Unclassifiable
Cleveland County | 1/16/18 | Attainment/Unclassifiable
Coal County | 1/16/18 | Attainment/Unclassifiable
Comanche County | 1/16/18 | Attainment/Unclassifiable
Cotton County | 1/16/18 | Attainment/Unclassifiable
Craig County | 1/16/18 | Attainment/Unclassifiable
Creek County | 1/16/18 | Attainment/Unclassifiable
Custer County | 1/16/18 | Attainment/Unclassifiable
Delaware County | 1/16/18 | Attainment/Unclassifiable
Dewey County | 1/16/18 | Attainment/Unclassifiable
Ellis County | 1/16/18 | Attainment/Unclassifiable
Garfield County | 1/16/18 | Attainment/Unclassifiable
Garvin County | 1/16/18 | Attainment/Unclassifiable
Grady County | 1/16/18 | Attainment/Unclassifiable
Grant County | 1/16/18 | Attainment/Unclassifiable
Greer County | 1/16/18 | Attainment/Unclassifiable
Harmon County | 1/16/18 | Attainment/Unclassifiable
Harper County | 1/16/18 | Attainment/Unclassifiable
Haskell County | 1/16/18 | Attainment/Unclassifiable
Hughes County | 1/16/18 | Attainment/Unclassifiable
Jackson County | 1/16/18 | Attainment/Unclassifiable
Jefferson County | 1/16/18 | Attainment/Unclassifiable
Johnston County | 1/16/18 | Attainment/Unclassifiable
Kay County | 1/16/18 | Attainment/Unclassifiable
Kingfisher County | 1/16/18 | Attainment/Unclassifiable
Kiowa County | 1/16/18 | Attainment/Unclassifiable
Latimer County | 1/16/18 | Attainment/Unclassifiable
Le Flore County | 1/16/18 | Attainment/Unclassifiable
Lincoln County | 1/16/18 | Attainment/Unclassifiable
Logan County | 1/16/18 | Attainment/Unclassifiable
Love County | 1/16/18 | Attainment/Unclassifiable
McClain County | 1/16/18 | Attainment/Unclassifiable
McCurtain County | 1/16/18 | Attainment/Unclassifiable
McIntosh County | 1/16/18 | Attainment/Unclassifiable
Major County | 1/16/18 | Attainment/Unclassifiable
Marshall County | 1/16/18 | Attainment/Unclassifiable
Mayes County | 1/16/18 | Attainment/Unclassifiable
Murray County | 1/16/18 | Attainment/Unclassifiable
Muskogee County | 1/16/18 | Attainment/Unclassifiable
Noble County | 1/16/18 | Attainment/Unclassifiable
Nowata County | 1/16/18 | Attainment/Unclassifiable
Okfuskee County | 1/16/18 | Attainment/Unclassifiable
Oklahoma County | 1/16/18 | Attainment/Unclassifiable
Okmulgee County | 1/16/18 | Attainment/Unclassifiable
Osage County | 1/16/18 | Attainment/Unclassifiable
Ottawa County | 1/16/18 | Attainment/Unclassifiable
Pawnee County | 1/16/18 | Attainment/Unclassifiable
Payne County | 1/16/18 | Attainment/Unclassifiable
Pittsburg County | 1/16/18 | Attainment/Unclassifiable
Pontotoc County | 1/16/18 | Attainment/Unclassifiable
Pottawatomie County | 1/16/18 | Attainment/Unclassifiable
Pushmataha County | 1/16/18 | Attainment/Unclassifiable
Roger Mills County | 1/16/18 | Attainment/Unclassifiable
Rogers County | 1/16/18 | Attainment/Unclassifiable
Seminole County | 1/16/18 | Attainment/Unclassifiable
Sequoyah County | 1/16/18 | Attainment/Unclassifiable
Stephens County | 1/16/18 | Attainment/Unclassifiable
Texas County | 1/16/18 | Attainment/Unclassifiable
Tillman County | 1/16/18 | Attainment/Unclassifiable
Tulsa County | 1/16/18 | Attainment/Unclassifiable
Wagoner County | 1/16/18 | Attainment/Unclassifiable
Washington County | 1/16/18 | Attainment/Unclassifiable
Washita County | 1/16/18 | Attainment/Unclassifiable
Woods County | 1/16/18 | Attainment/Unclassifiable
Woodward County | 1/16/18 | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

25. Section 81.338 is amended by revising the table titled “Oregon—2015 8-Hour Ozone NAAQS (Primary and Secondary)” to read as follows:

§ 81.338 Oregon.

* * * * *

Oregon—2015 8-Hour Ozone NAAQS
[Primary and Secondary]
Designated area ¹ | Designation: Date ² | Designation: Type | Classification: Date ² | Classification: Type
Baker County | 1/16/18 | Attainment/Unclassifiable
Benton County |  | Attainment/Unclassifiable
Clackamas County |  | Attainment/Unclassifiable
Clatsop County | 1/16/18 | Attainment/Unclassifiable
Columbia County |  | Attainment/Unclassifiable
Coos County | 1/16/18 | Attainment/Unclassifiable
Crook County | 1/16/18 | Attainment/Unclassifiable
Curry County | 1/16/18 | Attainment/Unclassifiable
Deschutes County | 1/16/18 | Attainment/Unclassifiable
Douglas County | 1/16/18 | Attainment/Unclassifiable
Gilliam County | 1/16/18 | Attainment/Unclassifiable
Grant County | 1/16/18 | Attainment/Unclassifiable
Harney County | 1/16/18 | Attainment/Unclassifiable
Hood River County | 1/16/18 | Attainment/Unclassifiable
Jackson County | 1/16/18 | Attainment/Unclassifiable
Jefferson County | 1/16/18 | Attainment/Unclassifiable
Josephine County | 1/16/18 | Attainment/Unclassifiable
Klamath County | 1/16/18 | Attainment/Unclassifiable
Lake County | 1/16/18 | Attainment/Unclassifiable
Lane County | 1/16/18 | Attainment/Unclassifiable
Lincoln County | 1/16/18 | Attainment/Unclassifiable
Linn County |  | Attainment/Unclassifiable
Malheur County | 1/16/18 | Attainment/Unclassifiable
Marion County |  | Attainment/Unclassifiable
Morrow County | 1/16/18 | Attainment/Unclassifiable
Multnomah County |  | Attainment/Unclassifiable
Polk County |  | Attainment/Unclassifiable
Sherman County | 1/16/18 | Attainment/Unclassifiable
Tillamook County | 1/16/18 | Attainment/Unclassifiable
Umatilla County | 1/16/18 | Attainment/Unclassifiable
Union County | 1/16/18 | Attainment/Unclassifiable
Wallowa County | 1/16/18 | Attainment/Unclassifiable
Wasco County | 1/16/18 | Attainment/Unclassifiable
Washington County |  | Attainment/Unclassifiable
Wheeler County | 1/16/18 | Attainment/Unclassifiable
Yamhill County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

26. Section 81.339 is amended by revising the table titled “Pennsylvania—2015 8-Hour Ozone NAAQS (Primary and Secondary)” to read as follows:

§ 81.339 Pennsylvania.

* * * * *

Pennsylvania—2015 8-Hour Ozone NAAQS
[Primary and Secondary]
Designated area ¹ | Designation: Date ² | Designation: Type | Classification: Date ² | Classification: Type
Philadelphia-Wilmington-Atlantic City, PA-NJ-MD-DE |  | Nonattainment |  | Marginal.
Bucks County.
Chester County.
Delaware County.
Montgomery County.
Philadelphia County.
Adams County |  | Attainment/Unclassifiable
Allegheny County | 1/16/18 | Attainment/Unclassifiable
Armstrong County | 1/16/18 | Attainment/Unclassifiable
Beaver County | 1/16/18 | Attainment/Unclassifiable
Bedford County | 1/16/18 | Attainment/Unclassifiable
Berks County |  | Attainment/Unclassifiable
Blair County | 1/16/18 | Attainment/Unclassifiable
Bradford County | 1/16/18 | Attainment/Unclassifiable
Butler County | 1/16/18 | Attainment/Unclassifiable
Cambria County | 1/16/18 | Attainment/Unclassifiable
Cameron County | 1/16/18 | Attainment/Unclassifiable
Centre County | 1/16/18 | Attainment/Unclassifiable
Clarion County | 1/16/18 | Attainment/Unclassifiable
Clearfield County | 1/16/18 | Attainment/Unclassifiable
Clinton County | 1/16/18 | Attainment/Unclassifiable
Columbia County | 1/16/18 | Attainment/Unclassifiable
Crawford County | 1/16/18 | Attainment/Unclassifiable
Cumberland County |  | Attainment/Unclassifiable
Dauphin County |  | Attainment/Unclassifiable
Elk County | 1/16/18 | Attainment/Unclassifiable
Erie County | 1/16/18 | Attainment/Unclassifiable
Fayette County | 1/16/18 | Attainment/Unclassifiable
Forest County | 1/16/18 | Attainment/Unclassifiable
Franklin County |  | Attainment/Unclassifiable
Fulton County | 1/16/18 | Attainment/Unclassifiable
Greene County | 1/16/18 | Attainment/Unclassifiable
Huntingdon County | 1/16/18 | Attainment/Unclassifiable
Indiana County | 1/16/18 | Attainment/Unclassifiable
Jefferson County | 1/16/18 | Attainment/Unclassifiable
Juniata County | 1/16/18 | Attainment/Unclassifiable
Lackawanna County | 1/16/18 | Attainment/Unclassifiable
Lancaster County |  | Attainment/Unclassifiable
Lawrence County | 1/16/18 | Attainment/Unclassifiable
Lebanon County |  | Attainment/Unclassifiable
Luzerne County | 1/16/18 | Attainment/Unclassifiable
Lycoming County | 1/16/18 | Attainment/Unclassifiable
McKean County | 1/16/18 | Attainment/Unclassifiable
Mercer County | 1/16/18 | Attainment/Unclassifiable
Mifflin County | 1/16/18 | Attainment/Unclassifiable
Montour County | 1/16/18 | Attainment/Unclassifiable
Northumberland County | 1/16/18 | Attainment/Unclassifiable
Perry County |  | Attainment/Unclassifiable
Potter County | 1/16/18 | Attainment/Unclassifiable
Schuylkill County |  | Attainment/Unclassifiable
Snyder County | 1/16/18 | Attainment/Unclassifiable
Somerset County | 1/16/18 | Attainment/Unclassifiable
Sullivan County | 1/16/18 | Attainment/Unclassifiable
Susquehanna County | 1/16/18 | Attainment/Unclassifiable
Tioga County | 1/16/18 | Attainment/Unclassifiable
Union County | 1/16/18 | Attainment/Unclassifiable
Venango County | 1/16/18 | Attainment/Unclassifiable
Warren County | 1/16/18 | Attainment/Unclassifiable
Washington County | 1/16/18 | Attainment/Unclassifiable
Wayne County | 1/16/18 | Attainment/Unclassifiable
Westmoreland County | 1/16/18 | Attainment/Unclassifiable
Wyoming County | 1/16/18 | Attainment/Unclassifiable
York County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

27. Section 81.340 is amended by revising the table titled “Rhode Island—2015 8-Hour Ozone NAAQS (Primary and Secondary)” to read as follows:

§ 81.340 Rhode Island.

* * * * *

Rhode Island—2015 8-Hour Ozone NAAQS
[Primary and Secondary]
Designated area ¹ | Designation: Date ² | Designation: Type | Classification: Date ² | Classification: Type
Bristol County | 1/16/18 | Attainment/Unclassifiable
Kent County |  | Attainment/Unclassifiable
Newport County | 1/16/18 | Attainment/Unclassifiable
Providence County | 1/16/18 | Attainment/Unclassifiable
Washington County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

28. Section 81.344 is amended by revising the table titled “Texas—2015 8-Hour Ozone NAAQS (Primary and Secondary)” to read as follows:

§ 81.344 Texas.

* * * * *

Texas—2015 8-Hour Ozone NAAQS (Primary and Secondary)
Designated area ¹ | Designation: Date ² | Designation: Type | Classification: Date ² | Classification: Type
Dallas-Fort Worth, TX |  | Nonattainment |  | Marginal.
Collin County.
Dallas County.
Denton County.
Ellis County.
Johnson County.
Kaufman County.
Parker County.
Tarrant County.
Wise County.
Houston-Galveston-Brazoria, TX |  | Nonattainment |  | Marginal.
Brazoria County.
Chambers County.
Fort Bend County.
Galveston County.
Harris County.
Montgomery County.
Rest of State:
Anderson County | 1/16/18 | Attainment/Unclassifiable
Andrews County | 1/16/18 | Attainment/Unclassifiable
Angelina County | 1/16/18 | Attainment/Unclassifiable
Aransas County | 1/16/18 | Attainment/Unclassifiable
Archer County | 1/16/18 | Attainment/Unclassifiable
Armstrong County | 1/16/18 | Attainment/Unclassifiable
Austin County |  | Attainment/Unclassifiable
Bailey County | 1/16/18 | Attainment/Unclassifiable
Bastrop County | 1/16/18 | Attainment/Unclassifiable
Baylor County | 1/16/18 | Attainment/Unclassifiable
Bee County | 1/16/18 | Attainment/Unclassifiable
Bell County | 1/16/18 | Attainment/Unclassifiable
Blanco County | 1/16/18 | Attainment/Unclassifiable
Borden County | 1/16/18 | Attainment/Unclassifiable
Bosque County |  | Attainment/Unclassifiable
Bowie County | 1/16/18 | Attainment/Unclassifiable
Brazos County | 1/16/18 | Attainment/Unclassifiable
Brewster County | 1/16/18 | Attainment/Unclassifiable
Briscoe County | 1/16/18 | Attainment/Unclassifiable
Brooks County | 1/16/18 | Attainment/Unclassifiable
Brown County | 1/16/18 | Attainment/Unclassifiable
Burleson County | 1/16/18 | Attainment/Unclassifiable
Burnet County | 1/16/18 | Attainment/Unclassifiable
Caldwell County | 1/16/18 | Attainment/Unclassifiable
Calhoun County | 1/16/18 | Attainment/Unclassifiable
Callahan County | 1/16/18 | Attainment/Unclassifiable
Cameron County | 1/16/18 | Attainment/Unclassifiable
Camp County | 1/16/18 | Attainment/Unclassifiable
Carson County | 1/16/18 | Attainment/Unclassifiable
Cass County | 1/16/18 | Attainment/Unclassifiable
Castro County | 1/16/18 | Attainment/Unclassifiable
Cherokee County | 1/16/18 | Attainment/Unclassifiable
Childress County | 1/16/18 | Attainment/Unclassifiable
Clay County | 1/16/18 | Attainment/Unclassifiable
Cochran County | 1/16/18 | Attainment/Unclassifiable
Coke County | 1/16/18 | Attainment/Unclassifiable
Coleman County | 1/16/18 | Attainment/Unclassifiable
Collingsworth County | 1/16/18 | Attainment/Unclassifiable
Colorado County | 1/16/18 | Attainment/Unclassifiable
Comanche County | 1/16/18 | Attainment/Unclassifiable
Concho County | 1/16/18 | Attainment/Unclassifiable
Coryell County | 1/16/18 | Attainment/Unclassifiable
Cooke County |  | Attainment/Unclassifiable
Cottle County | 1/16/18 | Attainment/Unclassifiable
Crane County | 1/16/18 | Attainment/Unclassifiable
Crockett County | 1/16/18 | Attainment/Unclassifiable
Crosby County | 1/16/18 | Attainment/Unclassifiable
Culberson County | 1/16/18 | Attainment/Unclassifiable
Dallam County | 1/16/18 | Attainment/Unclassifiable
Dawson County | 1/16/18 | Attainment/Unclassifiable
Deaf Smith County | 1/16/18 | Attainment/Unclassifiable
Delta County | 1/16/18 | Attainment/Unclassifiable
DeWitt County | 1/16/18 | Attainment/Unclassifiable
Dickens County | 1/16/18 | Attainment/Unclassifiable
Dimmit County | 1/16/18 | Attainment/Unclassifiable
Donley County | 1/16/18 | Attainment/Unclassifiable
Duval County | 1/16/18 | Attainment/Unclassifiable
Eastland County | 1/16/18 | Attainment/Unclassifiable
Ector County | 1/16/18 | Attainment/Unclassifiable
Edwards County | 1/16/18 | Attainment/Unclassifiable
El Paso County |  | Attainment/Unclassifiable
Erath County | 1/16/18 | Attainment/Unclassifiable
Falls County | 1/16/18 | Attainment/Unclassifiable
Fannin County |  | Attainment/Unclassifiable
Fayette County | 1/16/18 | Attainment/Unclassifiable
Fisher County | 1/16/18 | Attainment/Unclassifiable
Floyd County | 1/16/18 | Attainment/Unclassifiable
Foard County | 1/16/18 | Attainment/Unclassifiable
Franklin County | 1/16/18 | Attainment/Unclassifiable
Freestone County | 1/16/18 | Attainment/Unclassifiable
Frio County | 1/16/18 | Attainment/Unclassifiable
Gaines County | 1/16/18 | Attainment/Unclassifiable
Garza County | 1/16/18 | Attainment/Unclassifiable
Gillespie County | 1/16/18 | Attainment/Unclassifiable
Glasscock County | 1/16/18 | Attainment/Unclassifiable
Goliad County | 1/16/18 | Attainment/Unclassifiable
Gonzales County | 1/16/18 | Attainment/Unclassifiable
Gray County | 1/16/18 | Attainment/Unclassifiable
Grayson County |  | Attainment/Unclassifiable
Gregg County | 1/16/18 | Attainment/Unclassifiable
Grimes County |  | Attainment/Unclassifiable
Hale County | 1/16/18 | Attainment/Unclassifiable
Hall County | 1/16/18 | Attainment/Unclassifiable
Hamilton County | 1/16/18 | Attainment/Unclassifiable
Hansford County | 1/16/18 | Attainment/Unclassifiable
Hardeman County | 1/16/18 | Attainment/Unclassifiable
Hardin County | 1/16/18 | Attainment/Unclassifiable
Harrison County | 1/16/18 | Attainment/Unclassifiable
Hartley County | 1/16/18 | Attainment/Unclassifiable
Haskell County | 1/16/18 | Attainment/Unclassifiable
Hays County | 1/16/18 | Attainment/Unclassifiable
Hemphill County | 1/16/18 | Attainment/Unclassifiable
Henderson County |  | Attainment/Unclassifiable
Hidalgo County | 1/16/18 | Attainment/Unclassifiable
Hill County |  | Attainment/Unclassifiable
Hockley County | 1/16/18 | Attainment/Unclassifiable
Hood County |  | Attainment/Unclassifiable
Hopkins County |  | Attainment/Unclassifiable
Houston County | 1/16/18 | Attainment/Unclassifiable
Howard County | 1/16/18 | Attainment/Unclassifiable
Hudspeth County |  | Attainment/Unclassifiable
Hunt County |  | Attainment/Unclassifiable
Hutchinson County | 1/16/18 | Attainment/Unclassifiable
Irion County | 1/16/18 | Attainment/Unclassifiable
Jack County |  | Attainment/Unclassifiable
Jackson County | 1/16/18 | Attainment/Unclassifiable
Jasper County | 1/16/18 | Attainment/Unclassifiable
Jeff Davis County | 1/16/18 | Attainment/Unclassifiable
Jefferson County | 1/16/18 | Attainment/Unclassifiable
Jim Hogg County | 1/16/18 | Attainment/Unclassifiable
Jim Wells County | 1/16/18 | Attainment/Unclassifiable
Jones County | 1/16/18 | Attainment/Unclassifiable
Karnes County | 1/16/18 | Attainment/Unclassifiable
Kenedy County | 1/16/18 | Attainment/Unclassifiable
Kent County | 1/16/18 | Attainment/Unclassifiable
Kerr County | 1/16/18 | Attainment/Unclassifiable
Kimble County | 1/16/18 | Attainment/Unclassifiable
King County | 1/16/18 | Attainment/Unclassifiable
Kinney County | 1/16/18 | Attainment/Unclassifiable
Kleberg County | 1/16/18 | Attainment/Unclassifiable
Knox County | 1/16/18 | Attainment/Unclassifiable
Lamar County | 1/16/18 | Attainment/Unclassifiable
Lamb County | 1/16/18 | Attainment/Unclassifiable
Lampasas County | 1/16/18 | Attainment/Unclassifiable
La Salle County | 1/16/18 | Attainment/Unclassifiable
Lavaca County | 1/16/18 | Attainment/Unclassifiable
Lee County | 1/16/18 | Attainment/Unclassifiable
Leon County | 1/16/18 | Attainment/Unclassifiable
Liberty County |  | Attainment/Unclassifiable
Limestone County | 1/16/18 | Attainment/Unclassifiable
Lipscomb County | 1/16/18 | Attainment/Unclassifiable
Live Oak County | 1/16/18 | Attainment/Unclassifiable
Llano County | 1/16/18 | Attainment/Unclassifiable
Loving County | 1/16/18 | Attainment/Unclassifiable
Lubbock County | 1/16/18 | Attainment/Unclassifiable
Lynn County | 1/16/18 | Attainment/Unclassifiable
Matagorda County |  | Attainment/Unclassifiable
McCulloch County | 1/16/18 | Attainment/Unclassifiable
McLennan County | 1/16/18 | Attainment/Unclassifiable
McMullen County | 1/16/18 | Attainment/Unclassifiable
Madison County | 1/16/18 | Attainment/Unclassifiable
Marion County | 1/16/18 | Attainment/Unclassifiable
Martin County | 1/16/18 | Attainment/Unclassifiable
Mason County | 1/16/18 | Attainment/Unclassifiable
Maverick County | 1/16/18 | Attainment/Unclassifiable
Menard County | 1/16/18 | Attainment/Unclassifiable
Midland County | 1/16/18 | Attainment/Unclassifiable
Milam County | 1/16/18 | Attainment/Unclassifiable
Mills County | 1/16/18 | Attainment/Unclassifiable
Mitchell County | 1/16/18 | Attainment/Unclassifiable
Montague County | 1/16/18 | Attainment/Unclassifiable
Moore County | 1/16/18 | Attainment/Unclassifiable
Morris County | 1/16/18 | Attainment/Unclassifiable
Motley County | 1/16/18 | Attainment/Unclassifiable
Nacogdoches County | 1/16/18 | Attainment/Unclassifiable
Navarro County |  | Attainment/Unclassifiable
Newton County | 1/16/18 | Attainment/Unclassifiable
Nolan County | 1/16/18 | Attainment/Unclassifiable
Nueces County | 1/16/18 | Attainment/Unclassifiable
Ochiltree County | 1/16/18 | Attainment/Unclassifiable
Oldham County | 1/16/18 | Attainment/Unclassifiable
Orange County | 1/16/18 | Attainment/Unclassifiable
Palo Pinto County |  | Attainment/Unclassifiable
Panola County | 1/16/18 | Attainment/Unclassifiable
Parmer County | 1/16/18 | Attainment/Unclassifiable
Pecos County | 1/16/18 | Attainment/Unclassifiable
Polk County | 1/16/18 | Attainment/Unclassifiable
Potter County | 1/16/18 | Attainment/Unclassifiable
Presidio County | 1/16/18 | Attainment/Unclassifiable
Rains County | 1/16/18 | Attainment/Unclassifiable
Randall County | 1/16/18 | Attainment/Unclassifiable
Reagan County | 1/16/18 | Attainment/Unclassifiable
Real County | 1/16/18 | Attainment/Unclassifiable
Red River County | 1/16/18 | Attainment/Unclassifiable
Reeves County | 1/16/18 | Attainment/Unclassifiable
Refugio County | 1/16/18 | Attainment/Unclassifiable
Roberts County | 1/16/18 | Attainment/Unclassifiable
Robertson County | 1/16/18 | Attainment/Unclassifiable
Rockwall County |  | Attainment/Unclassifiable
Runnels County | 1/16/18 | Attainment/Unclassifiable
Rusk County | 1/16/18 | Attainment/Unclassifiable
Sabine County | 1/16/18 | Attainment/Unclassifiable
San Augustine County | 1/16/18 | Attainment/Unclassifiable
San Jacinto County |  | Attainment/Unclassifiable
San Patricio County | 1/16/18 | Attainment/Unclassifiable
San Saba County | 1/16/18 | Attainment/Unclassifiable
Schleicher County | 1/16/18 | Attainment/Unclassifiable
Scurry County | 1/16/18 | Attainment/Unclassifiable
Shackelford County | 1/16/18 | Attainment/Unclassifiable
Shelby County | 1/16/18 | Attainment/Unclassifiable
Sherman County | 1/16/18 | Attainment/Unclassifiable
Smith County | 1/16/18 | Attainment/Unclassifiable
Somervell County |  | Attainment/Unclassifiable
Starr County | 1/16/18 | Attainment/Unclassifiable
Stephens County | 1/16/18 | Attainment/Unclassifiable
Sterling County | 1/16/18 | Attainment/Unclassifiable
Stonewall County | 1/16/18 | Attainment/Unclassifiable
Sutton County | 1/16/18 | Attainment/Unclassifiable
Swisher County | 1/16/18 | Attainment/Unclassifiable
Taylor County | 1/16/18 | Attainment/Unclassifiable
Terrell County | 1/16/18 | Attainment/Unclassifiable
Terry County | 1/16/18 | Attainment/Unclassifiable
Throckmorton County | 1/16/18 | Attainment/Unclassifiable
Titus County | 1/16/18 | Attainment/Unclassifiable
Tom Green County | 1/16/18 | Attainment/Unclassifiable
Travis County | 1/16/18 | Attainment/Unclassifiable
Trinity County |  | Attainment/Unclassifiable
Tyler County | 1/16/18 | Attainment/Unclassifiable
Upshur County | 1/16/18 | Attainment/Unclassifiable
Upton County | 1/16/18 | Attainment/Unclassifiable
Uvalde County | 1/16/18 | Attainment/Unclassifiable
Val Verde County | 1/16/18 | Attainment/Unclassifiable
Van Zandt County | 1/16/18 | Attainment/Unclassifiable
Victoria County | 1/16/18 | Attainment/Unclassifiable
Ward County | 1/16/18 | Attainment/Unclassifiable
Webb County | 1/16/18 | Attainment/Unclassifiable
Walker County |  | Attainment/Unclassifiable
Waller County |  | Attainment/Unclassifiable
Washington County |  | Attainment/Unclassifiable
Wharton County |  | Attainment/Unclassifiable
Wheeler County | 1/16/18 | Attainment/Unclassifiable
Wichita County | 1/16/18 | Attainment/Unclassifiable
Wilbarger County | 1/16/18 | Attainment/Unclassifiable
Willacy County | 1/16/18 | Attainment/Unclassifiable
Williamson County | 1/16/18 | Attainment/Unclassifiable
Winkler County | 1/16/18 | Attainment/Unclassifiable
Wood County | 1/16/18 | Attainment/Unclassifiable
Yoakum County | 1/16/18 | Attainment/Unclassifiable
Young County | 1/16/18 | Attainment/Unclassifiable
Zapata County | 1/16/18 | Attainment/Unclassifiable
Zavala County | 1/16/18 | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

29. Section 81.345 is amended by revising the table titled “Utah—2015 8-Hour Ozone NAAQS (Primary and Secondary)” to read as follows:

§ 81.345 Utah.

* * * * *

Utah—2015 8-Hour Ozone NAAQS
[Primary and Secondary]
Designated area ¹ | Designation: Date ² | Designation: Type | Classification: Date ² | Classification: Type
Northern Wasatch Front, UT |  | Nonattainment |  | Marginal.
Weber County (part):
All portions of Weber County west of and including Townships 5, 6, and that portion of 7 North Range 1 West that are west of the ridgeline that traces the Wasatch Mountains from the southeast corner of the township to the easternmost extension of the county boundary within the township.
Tooele County (part):
In Tooele County, the following Townships or portions thereof as noted (including Tooele City):
Township 1 South Range 3 West.
Township 2 South Range 3 West.
Township 3 South Range 3 West.
Township 3 South Range 4 West.
Township 2 South Range 4 West.
Township 2 South Range 5 West.
Township 3 South Range 5 West.
Township 3 South Range 6 West.
Township 2 South Range 6 West.
Township 1 South Range 6 West.
Township 1 South Range 5 West.
Township 1 South Range 4 West.
Township 1 South Range 7 West.
Township 2 South Range 7 West.
Township 3 South Range 7 West.
All Sections within Township 4 South Range 7 West except for Sections 29, 30, 31 and 32.
Township 4 South Range 6 West.
Township 4 South Range 5 West.
Township 4 South Range 4 West.
Township 4 South Range 3 West.
Salt Lake County.
Davis County.
Southern Wasatch Front, UT |  | Nonattainment |  | Marginal.
Utah County (part):
All portions of Utah County west of and including any portion of the following townships located within Utah County:
Township 3 South Range 1 East.
Township 4 South Range 2 East.
Township 5 South Range 3 East.
Township 6 South Range 3 East.
Township 7 South Range 3 East.
Township 8 South Range 3 East.
Township 9 South Range 3 East.
Township 10 South Range 2 East.
Uinta Basin, UT³ |  | Nonattainment |  | Marginal.
Duchesne County (part):
All land in Duchesne County below a contiguous external perimeter of 6,250 ft. in elevation. All areas within that contiguous external perimeter are included in the nonattainment area—including mesas and buttes which may have an elevation greater than 6,250 ft., but which are surrounded on all sides by land lower than 6,250 ft. Additionally, areas that fall outside the 6,250 ft. contiguous external perimeter that have elevations less than 6,250 ft. are excluded from the nonattainment area. The boundary is defined by the 6,250 ft. contour line created from the 2013 USGS 10-meter seamless Digital Elevation Model (USGS NED n41w110 ⅓ arc-second 2013 1 × 1 degree IMG).
Uintah County (part):
All land in Uintah County below a contiguous external perimeter of 6,250 ft. in elevation. All areas within that contiguous external perimeter are included in the nonattainment area—including mesas and buttes which may have an elevation greater than 6,250 ft., but which are surrounded on all sides by land lower than 6,250 ft. Additionally, areas that fall outside the 6,250 ft. contiguous external perimeter that have elevations less than 6,250 ft. are excluded from the nonattainment area. The boundary is defined by the 6,250 ft. contour line created from the 2013 USGS 10-meter seamless Digital Elevation Model (USGS NED n41w110 ⅓ arc-second 2013 1 × 1 degree IMG).
Beaver County | 1/16/18 | Attainment/Unclassifiable
Box Elder |  | Attainment/Unclassifiable
Cache County |  | Attainment/Unclassifiable
Carbon County |  | Attainment/Unclassifiable
Daggett County |  | Attainment/Unclassifiable
Duchesne County (part) remainder |  | Attainment/Unclassifiable
Emery County | 1/16/18 | Attainment/Unclassifiable
Garfield County | 1/16/18 | Attainment/Unclassifiable
Grand County |  | Attainment/Unclassifiable
Iron County | 1/16/18 | Attainment/Unclassifiable
Juab County |  | Attainment/Unclassifiable
Kane County | 1/16/18 | Attainment/Unclassifiable
Millard County | 1/16/18 | Attainment/Unclassifiable
Morgan County |  | Attainment/Unclassifiable
Piute County | 1/16/18 | Attainment/Unclassifiable
Rich County |  | Attainment/Unclassifiable
San Juan County | 1/16/18 | Attainment/Unclassifiable
Sanpete County |  | Attainment/Unclassifiable
Sevier County | 1/16/18 | Attainment/Unclassifiable
Summit County |  | Attainment/Unclassifiable
Tooele County (part) remainder |  | Attainment/Unclassifiable
Uintah County (part) remainder |  | Attainment/Unclassifiable
Utah County (part) remainder |  | Attainment/Unclassifiable
Wasatch County |  | Attainment/Unclassifiable
Washington County | 1/16/18 | Attainment/Unclassifiable
Wayne County | 1/16/18 | Attainment/Unclassifiable
Weber County (part) remainder |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.
³ The EPA is designating portions of the Uinta Basin as “nonattainment,” including both Tribal and State lands. The Ute Tribe has air quality planning jurisdiction in the areas of Indian country included in the Uinta Basin nonattainment area, while the State of Utah has air quality planning jurisdiction in the areas of State land included in the Uinta Basin nonattainment area.

* * * * *

30. Section 81.347 is amended by revising the table titled “Virginia—2015 8-Hour Ozone NAAQS (Primary and Secondary)” to read as follows:

§ 81.347 Virginia.

* * * * *

Virginia—2015 8-Hour Ozone NAAQS
[Primary and Secondary]
Designated area ¹ | Designation: Date ² | Designation: Type | Classification: Date ² | Classification: Type
Washington, DC-MD-VA |  | Nonattainment |  | Marginal.
Arlington County.
Fairfax County.
Loudoun County.
Prince William County.
Alexandria City.
Fairfax City.
Falls Church City.
Manassas City.
Manassas Park City.
Accomack County | 1/16/18 | Attainment/Unclassifiable
Albemarle County | 1/16/18 | Attainment/Unclassifiable
Alleghany County | 1/16/18 | Attainment/Unclassifiable
Amelia County | 1/16/18 | Attainment/Unclassifiable
Amherst County | 1/16/18 | Attainment/Unclassifiable
Appomattox County | 1/16/18 | Attainment/Unclassifiable
Augusta County | 1/16/18 | Attainment/Unclassifiable
Bath County | 1/16/18 | Attainment/Unclassifiable
Bedford County | 1/16/18 | Attainment/Unclassifiable
Bland County | 1/16/18 | Attainment/Unclassifiable
Botetourt County | 1/16/18 | Attainment/Unclassifiable
Brunswick County | 1/16/18 | Attainment/Unclassifiable
Buchanan County | 1/16/18 | Attainment/Unclassifiable
Buckingham County | 1/16/18 | Attainment/Unclassifiable
Campbell County | 1/16/18 | Attainment/Unclassifiable
Caroline County | 1/16/18 | Attainment/Unclassifiable
Carroll County | 1/16/18 | Attainment/Unclassifiable
Charles City County | 1/16/18 | Attainment/Unclassifiable
Charlotte County | 1/16/18 | Attainment/Unclassifiable
Chesterfield County | 1/16/18 | Attainment/Unclassifiable
Clarke County |  | Attainment/Unclassifiable
Craig County | 1/16/18 | Attainment/Unclassifiable
Culpeper County |  | Attainment/Unclassifiable
Cumberland County | 1/16/18 | Attainment/Unclassifiable
Dickenson County | 1/16/18 | Attainment/Unclassifiable
Dinwiddie County | 1/16/18 | Attainment/Unclassifiable
Essex County | 1/16/18 | Attainment/Unclassifiable
Fauquier County |  | Attainment/Unclassifiable
Floyd County | 1/16/18 | Attainment/Unclassifiable
Fluvanna County | 1/16/18 | Attainment/Unclassifiable
Franklin County | 1/16/18 | Attainment/Unclassifiable
Frederick County |  | Attainment/Unclassifiable
Fredericksburg City |  | Attainment/Unclassifiable
Giles County | 1/16/18 | Attainment/Unclassifiable
Gloucester County | 1/16/18 | Attainment/Unclassifiable
Goochland County | 1/16/18 | Attainment/Unclassifiable
Grayson County | 1/16/18 | Attainment/Unclassifiable
Greene County | 1/16/18 | Attainment/Unclassifiable
Greensville County | 1/16/18 | Attainment/Unclassifiable
Halifax County | 1/16/18 | Attainment/Unclassifiable
Hanover County | 1/16/18 | Attainment/Unclassifiable
Henrico County | 1/16/18 | Attainment/Unclassifiable
Henry County | 1/16/18 | Attainment/Unclassifiable
Highland County | 1/16/18 | Attainment/Unclassifiable
Isle of Wight County | 1/16/18 | Attainment/Unclassifiable
James City County | 1/16/18 | Attainment/Unclassifiable
King and Queen County | 1/16/18 | Attainment/Unclassifiable
King George County | 1/16/18 | Attainment/Unclassifiable
King William County | 1/16/18 | Attainment/Unclassifiable
Lancaster County | 1/16/18 | Attainment/Unclassifiable
Lee County | 1/16/18 | Attainment/Unclassifiable
Louisa County | 1/16/18 | Attainment/Unclassifiable
Lunenburg County | 1/16/18 | Attainment/Unclassifiable
Madison County | 1/16/18 | Attainment/Unclassifiable
Mathews County | 1/16/18 | Attainment/Unclassifiable
Mecklenburg County | 1/16/18 | Attainment/Unclassifiable
Middlesex County | 1/16/18 | Attainment/Unclassifiable
Montgomery County | 1/16/18 | Attainment/Unclassifiable
Nelson County | 1/16/18 | Attainment/Unclassifiable
New Kent County | 1/16/18 | Attainment/Unclassifiable
Northampton County | 1/16/18 | Attainment/Unclassifiable
Northumberland County | 1/16/18 | Attainment/Unclassifiable
Nottoway County | 1/16/18 | Attainment/Unclassifiable
Orange County | 1/16/18 | Attainment/Unclassifiable
Page County | 1/16/18 | Attainment/Unclassifiable
Patrick County | 1/16/18 | Attainment/Unclassifiable
Pittsylvania County | 1/16/18 | Attainment/Unclassifiable
Powhatan County | 1/16/18 | Attainment/Unclassifiable
Prince Edward County | 1/16/18 | Attainment/Unclassifiable
Prince George County | 1/16/18 | Attainment/Unclassifiable
Pulaski County | 1/16/18 | Attainment/Unclassifiable
Rappahannock County |  | Attainment/Unclassifiable
Richmond County | 1/16/18 | Attainment/Unclassifiable
Roanoke County | 1/16/18 | Attainment/Unclassifiable
Rockbridge County | 1/16/18 | Attainment/Unclassifiable
Rockingham County | 1/16/18 | Attainment/Unclassifiable
Russell County | 1/16/18 | Attainment/Unclassifiable
Scott County | 1/16/18 | Attainment/Unclassifiable
Shenandoah County | 1/16/18 | Attainment/Unclassifiable
Smyth County | 1/16/18 | Attainment/Unclassifiable
Southampton County | 1/16/18 | Attainment/Unclassifiable
Spotsylvania County |  | Attainment/Unclassifiable
Stafford County |  | Attainment/Unclassifiable
Surry County | 1/16/18 | Attainment/Unclassifiable
Sussex County | 1/16/18 | Attainment/Unclassifiable
Tazewell County | 1/16/18 | Attainment/Unclassifiable
Warren County |  | Attainment/Unclassifiable
Washington County | 1/16/18 | Attainment/Unclassifiable
Westmoreland County | 1/16/18 | Attainment/Unclassifiable
Winchester City |  | Attainment/Unclassifiable
Wise County | 1/16/18 | Attainment/Unclassifiable
Wythe County | 1/16/18 | Attainment/Unclassifiable
York County | 1/16/18 | Attainment/Unclassifiable
Bristol City | 1/16/18 | Attainment/Unclassifiable
Buena Vista City | 1/16/18 | Attainment/Unclassifiable
Charlottesville City | 1/16/18 | Attainment/Unclassifiable
Chesapeake City | 1/16/18 | Attainment/Unclassifiable
Colonial Heights City | 1/16/18 | Attainment/Unclassifiable
Covington City | 1/16/18 | Attainment/Unclassifiable
Danville City | 1/16/18 | Attainment/Unclassifiable
Emporia City | 1/16/18 | Attainment/Unclassifiable
Franklin City | 1/16/18 | Attainment/Unclassifiable
Galax City | 1/16/18 | Attainment/Unclassifiable
Hampton City | 1/16/18 | Attainment/Unclassifiable
Harrisonburg City | 1/16/18 | Attainment/Unclassifiable
Hopewell City | 1/16/18 | Attainment/Unclassifiable
Lexington City | 1/16/18 | Attainment/Unclassifiable
Lynchburg City | 1/16/18 | Attainment/Unclassifiable
Martinsville City | 1/16/18 | Attainment/Unclassifiable
Newport News City | 1/16/18 | Attainment/Unclassifiable
Norfolk City | 1/16/18 | Attainment/Unclassifiable
Norton City | 1/16/18 | Attainment/Unclassifiable
Petersburg City | 1/16/18 | Attainment/Unclassifiable
Poquoson City | 1/16/18 | Attainment/Unclassifiable
Portsmouth City | 1/16/18 | Attainment/Unclassifiable
Radford City | 1/16/18 | Attainment/Unclassifiable
Richmond City | 1/16/18 | Attainment/Unclassifiable
Roanoke City | 1/16/18 | Attainment/Unclassifiable
Salem City | 1/16/18 | Attainment/Unclassifiable
Staunton City | 1/16/18 | Attainment/Unclassifiable
Suffolk City | 1/16/18 | Attainment/Unclassifiable
Virginia Beach City | 1/16/18 | Attainment/Unclassifiable
Waynesboro City | 1/16/18 | Attainment/Unclassifiable
Williamsburg City | 1/16/18 | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

31. Section 81.348 is amended by revising the table titled “Washington—2015 8-Hour Ozone NAAQS (Primary and Secondary)” to read as follows:

§ 81.348 Washington.

* * * * *

Washington—2015 8-Hour Ozone NAAQS
[Primary and Secondary]
Designated area ¹ | Designation: Date ² | Designation: Type | Classification: Date ² | Classification: Type
Tri-Cities Area, WA | 1/16/18 | Unclassifiable
Benton County.
Franklin County.
Walla Walla County.
Adams County | 1/16/18 | Attainment/Unclassifiable
Asotin County | 1/16/18 | Attainment/Unclassifiable
Chelan County | 1/16/18 | Attainment/Unclassifiable
Clallam County | 1/16/18 | Attainment/Unclassifiable
Clark County |  | Attainment/Unclassifiable
Columbia County | 1/16/18 | Attainment/Unclassifiable
Cowlitz County |  | Attainment/Unclassifiable
Douglas County | 1/16/18 | Attainment/Unclassifiable
Ferry County | 1/16/18 | Attainment/Unclassifiable
Garfield County | 1/16/18 | Attainment/Unclassifiable
Grant County | 1/16/18 | Attainment/Unclassifiable
Grays Harbor County | 1/16/18 | Attainment/Unclassifiable
Island County | 1/16/18 | Attainment/Unclassifiable
Jefferson County | 1/16/18 | Attainment/Unclassifiable
King County | 1/16/18 | Attainment/Unclassifiable
Kitsap County | 1/16/18 | Attainment/Unclassifiable
Kittitas County | 1/16/18 | Attainment/Unclassifiable
Klickitat County | 1/16/18 | Attainment/Unclassifiable
Lewis County | 1/16/18 | Attainment/Unclassifiable
Lincoln County | 1/16/18 | Attainment/Unclassifiable
Mason County | 1/16/18 | Attainment/Unclassifiable
Okanogan County | 1/16/18 | Attainment/Unclassifiable
Pacific County | 1/16/18 | Attainment/Unclassifiable
Pend Oreille County | 1/16/18 | Attainment/Unclassifiable
Pierce County | 1/16/18 | Attainment/Unclassifiable
San Juan County | 1/16/18 | Attainment/Unclassifiable
Skagit County | 1/16/18 | Attainment/Unclassifiable
Skamania County |  | Attainment/Unclassifiable
Snohomish County | 1/16/18 | Attainment/Unclassifiable
Spokane County | 1/16/18 | Attainment/Unclassifiable
Stevens County | 1/16/18 | Attainment/Unclassifiable
Thurston County | 1/16/18 | Attainment/Unclassifiable
Wahkiakum County | 1/16/18 | Attainment/Unclassifiable
Whatcom County | 1/16/18 | Attainment/Unclassifiable
Whitman County | 1/16/18 | Attainment/Unclassifiable
Yakima County | 1/16/18 | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

32. Section 81.349 is amended by revising the table titled “West Virginia—2015 8-Hour Ozone NAAQS (Primary and Secondary)” to read as follows:

§ 81.349 West Virginia.

* * * * *

West Virginia—2015 8-Hour Ozone NAAQS
[Primary and Secondary]
Designated area ¹ | Designation: Date ² | Designation: Type | Classification: Date ² | Classification: Type
Barbour County | 1/16/18 | Attainment/Unclassifiable
Berkeley County |  | Attainment/Unclassifiable
Boone County | 1/16/18 | Attainment/Unclassifiable
Braxton County | 1/16/18 | Attainment/Unclassifiable
Brooke County | 1/16/18 | Attainment/Unclassifiable
Cabell County | 1/16/18 | Attainment/Unclassifiable
Calhoun County | 1/16/18 | Attainment/Unclassifiable
Clay County | 1/16/18 | Attainment/Unclassifiable
Doddridge County | 1/16/18 | Attainment/Unclassifiable
Fayette County | 1/16/18 | Attainment/Unclassifiable
Gilmer County | 1/16/18 | Attainment/Unclassifiable
Grant County | 1/16/18 | Attainment/Unclassifiable
Greenbrier County | 1/16/18 | Attainment/Unclassifiable
Hampshire County |  | Attainment/Unclassifiable
Hancock County | 1/16/18 | Attainment/Unclassifiable
Hardy County | 1/16/18 | Attainment/Unclassifiable
Harrison County | 1/16/18 | Attainment/Unclassifiable
Jackson County | 1/16/18 | Attainment/Unclassifiable
Jefferson County |  | Attainment/Unclassifiable
Kanawha County | 1/16/18 | Attainment/Unclassifiable
Lewis County | 1/16/18 | Attainment/Unclassifiable
Lincoln County | 1/16/18 | Attainment/Unclassifiable
Logan County | 1/16/18 | Attainment/Unclassifiable
McDowell County | 1/16/18 | Attainment/Unclassifiable
Marion County | 1/16/18 | Attainment/Unclassifiable
Marshall County | 1/16/18 | Attainment/Unclassifiable
Mason County | 1/16/18 | Attainment/Unclassifiable
Mercer County | 1/16/18 | Attainment/Unclassifiable
Mineral County | 1/16/18 | Attainment/Unclassifiable
Mingo County | 1/16/18 | Attainment/Unclassifiable
Monongalia County | 1/16/18 | Attainment/Unclassifiable
Monroe County | 1/16/18 | Attainment/Unclassifiable
Morgan County | 1/16/18 | Attainment/Unclassifiable
Nicholas County | 1/16/18 | Attainment/Unclassifiable
Ohio County | 1/16/18 | Attainment/Unclassifiable
Pendleton County | 1/16/18 | Attainment/Unclassifiable
Pleasants County | 1/16/18 | Attainment/Unclassifiable
Pocahontas County | 1/16/18 | Attainment/Unclassifiable
Preston County | 1/16/18 | Attainment/Unclassifiable
Putnam County | 1/16/18 | Attainment/Unclassifiable
Raleigh County | 1/16/18 | Attainment/Unclassifiable
Randolph County | 1/16/18 | Attainment/Unclassifiable
Ritchie County | 1/16/18 | Attainment/Unclassifiable
Roane County | 1/16/18 | Attainment/Unclassifiable
Summers County | 1/16/18 | Attainment/Unclassifiable
Taylor County | 1/16/18 | Attainment/Unclassifiable
Tucker County | 1/16/18 | Attainment/Unclassifiable
Tyler County | 1/16/18 | Attainment/Unclassifiable
Upshur County | 1/16/18 | Attainment/Unclassifiable
Wayne County | 1/16/18 | Attainment/Unclassifiable
Webster County | 1/16/18 | Attainment/Unclassifiable
Wetzel County | 1/16/18 | Attainment/Unclassifiable
Wirt County | 1/16/18 | Attainment/Unclassifiable
Wood County | 1/16/18 | Attainment/Unclassifiable
Wyoming County | 1/16/18 | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

33. Section 81.350 is amended revising the table titled “Wisconsin—2015 8-Hour Ozone NAAQS (Primary and Secondary)” to read as follows:

§ 81.350 Wisconsin.

* * * * *

Wisconsin—2015 8-Hour Ozone NAAQS
[Primary and Secondary]
Designated area ¹ | Designation: Date ² | Designation: Type | Classification: Date ² | Classification: Type
Chicago, IL-IN-WI |  | Nonattainment |  | Marginal.
Kenosha County (part):
Inclusive and east of 88th Avenue.
Door County, WI |  | Nonattainment |  | Marginal (Rural Transport).
Door County (part):
Newport State Park Boundary. | Manitowoc County, WI |  | Nonattainment |  | Marginal.
Manitowoc County (part):
Inclusive and east of the following roadways going from the northern county boundary to the southern county boundary: Saxonburg Road, Zander Road, Saxonburg Road, Tapawingo Road, Tannery Road, E County Road V, Tannery Road, E Hillcrest Road, Sunset Drive, County Road VV, Manitou Drive, County Road B, Goodwin Road, N Rapids Road, S Rapids Road, Calumet Avenue, Hecker Road, Silver Creek Road, Gass Lake Road, Clover Road, Center Road, County Road F, Westview Road, County Road X, S Union Road.
Northern Milwaukee/Ozaukee Shoreline, WI |  | Nonattainment |  | Marginal.
Milwaukee County (part):
Northeastern corner of Milwaukee County bounded by and inclusive of the following roadways going from the northern county border to Lake Michigan: Highway 57/N. Sherman Blvd/N. 43rd Street to W. Mill Road to Highway 57/N. Green Bay Ave to W. Bender Road/Devon Street to N. Santa Monica Blvd to E. Belle Ave to southern boundary of Klode Park.
Ozaukee County (part):
Inclusive and east of County.
Road KW, Cedar Beach Road, 6 Mile Road, County Road A, Lovers Lane Road, Woodland Road, County Road KK, Willow Road, Highway 57, County Road W, N. Riverside Drive, E. Green Bay Avenue, S. Main Street, N. Green Bay Road, 12th Avenue, Wisconsin Avenue, Green Bay Road, S. Main Street, N. Cedarburg Road/Highway 57.
Sheboygan County, WI |  | Nonattainment |  | Marginal.
Sheboygan County (part):
Inclusive and east of the following roadways going from the northern county boundary to the southern county boundary: Highway 43, Wilson Lima Road, Minderhaud Road, County Road KK/Town Line Road, N 10th Street, County Road A S/Center Avenue, Gibbons Road, Hoftiezer Road, Highway 32, Palmer Road/Smies Road/Palmer Road, Amsterdam Road/County Road RR, Termaat Road.
Adams County | 1/16/18 | Attainment/Unclassifiable
Ashland County | 1/16/18 | Attainment/Unclassifiable
Barron County | 1/16/18 | Attainment/Unclassifiable
Bayfield County | 1/16/18 | Attainment/Unclassifiable
Brown County |  | Attainment/Unclassifiable
Buffalo County | 1/16/18 | Attainment/Unclassifiable
Burnett County | 1/16/18 | Attainment/Unclassifiable
Calumet County |  | Attainment/Unclassifiable
Chippewa County | 1/16/18 | Attainment/Unclassifiable
Clark County | 1/16/18 | Attainment/Unclassifiable
Columbia County | 1/16/18 | Attainment/Unclassifiable
Crawford County | 1/16/18 | Attainment/Unclassifiable
Dane County | 1/16/18 | Attainment/Unclassifiable
Dodge County |  | Attainment/Unclassifiable
Door County (part) remainder |  | Attainment/Unclassifiable
Douglas County | 1/16/18 | Attainment/Unclassifiable
Dunn County | 1/16/18 | Attainment/Unclassifiable
Eau Claire County | 1/16/18 | Attainment/Unclassifiable
Florence County | 1/16/18 | Attainment/Unclassifiable
Fond du Lac County |  | Attainment/Unclassifiable
Forest County | 1/16/18 | Attainment/Unclassifiable
Grant County | 1/16/18 | Attainment/Unclassifiable
Green County | 1/16/18 | Attainment/Unclassifiable
Green Lake County | 1/16/18 | Attainment/Unclassifiable
Iowa County | 1/16/18 | Attainment/Unclassifiable
Iron County | 1/16/18 | Attainment/Unclassifiable
Jackson County | 1/16/18 | Attainment/Unclassifiable
Jefferson County |  | Attainment/Unclassifiable
Juneau County | 1/16/18 | Attainment/Unclassifiable
Kenosha County (part) remainder |  | Attainment/Unclassifiable
Kewaunee County |  | Attainment/Unclassifiable
La Crosse County | 1/16/18 | Attainment/Unclassifiable
Lafayette County | 1/16/18 | Attainment/Unclassifiable
Langlade County | 1/16/18 | Attainment/Unclassifiable
Lincoln County | 1/16/18 | Attainment/Unclassifiable
Manitowoc County (part) remainder |  | Attainment/Unclassifiable
Marathon County | 1/16/18 | Attainment/Unclassifiable
Marinette County | 1/16/18 | Attainment/Unclassifiable
Marquette County | 1/16/18 | Attainment/Unclassifiable
Menominee County | 1/16/18 | Attainment/Unclassifiable
Milwaukee County (part) remainder |  | Attainment/Unclassifiable
Monroe County | 1/16/18 | Attainment/Unclassifiable
Oconto County | 1/16/18 | Attainment/Unclassifiable
Oneida County | 1/16/18 | Attainment/Unclassifiable
Outagamie County | 1/16/18 | Attainment/Unclassifiable
Ozaukee County (part) remainder |  | Attainment/Unclassifiable
Pepin County | 1/16/18 | Attainment/Unclassifiable
Pierce County | 1/16/18 | Attainment/Unclassifiable
Polk County | 1/16/18 | Attainment/Unclassifiable
Portage County | 1/16/18 | Attainment/Unclassifiable
Price County | 1/16/18 | Attainment/Unclassifiable
Racine County |  | Attainment/Unclassifiable
Richland County | 1/16/18 | Attainment/Unclassifiable
Rock County | 1/16/18 | Attainment/Unclassifiable
Rusk County | 1/16/18 | Attainment/Unclassifiable
St. Croix County | 1/16/18 | Attainment/Unclassifiable
Sauk County | 1/16/18 | Attainment/Unclassifiable
Sawyer County | 1/16/18 | Attainment/Unclassifiable
Shawano County | 1/16/18 | Attainment/Unclassifiable
Sheboygan County (part) remainder |  | Attainment/Unclassifiable
Taylor County | 1/16/18 | Attainment/Unclassifiable
Trempealeau County | 1/16/18 | Attainment/Unclassifiable
Vernon County | 1/16/18 | Attainment/Unclassifiable
Vilas County | 1/16/18 | Attainment/Unclassifiable
Walworth County |  | Attainment/Unclassifiable
Washburn County | 1/16/18 | Attainment/Unclassifiable
Washington County |  | Attainment/Unclassifiable
Waukesha County |  | Attainment/Unclassifiable
Waupaca County | 1/16/18 | Attainment/Unclassifiable
Waushara County | 1/16/18 | Attainment/Unclassifiable
Winnebago County | 1/16/18 | Attainment/Unclassifiable
Wood County | 1/16/18 | Attainment/Unclassifiable
Forest County Potawatomi Community Indian Tribe ³ | 1/16/18 | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.
³ Includes Indian country of the tribe listed in this table located in Forest County, Wisconsin. Information pertaining to areas of Indian country in this table is intended for Clean Air Act planning purposes only and is not an EPA determination of Indian country status or any Indian country boundary. EPA lacks the authority to establish Indian country land status, and is making no determination of Indian country boundaries, in this table.

* * * * *

34. Section 81.351 is amended by revising the table titled “Wyoming—2015 8-Hour Ozone NAAQS (Primary and Secondary)” to read as follows:

§ 81.351 Wyoming.

* * * * *

Wyoming—2015 8-Hour Ozone NAAQS
[Primary and Secondary]
Designated area ¹ | Designation: Date ² | Designation: Type | Classification: Date ² | Classification: Type
Albany County |  | Attainment/Unclassifiable
Big Horn County | 1/16/18 | Attainment/Unclassifiable
Campbell County | 1/16/18 | Attainment/Unclassifiable
Carbon County | 1/16/18 | Attainment/Unclassifiable
Converse County | 1/16/18 | Attainment/Unclassifiable
Crook County | 1/16/18 | Attainment/Unclassifiable
Fremont County | 1/16/18 | Attainment/Unclassifiable
Goshen County | 1/16/18 | Attainment/Unclassifiable
Hot Springs County | 1/16/18 | Attainment/Unclassifiable
Johnson County | 1/16/18 | Attainment/Unclassifiable
Laramie County |  | Attainment/Unclassifiable
Lincoln County | 1/16/18 | Attainment/Unclassifiable
Natrona County | 1/16/18 | Attainment/Unclassifiable
Niobrara County | 1/16/18 | Attainment/Unclassifiable
Park County | 1/16/18 | Attainment/Unclassifiable
Platte County | 1/16/18 | Attainment/Unclassifiable
Sheridan County | 1/16/18 | Attainment/Unclassifiable
Sublette County | 1/16/18 | Attainment/Unclassifiable
Sweetwater County | 1/16/18 | Attainment/Unclassifiable
Teton County | 1/16/18 | Attainment/Unclassifiable
Uinta County | 1/16/18 | Attainment/Unclassifiable
Washakie County | 1/16/18 | Attainment/Unclassifiable
Weston County | 1/16/18 | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

[FR Doc. 2018-11838 Filed 6-1-18; 8:45 am]

BILLING CODE 6560-50-P